ENVIRONMENTAL PROTECTION AGENCY

40 CFR Part 52

[AZ-127-NBK; FRL-9948-55-Region 9]

Approval and Promulgation of Implementation Plans; State of Arizona; Revised Format for Materials Incorporated by Reference

AGENCY: Environmental Protection Agency (EPA).

ACTION: Final rule; notice of administrative change.

SUMMARY: The Environmental Protection Agency (EPA) is revising the format for materials submitted by the State of Arizona that are incorporated by reference (IBR) into the Arizona State Implementation Plan (SIP). The regulations affected by this format change have all been previously submitted by the State of Arizona and approved by the EPA. This format revision will primarily affect the “Identification of plan” section, as well as the format of the SIP materials that will be available for public inspection at the National Archives and Records Administration (NARA) and the EPA Regional Office. The EPA is also adding a table in the “Identification of plan” section which summarizes the approval actions that the EPA has taken on the non-regulatory and quasi-regulatory portions of the Arizona SIP.

DATES: Effective Date: This rule is effective on November 23, 2016.

ADDRESSES: SIP materials which are incorporated by reference into 40 CFR part 52 are available for inspection at the following locations:

Air Division, U.S. Environmental Protection Agency, Region IX, 75 Hawthorne Street, San Francisco, CA 94105-3901; and

National Archives and Records Administration.

For information on the availability of this material at NARA, call 202-741-6030, or go to: http://www.archives.gov/federal-register/cfr/ibr-locations.html.

FOR FURTHER INFORMATION CONTACT: Kevin Gong, EPA Region IX, (415) 972-3073, gong.kevin@epa.gov.

SUPPLEMENTARY INFORMATION: Throughout this document, wherever “we”, “us” or “our” are used, we mean the EPA. Information is organized as follows:

Table of Contents

I. Background

A. What a SIP Is

B. How the EPA Enforces SIPs

C. How the State and the EPA Update the SIP

D. How the EPA Compiles the SIPs

E. How the EPA Organizes the SIP Compilation

F. Where You Can Find a Copy of the SIP Compilation

G. The Format of the New Identification of Plan Section

H. When a SIP Revision Becomes Federally Enforceable

I. The Historical Record of SIP Revision Approvals

II. What the EPA Is Doing in This Action

III. Incorporation by Reference

IV. Statutory and Executive Order Reviews

I. Background

A. What a SIP Is

Each State has a SIP containing the control measures and strategies used to attain and maintain the national ambient air quality standards (NAAQS). The SIP is extensive, containing such elements as air pollution control regulations, emission inventories, monitoring network, attainment demonstrations, and enforcement mechanisms.

B. How the EPA Enforces SIPs

Each state must formally adopt the control measures and strategies in the SIP after the public has had an opportunity to comment on them. They are then submitted to the EPA as SIP revisions upon which the EPA must formally act. Once these control measures and strategies are approved by the EPA, after notice and comment, they are incorporated into the Federally approved SIP and are identified in part 52 (Approval and Promulgation of Implementation Plans), title 40 of the Code of Federal Regulations (40 CFR part 52). The actual state regulations approved by the EPA are not reproduced in their entirety in 40 CFR part 52, but are “incorporated by reference” (IBR'd) which means that the EPA has approved a given state regulation with a specific effective date. This format allows both the EPA and the public to know which measures are contained in a given SIP and ensures that the state is enforcing the regulations. It also allows the EPA and the public to take enforcement action, should a state not enforce its SIP-approved regulations.

C. How the State and the EPA Update the SIP

The SIP is a living document that the state can revise as necessary to address the unique air pollution problems in the state. Therefore, the EPA must, from time to time, take action on SIP revisions containing new and/or revised regulations in order to make them part of the SIP. On May 22, 1997 (62 FR 27968), the EPA revised the procedures for IBR'ing Federally-approved SIPs, as a result of consultations between the EPA and the Office of the Federal Register (OFR).

The EPA began the process of developing: (1) A revised SIP document for each state that would be IBR'd under the provisions of title 1 CFR part 51; (2) a revised mechanism for announcing the EPA's approval of revisions to an applicable SIP and updating both the IBR document and the CFR; and (3) a revised format of the “Identification of Plan” sections for each applicable subpart to reflect these revised IBR procedures. The description of the revised SIP document, IBR procedures, and “Identification of Plan” format are discussed in further detail in the May 22, 1997, Federal Register document.

D. How the EPA Compiles the SIPs

The Federally-approved regulations, source-specific requirements, and nonregulatory provisions (entirely or portions of) submitted by each state agency have been compiled by the EPA into a “SIP compilation.” The SIP compilation contains the updated regulations, source-specific requirements, and nonregulatory provisions approved by the EPA through previous rulemaking actions in the Federal Register.

E. How the EPA Organizes the SIP Compilation

Each compilation contains three parts. Part one contains the regulations, part two contains the source-specific requirements that have been approved as part of the SIP, and part three contains nonregulatory provisions that have been EPA-approved. Each part consists of a table of identifying information for each SIP-approved regulation, each SIP-approved source-specific requirement, and each nonregulatory SIP provision. In this action, the EPA is publishing the tables summarizing the applicable SIP requirements for Arizona. The EPA Regional Offices have the primary responsibility for updating the compilations and ensuring their accuracy.

F. Where You Can Find a Copy of the SIP Compilation

EPA Region IX developed and will maintain the compilation for Arizona. A copy of the full text of Arizona's regulatory and source-specific SIP compilation will also be maintained at NARA.

G. The Format of the New Identification of Plan Section

In order to better serve the public, the EPA revised the organization of the “Identification of Plan” section and included additional information to clarify the enforceable elements of the SIP. The revised Identification of Plan section contains five subsections:

1. Purpose and scope.

2. Incorporation by reference.

3. EPA-approved regulations.

4. EPA-approved source-specific requirements.

5. EPA-approved nonregulatory and quasi-regulatory provisions such as air quality attainment plans, rate of progress plans, maintenance plans, monitoring networks, and small business assistance programs.

H. When a SIP Revision Becomes Federally Enforceable

All revisions to the applicable SIP become Federally enforceable as of the effective date of the revisions to paragraphs (c), (d), or (e) of the applicable Identification of Plan section found in each subpart of 40 CFR part 52.

I. The Historical Record of SIP Revision Approvals

To facilitate enforcement of previously approved SIP provisions and provide a smooth transition to the new SIP processing system, the EPA retains the original Identification of Plan section, previously appearing in the CFR as the first or second section of part 52 for each state subpart. After an initial two-year period, the EPA will review its experience with the new system and enforceability of previously-approved SIP measures and will decide whether or not to retain the Identification of Plan appendices for some further period.

II. What the EPA Is Doing in This Action

Today's rule constitutes a “housekeeping” exercise to ensure that all revisions to the state programs that have occurred are accurately reflected in 40 CFR part 52. State SIP revisions are controlled by the EPA's regulations at 40 CFR part 51. When the EPA receives a formal SIP revision request, the Agency must publish the proposed revision in the Federal Register and provide for public comment before approval.

The EPA has determined that today's rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). Today's rule simply codifies provisions which are already in effect as a matter of law in Federal and approved state programs. Under section 553 of the APA, an agency may find good cause where procedures are “impractical, unnecessary, or contrary to the public interest.” Public comment is “unnecessary” and “contrary to the public interest” since the codification only reflects existing law. Immediate notice in the CFR benefits the public by removing outdated citations.

III. Incorporation by Reference

In this rule, the EPA is finalizing regulatory text that includes incorporation by reference. In accordance with requirements of 1 CFR 51.5, the EPA is reformatting the materials incorporated by reference in previous rulemakings on submittal of the Arizona SIP and SIP revisions. The EPA has made, and will continue to make, these documents generally available at the appropriate EPA office (see the ADDRESSES section of this preamble for more information).

IV. Statutory and Executive Order Reviews

A. General Requirements

Under Executive Order 12866 (58 FR 51735, October 4, 1993), this action is not a “significant regulatory action” and is therefore not subject to review by the Office of Management and Budget. This rule is not subject to Executive Order 13211, “Actions Concerning Regulations That Significantly Affect Energy Supply, Distribution, or Use” (66 FR 28355, May 22, 2001) because it is not a significant regulatory action under Executive Order 12866. Because the agency has made a “good cause” finding that this action is not subject to notice-and-comment requirements under the Administrative Procedure Act or any other statute as indicated in the SUPPLEMENTARY INFORMATION section above, it is not subject to the regulatory flexibility provisions of the Regulatory Flexibility Act (5 U.S.C. 601 et seq.), or to sections 202 and 205 of the Unfunded Mandates Reform Act of 1995 (UMRA) (Public Law 104-4). In addition, this action does not significantly or uniquely affect small governments or impose a significant intergovernmental mandate, as described in sections 203 and 204 of UMRA. This rule also does not have a substantial direct effect on one or more Indian tribes, on the relationship between the Federal government and Indian tribes, or on the distribution of power and responsibilities between the Federal government and Indian tribes, as specified by Executive Order 13175 (65 FR 67249, November 9, 2000), nor will it have substantial direct effects on the States, on the relationship between the national government and the States, or on the distribution of power and responsibilities among the various levels of government, as specified in Executive Order 13132 (64 FR 43255, August 10, 1999). This rule also is not subject to Executive Order 13045 (62 FR 19885, April 23, 1997), because it is not economically significant. This rule does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, the EPA has taken the necessary steps to eliminate drafting errors and ambiguity, minimize potential litigation, and provide a clear legal standard for affected conduct, as required by section 3 of Executive Order 12988 (61 FR 4729, February 7, 1996). The EPA has complied with Executive Order 12630 (63 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq.). The EPA's compliance with these statutes and Executive Orders for the underlying rules are discussed in previous actions taken on the State's rules.

B. Submission to Congress and the Comptroller General

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. Today's action simply codifies provisions which are already in effect as a matter of law in Federal and approved State programs. 5 U.S.C. 802(2). As stated previously, the EPA has made such a good cause finding, including the reasons therefore, and established an effective of November 23, 2016. The EPA will submit a report containing this rule and other required information to the U.S. Senate, the U.S. House of Representatives, and the Comptroller General of the United States prior to publication of the rule in the Federal Register. The change in format to the “Identification of plan” section for the State of Arizona are not a `major rule' as defined by 5 U.S.C. 804(2).

C. Petitions for Judicial Review

The EPA has also determined that the provisions of section 307(b)(1) of the Clean Air Act pertaining to petitions for judicial review are not applicable to this action. Prior EPA rulemaking actions for each individual component of the Arizona SIP compilations had previously afforded interested parties the opportunity to file a petition for judicial review in the United States Court of Appeals for the appropriate circuit within 60 days of such rulemaking action. Thus, the EPA sees no need in this action to reopen the 60-day period for filing such petitions for judicial review for these “Identification of plan” reorganization actions for Arizona.

List of Subjects in 40 CFR Part 52

Environmental protection, Air pollution control, Carbon monoxide, Incorporation by reference, Intergovernmental relations, Nitrogen dioxide, Ozone, Particulate matter, Reporting and recordkeeping requirements, Sulfur dioxide, Volatile organic compounds.

Dated: June 15, 2016.
Alexis Strauss,
Acting Regional Administrator, Region IX.

Note: This document was received by the Office of the Federal Register on November 14, 2016.

Part 52, chapter I, title 40 of the Code of Federal Regulations are amended as follows:

PART 52—APPROVAL AND PROMULGATION OF IMPLEMENTATION PLANS

1. The authority citation for part 52 continues to read as follows:

Authority: 42 U.S.C. 7401 et seq.

Subpart D—Arizona

2. Section 52.120 is redesignated as § 52.152 and the section heading and paragraph (a) are revised to read as follows:

§ 52.152 Original identification of plan.

(a) This section identified the original “The State of Arizona Air Pollution Control Implementation Plan” and all revisions submitted by the State of Arizona that were federally approved prior to June 30, 2016.

3. A new § 52.120 is added to read as follows:

§ 52.120 Identification of plan.

(a) Purpose and scope. This section sets forth the applicable State implementation plan for the State of Arizona under section 110 of the Clean Air Act, 42 U.S.C. 7401-7671q and 40 CFR part 51 to meet national ambient air quality standards.

(b) Incorporation by reference.

(1) Material listed in in paragraphs (c) and (d) of this section with an EPA approval date prior to June 30, 2016, was approved for incorporation by reference by the Director of the Federal Register in accordance with 5 U.S.C. 552(a) and 1 CFR part 51. Entries in paragraphs (c) and (d) of this section with the EPA approval dates after June 30, 2016 have been approved by EPA for inclusion in the State implementation plan and for incorporation by reference into the plan as it is contained in this section, and will be considered by the Director of the Federal Register for approval in the next update to the SIP compilation.

(2) EPA Region IX certifies that the materials provided by EPA at the addresses in paragraph (b)(3) of this section are an exact duplicate of the officially promulgated state rules/regulations which have been approved as part of the state implementation plan as of the dates referenced in paragraph (b)(1).

(3) Copies of the materials incorporated by reference into the state implementation plan may be inspected at the Region IX EPA Office at 75 Hawthorne Street, San Francisco, CA 94105; or the National Archives and Records Administration (NARA). To obtain the material, please call the Regional Office. You may also inspect the material with an EPA approval date prior to June 30, 2016 at the National Archives and Records Administration (NARA). For information on the availability of this material at NARA, go to: http://www.archives.gov/federal-register/cfr/ibr-locations.html.

(c) EPA-approved regulations.

Table 1—EPA-Approved Arizona Statutes
State citation | Title/subject | State effective date | EPA approval date | Additional explanation
ARIZONA REVISED STATUTES ¹
Title 9 (Cities and Towns)
Chapter 4 (General Powers)
Article 8 (Miscellaneous)
9-500.03 | Air quality control | May 22, 1987 | August 10, 1988, 53 FR 30224; vacated; restored on January 29, 1991, 56 FR 3219 | Approval only included subsection A, paragraphs 1 and 2, subsection B. Submitted on March 23, 1988. Senate Bill 1360, section 2.†
9-500.04, excluding paragraphs A.1, A.2, A.4, and A.10; paragraphs B through G; and paragraph I. | Air quality control; definitions | September 19, 2007 | December 3, 2013, 78 FR 72579 | Arizona Revised Statutes (Thomson/West, 2008). Submitted on May 25, 2012. ADEQ clarified and revised the May 25, 2012 submittal by letter dated September 26, 2013.
9-500.27, excluding paragraphs D and E. = | Off-road vehicle ordinance; applicability; violation; classification | September 19, 2007 | March 31, 2014, 79 FR 17878 | Arizona Revised Statutes (Thomson/West, 2008). Submitted on May 25, 2012. ADEQ clarified and revised the May 25, 2012 submittal by letter dated September 26, 2013.
Title 11 (Counties)
Chapter 6 (County Planning and Zoning)
Article 6 (Air Quality)
11-871, excluding paragraphs C through E. | Emissions control; no burn; exemptions; penalty | September 19, 2007 | March 31, 2014, 79 FR 17878 | Arizona Revised Statutes (West, 2012). Submitted on May 25, 2012. ADEQ clarified and revised the May 25, 2012 submittal by letter dated September 26, 2013.
11-877 | Air quality control measures | September 19, 2007 | December 3, 2013, 78 FR 72579 | Arizona Revised Statutes (West, 2012). Submitted on May 25, 2012. ADEQ clarified and revised the May 25, 2012 submittal by letter dated September 26, 2013.
Title 28 (Transportation)
Chapter 3 (Traffic and Vehicle Regulation)
Article 18 (Vehicle Size, Weight and Load)
28-1098, excluding paragraphs B and C | Vehicle loads; restrictions; civil penalties | September 19, 2007 | March 31, 2014, 79 FR 17878 | Arizona Revised Statutes (West, 2012). Submitted on May 25, 2012. ADEQ clarified and revised the May 25, 2012 submittal by letter dated September 26, 2013.
Title 36 (Public Health and Safety)
Chapter 14 (Air Pollution)
Article 3 (Annual Emissions Inspection of Motor Vehicles)
36-1776 | Fleet Emissions Inspection Stations; Certificates of Inspection; Dealer's Inventory; Investigations; Revocation of Permit. | January 1, 1981 | June 18, 1982, 47 FR 26382 | Submitted on August 5, 1981.
36-1777 | Authority of Director to Acquire Enforcement Equipment; Random Vehicle Tests. | January 1, 1981 | June 18, 1982, 47 FR 26382 | Submitted on August 5, 1981.
36-1778 | Improper Representation. | January 1, 1981 | June 18, 1982, 47 FR 26382 | Submitted on August 5, 1981.
36-1779 | False Certificates | January 1, 1981 | June 18, 1982, 47 FR 26382 | Submitted on August 5, 1981.
Title 41 (State Government)
Chapter 15 (Department of Weights and Measures)
Article 1 (General Provisions)
41-2051 (6), (10), (11), (12), and (13) | Definitions—“Certification,” “Department,” “Diesel fuel,” “Director,” and “E85” | September 26, 2008 | June 13, 2012, 77 FR 35279 | Laws 2008, Ch. 254, § 2. Submitted on September 21, 2009.
Article 3 (Method of Sale of Commodities and Services)
41-2083 | Standards for liquid fuels; exceptions | July 18, 1996 | June 8, 2000, 65 FR 36353; corrected March 18, 2004, 69 FR 12802 | Senate Bill 1002, section 26. In connection with approval of 1996 Carbon Monoxide Limited Maintenance Plan for the Tucson Air Planning Area (as updated August 1997). Previous versions approved in connection with the Maricopa County Ozone Plan.
Article 5 (Regulation)
41-2113(B)(4) | Violation; classification; jurisdiction | August 21, 1998 | March 4, 2004, 69 FR 10161. | Last amended Laws 1998, Ch. 146, § 16. Submitted on January 22, 2004.
41-2115 | Civil Penalties | July 18, 2000 | March 4, 2004, 69 FR 10161. | Last amended Laws 2000, Ch. 193, § 463. Submitted on January 22, 2004.
Article 6 (Motor Fuel)
41-2121 | Definitions | May 18, 1999 | June 8, 2000, 65 FR 36353. | Submitted on September 1, 1999. House Bill 2189, section 9. The definition of “gasoline” was superseded at 77 FR 35279 (September 19, 2007)
41-2121(5) | Definitions [“Gasoline”] | September 19, 2007 | June 13, 2012, 77 FR 35279 | Laws 2007, Ch. 292, § 11. Submitted on September 21, 2009.
41-2122 | Standards for oxygenated fuel; volatility exceptions | July 18, 1996 | June 8, 2000, 65 FR 36353; corrected March 18, 2004, 69 FR 12802 | Senate Bill 1002, section 27. In connection with approval of 1996 Carbon Monoxide Limited Maintenance Plan for the Tucson Air Planning Area (as updated August 1997).
41-2123 | Area A; sale of gasoline; oxygen content | August 6, 1999 | March 4, 2004, 69 FR 10161 | Last amended Laws 1999, Ch. 295, § 11. Submitted on January 22, 2004.
41-2124 | Area A; fuel formulation; rules | July 18, 2000 | March 4, 2004, 69 FR 10161 | Last amended Laws 2000, Ch. 405, § 21. Submitted on January 22, 2004.
41-2125 | Area B; sale of gasoline; oxygen content | July 18, 1996 | June 8, 2000, 65 FR 36353; corrected March 18, 2004, 69 FR 12802 | Senate Bill 1002, section 28. In connection with approval of 1996 Carbon Monoxide Limited Maintenance Plan for the Tucson Air Planning Area (as updated August 1997).
Article 7 (Gasoline Vapor Control)
41-2131 | Definitions | April 22, 2014 | November 16, 2015, 80 FR 70689 | House Bill 2128, section 5, effective through September 29, 2018. Includes the text that appears in all capital letters and excludes the text that appears in strikethrough. Submitted on September 2, 2014.
41-2131 | Definitions | April 22, 2014 | November 16, 2015, 80 FR 70689 | House Bill 2128, section 6, effective from and after September 30, 2018. Includes the text that appears in all capital letters and excludes the text that appears in strikethrough. Submitted on September 2, 2014.
41-2132 | Stage I vapor recovery systems | April 22, 2014 | November 16, 2015, 80 FR 70689 | House Bill 2128, section 7. Includes the text that appears in all capital letters and excludes the text that appears in strikethrough. Submitted on September 2, 2014.
41-2133 | Compliance schedules | April 22, 2014 | November 16, 2015, 80 FR 70689 | House Bill 2128, section 8. Includes the text that appears in all capital letters and excludes the text that appears in strikethrough. Submitted on September 2, 2014.
41-2135 | Stage II vapor recovery systems | April 22, 2014 | November 16, 2015, 80 FR 70689 | House Bill 2128, section 10. Includes the text that appears in all capital letters and excludes the text that appears in strikethrough. Submitted on September 2, 2014. ARS 41-2135 is repealed from and after September 30, 2018 pursuant to section 11 of House Bill 2128.
Title 49 (The Environment)
Chapter 1 (General Provisions)
49-107 | Local delegation of state authority | July 1, 1987 | November 2, 2015, 80 FR 67319 | Submitted on October 29, and supplemented on September 6, 2013 and July 2, 2014.
Chapter 3 (Air Quality)
Article 1 (General Provisions)
49-401.01 | Definitions | May 18, 1999 | June 8, 2000, 65 FR 36353 | Submitted on September 1, 1999. House Bill 2189, section 40.
Article 2 (State Air Pollution Control)
49-454 | Adjusted work hours | May 18, 1999 | June 8, 2000, 65 FR 36353 | Submitted on September 1, 1999. House Bill 2189, section 43.
49-457 | Agricultural best management practices committee; members; powers; permits; enforcement; preemption; definitions | May 29, 1998 | June 29, 1999, 64 FR 34726 | Submitted on September 4, 1998.
49-457.01 | Leaf blower use restrictions and training; leaf blowers equipment sellers; informational material; outreach; applicability | September 19, 2007 | December 3, 2013, 78 FR 72579 | Arizona Revised Statutes (Thomson/West, 2005 mail volume, 2012 cumulative pocket part). Submitted on May 25, 2012. ADEQ clarified and revised the May 25, 2012 submittal by letter dated September 26, 2013.
49-457.03, excluding paragraphs C and D | Off-road vehicles; pollution advisory days; applicability; penalties | September 19, 2007 | March 31, 2014, 79 FR 17878 | Arizona Revised Statutes (West, 2012 Cumulative Pocket Part). Submitted on May 25, 2012. ADEQ clarified and revised the May 25, 2012 submittal by letter dated September 26, 2013.
49-457.04 | Off-highway vehicle and all-terrain vehicle dealers; informational material; outreach; applicability | September 19, 2007 | March 31, 2014, 79 FR 17878 | Arizona Revised Statutes (West, 2012 Cumulative Pocket Part). Submitted on May 25, 2012. ADEQ clarified and revised the May 25, 2012 submittal by letter dated September 26, 2013.
49-457.05, excluding paragraph C and paragraphs E, F, G, and H | Dust action general permit; best management practices; applicability; definitions | July 20, 2011 | March 31, 2014, 79 FR 17879 | Arizona Revised Statutes (West, 2012 Cumulative Pocket Part). Submitted on May 25, 2012. ADEQ clarified and revised the May 25, 2012 submittal by letter dated September 26, 2013.
Article 3 (County Air Pollution Control)
49-474.01 | Additional board duties in nonattainment areas | May 22, 1987 | August 10, 1988, 53 FR 30224; vacated; restored on January 29, 1991, 56 FR 3219 | Submitted on March 23, 1988. Senate Bill 1360, section 18.†
49-474.01, excluding paragraphs A.1 through A.3, A.9, A.10; paragraphs C through G, and paragraph I | Additional board duties in vehicle emissions control areas; definitions | September 19, 2007 | December 3, 2013, 78 FR 72579 | Arizona Revised Statutes (Thomson/West, 2005 mail volume, 2012 cumulative pocket part). Submitted on May 25, 2012. ADEQ clarified and revised the May 25, 2012 submittal by letter dated September 26, 2013.
49-474.05 | Dust control; training; site coordinators | September 19, 2007 | December 3, 2013, 78 FR 72579 | Arizona Revised Statutes (Thomson/West, 2005 mail volume, 2012 cumulative pocket part). Submitted on May 25, 2012. ADEQ clarified and revised the May 25, 2012 submittal by letter dated September 26, 2013.
49-474.06 | Dust control; subcontractor registration; fee | September 19, 2007 | December 3, 2013, 78 FR 72579 | Arizona Revised Statutes (Thomson/West, 2005 mail volume, 2012 cumulative pocket part). Submitted on May 25, 2012. ADEQ clarified and revised the May 25, 2012 submittal by letter dated September 26, 2013.
49-501, excluding paragraph A.1, paragraphs B.2 through B.6, and paragraphs D, E, G, and H | Unlawful open burning; exceptions; civil penalty; definition | September 19, 2007 | March 31, 2014, 79 FR 17878 | Arizona Revised Statutes (West, 2012 Cumulative Pocket Part). Submitted on May 25, 2012. ADEQ clarified and revised the May 25, 2012 submittal by letter dated September 26, 2013.
49-506 | Voluntary No-drive Days | June 28, 1988 | August 10, 1988, 53 FR 30224; vacated; restored on January 29, 1991, 56 FR 3219 | Submitted on July 18, 1988. House Bill 2206, section 17.†
Article 5 (Annual Emissions Inspection of Motor Vehicles)
49-541 | Definitions | May 18, 1999 | June 8, 2000, 65 FR 36353 and also January 22, 2003, 68 FR 2912 | Submitted on September 1, 1999. House Bill 2189, 44th Legislature, 1st Regular Session (1999), section 44. Approved in rulemakings related to the Tucson carbon monoxide plan and Arizona VEI Program.
49-541, subsection (1) | Definitions [“Area A”] | August 9, 2001 | May 22, 2013, 78 FR 30209 | Submitted on May 25, 2012. Arizona Revised Statutes (West Group, 2001 Cumulative Pocket Part). Supported by an affidavit signed by Barbara Howe, Law Reference Librarian, Arizona State Library, Archives and Public Records on May 3, 2012, certifying authenticity of reproduction of A.R.S. § 49-451 (sic)(corrected to § 49-541 (2001 pocket part).
49-541.01, paragraphs D and E | Vehicle emissions inspection program; constant four wheel drive vehicles; requirements; location; violation; classification; penalties; new program termination | May 18, 1999 | March 9, 2005, 70 FR 11553 | Submitted on April 18, 2001 as part of the Revised MAG 1999 Serious Area Carbon Monoxide Plan for the Maricopa County Nonattainment Area, dated March 2001. Submitted as section 2 of H.B. 2254 (1999).
49-542 | Emissions inspection program; powers and duties of director; administration; periodic inspection; minimum standards and rules; exceptions; definition | June 21, 2013 | May 22, 2013, 78 FR 30209 | Submitted on November 6, 2009. Arizona Revised Statutes (Thomson West, 2008 Cumulative Pocket Part). Supported by an affidavit signed by Efrem K. Sepulveda, Law Librarian, Arizona State Library, Archives and Public Records on January 11, 2013, certifying authenticity of reproduction of A.R.S. § 49-542 (2008 edition) plus title page to pocket part of Title 49 (2008 edition).
49-542.05 | Alternative fuel vehicles | December 14, 2000 | January 22, 2003, 68 FR 2912 | Submitted on July 6, 2001. Senate Bill 1004, 44th Legislature, 7th Special Session (2000), section 23. Related to VEI Program.
49-543 | Emissions inspection costs; disposition; fleet inspection; certificates | May 7, 2001 | January 22, 2003, 68 FR 2912 | Submitted on April 10, 2002. House Bill 2538, 45th Legislature, 1st Regular Session (2001), section 11. Related to VEI Program.
49-544 | Emissions inspection fund; composition; authorized expenditures; exemptions; investment | May 20, 1998 | January 22, 2003, 68 FR 2912 | Submitted on July 6, 2001. Senate Bill 1007, 43rd Legislature, 4th Special Session (1998), section 15. Related to VEI Program.
49-545 | Agreement with independent contractor; qualifications of contractor; agreement provisions | April 28, 2000 | January 22, 2003, 68 FR 2912 | Submitted on July 6, 2001. House Bill 2104, 44th Legislature, 2nd Regular session (2000), section 5. Related to VEI Program.
49-550 | Violation; Classification; Civil Penalty | June 28, 1988 | August 10, 1988, 53 FR 30224; vacated; restored on January 29, 1991, 56 FR 3219 | Submitted on July 18, 1988. House Bill 2206, section 19.†
49-551 | Air quality fee; air quality fund; purpose | May 29, 1998 | January 22, 2003, 68 FR 2912 | Submitted on July 6, 2001. Senate Bill 1427, 43rd Legislature, 2nd Regular Session (1998), section 27. Related to VEI Program.
49-552 | Enforcement on city, town, county, school district or special district property | June 1, 1998 | March 9, 2005, 70 FR 11553 | Submitted on April 18, 2001 as part of the Revised MAG 1999 Serious Area Carbon Monoxide Plan for the Maricopa County Nonattainment Area, dated March 2001. Submitted as amended in section 28 of S.B. 1427 (1998).
49-553 | Reports to the Legislature by Department of Environmental Quality | June 28, 1988 | August 10, 1988, 53 FR 30224; vacated; restored on January 29, 1991, 56 FR 3219 | Submitted on July 18, 1988. House Bill 2206, section 21.†
49-557 | Government vehicles; emissions inspections; noncompliance; vehicle operation privilege suspension | January 1, 2002 | June 8, 2000, 65 FR 36353 | Submitted on September 1, 1999. House Bill 2254, section 5. Effective date set in section 8 of House Bill 2254.
Article 7 (Emissions Control)
49-571 | Clean burning alternative fuel requirements for new buses; definition | May 18, 1999 | June 8, 2000, 65 FR 36353 | Submitted on September 1, 1999. House Bill 2189, section 46.
49-573 | Emissions controls; federal vehicles; definition | January 1, 2002 | June 8, 2000, 65 FR 36353 | Submitted on September 1, 1999. House Bill 2254, section 6. Effective date set in section 8 of House Bill 2254.
Article 8 (Travel Reduction Programs)
49-581 | Definitions | December 31, 1988 | August 10, 1988, 53 FR 30224; vacated; restored on January 29, 1991, 56 FR 3219 | Submitted on July 18, 1988. House Bill 2206, section 23. House Bill section 25 lowered the threshold defining “major employer” from 500 or more employers between December 31, 1988-September 30, 1989, to 200 or more from September 30, 1989-December 31, 1989, to 100 or more thereafter. Delayed effective date per section 29 of HB 2206.†
49-582 | Travel Reduction Program Regional Task Force; Composition | December 31, 1988 | August 10, 1988, 53 FR 30224; vacated; restored on January 29, 1991, 56 FR 3219 | Submitted on July 18, 1988. House Bill 2206, section 23. Delayed effective date per section 29 of HB 2206.†
49-583 | Duties and Powers of the Task Force | December 31, 1988 | August 10, 1988, 53 FR 30224; vacated; restored on January 29, 1991, 56 FR 3219 | Submitted on July 18, 1988. House Bill 2206, section 23. Delayed effective date per section 29 of HB 2206.†
49-584 | Staff Duties | December 31, 1988 | August 10, 1988, 53 FR 30224; vacated; restored on January 29, 1991, 56 FR 3219 | Submitted on July 18, 1988. House Bill 2206, section 23. Delayed effective date per section 29 of HB 2206.†
49-585 | Powers and Duties of the Board | December 31, 1988 | August 10, 1988, 53 FR 30224; vacated; restored on January 29, 1991, 56 FR 3219 | Submitted on July 18, 1988. House Bill 2206, section 23. Delayed effective date per section 29 of HB 2206.†
49-586 | Enforcement by Cities or Towns | December 31, 1988 | August 10, 1988, 53 FR 30224; vacated; restored on January 29, 1991, 56 FR 3219 | Submitted on July 18, 1988. House Bill 2206, section 23. Delayed effective date per section 29 of HB 2206.†
49-588 | Requirements for Major Employers | December 31, 1988 | August 10, 1988, 53 FR 30224; vacated; restored on January 29, 1991, 56 FR 3219 | Submitted on July 18, 1988. House Bill 2206, section 23. Delayed effective date per section 29 of HB 2206.†
49-590 | Requirements for High Schools | December 31, 1988 | August 10, 1988, 53 FR 30224; vacated; restored on January 29, 1991, 56 FR 3219 | Submitted on July 18, 1988. House Bill 2206, section 23.†
49-593 | Violations; Civil Penalties | December 31, 1988 | August 10, 1988, 53 FR 30224; vacated; restored on January 29, 1991, 56 FR 3219 | Submitted on July 18, 1988. House Bill 2206, section 23. Delayed effective date per section 29 of HB 2206.†
¹ The statutory provisions listed in table 1 of paragraph (c) are considered regulatory. Other statutory provisions are considered nonregulatory and are listed in table 3 of paragraph (e).
† Vacated by the U.S. Court of Appeals for the Ninth Circuit in Delaney v. EPA, 898 F.2d 687 (9th Cir. 1990). Restored on January 29, 1991, 56 FR 3219.

Table 2—EPA-Approved Arizona Regulations
State citation | Title/subject | State effective date | EPA approval date | Additional explanation
ARIZONA ADMINISTRATIVE CODE
Title 9 (Health Services)
Chapter 3
Article 1
R9-3-101 | Definitions [“Begin actual construction”] | May 28, 1982 | May 3, 1983, 48 FR 19878 | Included 36 defined terms. All but one (“Begin actual construction”) have been superseded by subsequent approvals of R18-2-101, R18-2-217, R18-2-218, R18-2-301, R18-2-401, and R18-2-701. Submitted on June 3, 1982.
7-1-1.1 (R9-3-101) | Policy and Legal Authority | August 20, 1973 | July 31, 1978, 43 FR 33245 | Submitted on August 20, 1973.
7-1-1.3 (R9-3-103, excluding paragraph E) | Air Pollution Prohibited | August 20, 1973 | July 31, 1978, 43 FR 33245 | Submitted on August 20, 1973. EPA disapproved Paragraph E—see 40 CFR 52.133(b).
7-1-1.5 (R9-3-105) | Enforcement | August 20, 1973 | July 31, 1978, 43 FR 33245 | Submitted on August 20, 1973.
Article 2
R9-3-217, paragraph A | Attainment Areas; Classification and Standards | May 14, 1979 | April 23, 1982, 47 FR 17483 | Submitted on January 4, 1979. Paragraph B was deleted at 80 FR 67319 (November 2, 2015).
Article 3
R9-3-301, paragraphs I and K | Installation Permits: General | July 25, 1979 | May 5, 1982, 47 FR 19326 | Submitted on July 17, 1980. All of R9-3-301 (except for Paragraphs I (Requirement for preliminary determination) and K (Degree of increment consumption)) was deleted at 80 FR 67319 (November 2, 2015).
R9-3-304, paragraph H | Installation Permit Requirements for Sources located in Attainment and Unclassifiable Areas | May 28, 1982 | May 3, 1983, 48 FR 19878 | Paragraph H is untitled but sets forth special rules applicable to Federal land managers regarding visibility impacts. Relates to State PSD regulations. Submitted on June 3, 1982. All of R9-3-304 (except for paragraph H was deleted at 80 FR 67319 (November 2, 2015).
Article 4
7-1-4.5 (R9-3-405) | Sulfur Emissions: Other Industries | August 20, 1973 | July 31, 1978, 43 FR 33245 | Submitted on August 20, 1973.
R9-3-409 | Agricultural Practices | May 14, 1979 | April 23, 1982, 47 FR 17483 | Submitted on January 4, 1979.
Article 5
R9-3-505, paragraphs B to B.1, B.2, B.3 and B.4 | Standards of Performance for Existing Portland Cement Plants | May 28, 1982 | September 28, 1982, 47 FR 42572 | Submitted on June 3, 1982.
R9-3-505, paragraphs B.1.a and B.2.a | Standards of Performance for Existing Portland Cement Plants | July 25, 1979 | April 23, 1982, 47 FR 17483 | Submitted on July 17, 1980.
R9-3-505, paragraphs A, B.1.b, B.2.b, and B.3 to D | Standards of Performance for Existing Portland Cement Plants | May 14, 1979 | April 23, 1982, 47 FR 17483 | Submitted on January 4, 1979.
R9-3-508, paragraphs B to B.1, B.2, and B.5 | Standards of Performance for Existing Asphalt Concrete Plants | May 28, 1982 | September 28, 1982, 47 FR 42572 | Submitted on June 3, 1982.
R9-3-508, paragraphs B.1 to B.6 | Standards of Performance for Existing Asphalt Concrete Plants | July 25, 1979 | April 23, 1982, 47 FR 17483 | Submitted on April 1, 1980.
R9-3-508, paragraphs A and C | Standards of Performance for Existing Asphalt Concrete Plants | May 14, 1979 | April 23, 1982, 47 FR 17483 | Submitted on January 4, 1979.
R9-3-516, paragraphs A to A.1 and A.2 | Standards of Performance for Existing Coal Preparation Plants | May 28, 1982 | September 28, 1982, 47 FR 42572 | Submitted on June 3, 1982.
R9-3-516, paragraphs A.1 to A.6 | Standards of Performance for Existing Coal Preparation Plants | July 25, 1979 | April 23, 1982, 47 FR 17483 | Submitted on April 1, 1980.
R9-3-516, paragraph B | Standards of Performance for Existing Coal Preparation Plants | May 14, 1979 | April 23, 1982, 47 FR 17483 | Submitted on January 4, 1979.
R9-3-521, paragraphs A to A.1 and A.2 | Standards of Performance for Existing Nonferrous Metals Industry Sources | May 28, 1982 | September 28, 1982, 47 FR 42572 | Submitted on June 3, 1982.
R9-3-521, paragraphs A.1 to A.5 | Standards of Performance for Existing Nonferrous Metals Industry Sources | July 25, 1979 | April 23, 1982, 47 FR 17483 | Submitted on April 1, 1980.
R9-3-521, paragraphs B to D | Standards of Performance for Existing Nonferrous Metals Industry Sources | May 14, 1979 | April 23, 1982, 47 FR 17483 | Submitted on January 4, 1979.
R9-3-522, paragraphs A to A.1 and A.2 | Standards of Performance for Existing Gravel or Crushed Stone Processing Plants | May 28, 1982 | September 28, 1982, 47 FR 42572 | Submitted on June 3, 1982.
R9-3-522, paragraphs A.1 to A.5, B, and C | Standards of Performance for Existing Gravel or Crushed Stone Processing Plants | May 14, 1979 | April 23, 1982, 47 FR 17483 | Submitted on January 4, 1979.
Title 18 (Environmental Quality)
Chapter 2 (Department of Environmental Quality Air Pollution Control)
Article 1 (General)
R18-2-101, definitions (2), (32), (87), (109), and (122) | Definitions | August 7, 2012 | November 2, 2015, 80 FR 67319 | Includes definitions for “Actual emissions,” “Construction,” “Net emissions increase,” “Potential to emit,” and “Regulated NSR pollutant.” Submitted on October 29, 2012, and supplemented on September 6, 2013 and July 2, 2014.
R18-2-101 excluding definitions (2), (20), (32), (87), (109), and (122) | Definitions | August 7, 2012 | September 23, 2014, 79 FR 56655 | Includes 147 of the 153 total number of defined terms. Does not include “Actual emissions,” “Begin actual construction,” “Construction,” “Net emissions increase,” “Potential to emit,” and “Regulated NSR pollutant.” Submitted on October 29, 2012, and supplemented on September 6, 2013. AAC, title 18, chapter 2, supp. 12-2, June 30, 2012.
R18-2-102 | Incorporated materials | August 7, 2012 | September 23, 2014, 79 FR 56655 | Submitted on October 29, 2012, and supplemented on September 6, 2013. AAC, title 18, chapter 2, supp. 12-2, June 30, 2012.
Article 2 (Ambient Air Quality Standards; Area Designations; Classifications)
R18-2-201 | Particulate Matter: PM10 and PM2.5 | August 7, 2012 | September 23, 2014, 79 FR 56655 | Submitted on October 29, 2012, and supplemented on September 6, 2013. AAC, title 18, chapter 2, supp. 12-2, June 30, 2012.
R18-2-202 | Sulfur Oxides (Sulfur Dioxide) | August 7, 2012 | September 23, 2014, 79 FR 56655 | Submitted on October 29, 2012, and supplemented on September 6, 2013. AAC, title 18, chapter 2, supp. 12-2, June 30, 2012.
R18-2-203 | Ozone: One-hour Standard and Eight-hour Averaged Standard | August 7, 2012 | September 23, 2014, 79 FR 56655 | Submitted on October 29, 2012, and supplemented on September 6, 2013. AAC, title 18, chapter 2, supp. 12-2, June 30, 2012.
R18-2-204 | Carbon monoxide | September 26, 1990 | September 23, 2014, 79 FR 56655 | Submitted on July 28, 2011, and supplemented on May 16, 2014. AAC, title 18, chapter 2, supp. 12-2, June 30, 2012.
R18-2-205 | Nitrogen Oxides (Nitrogen Dioxide) | August 7, 2012 | September 23, 2014, 79 FR 56655 | Submitted on October 29, 2012, and supplemented on September 6, 2013. AAC, title 18, chapter 2, supp. 12-2, June 30, 2012.
R18-2-206 | Lead | August 7, 2012 | September 23, 2014, 79 FR 56655 | Submitted on October 29, 2012, and supplemented on September 6, 2013. AAC, title 18, chapter 2, supp. 12-2, June 30, 2012.
R18-2-210 | Attainment, Nonattainment, and Unclassifiable Area Designations | August 7, 2012 | September 23, 2014, 79 FR 56655 | Submitted on October 29, 2012 and supplemented on September 6, 2013. AAC, title 18, chapter 2, supp. 12-2, June 30, 2012.
R18-2-215 | Ambient air quality monitoring methods and procedures | September 26, 1990 | September 23, 2014, 79 FR 56655 | Submitted on October 29, 2012, and supplemented on September 6, 2013. AAC, title 18, chapter 2, supp. 12-2, June 30, 2012.
R18-2-216 | Interpretation of Ambient Air Quality Standards and Evaluation of Air Quality Data | March 7, 2009 | September 23, 2014, 79 FR 56655 | Submitted on October 29, 2012, and supplemented on September 6, 2013. AAC, title 18, chapter 2, supp. 12-2, June 30, 2012.
R18-2-217 | Designation and Classification of Attainment Areas | November 15, 1993 | November 2, 2015, 80 FR 67319 | Submitted on October 29, 2012, and supplemented on September 6, 2013 and July 2, 2014.
R18-2-218 | Limitation of Pollutants in Classified Attainment Areas | August 7, 2012 | November 2, 2015, 80 FR 67319 | Submitted on October 29, 2012, and supplemented on September 6, 2013 and July 2, 2014.
R18-2-220 | Air pollution emergency episodes, Department of Environmental Quality-Air Pollution Control | September 26, 1990 | October 15, 2012, 77 FR 62452 | Submitted on August 15, 1994.
Article 3 (Permits and Permit Revisions)
R18-2-301 | Definitions | August 7, 2012 | November 2, 2015, 80 FR 67319 | Submitted on October 29, 2012, and supplemented on September 6, 2013 and July 2, 2014.
R18-2-302 | Applicability; Registration; Classes of Permits | August 7, 2012 | November 2, 2015, 80 FR 67319 | Submitted on October 29, 2012, and supplemented on September 6, 2013 and July 2, 2014.
R18-2-302.01 | Source Registration Requirements | August 7, 2012 | November 2, 2015, 80 FR 67319 | Submitted on October 29, 2012, and supplemented on September 6, 2013 and July 2, 2014.
R18-2-303 | Transition from Installation and Operating Permit Program to Unitary Permit Program; Registration Transition; Minor NSR Transition | August 7, 2012 | November 2, 2015, 80 FR 67319 | Submitted on October 29, 2012, and supplemented on September 6, 2013 and July 2, 2014.
R18-2-304 | Permit Application Processing Procedures | August 7, 2012 | November 2, 2015, 80 FR 67319 | Submitted on October 29, 2012, and supplemented on September 6, 2013 and July 2, 2014.
R18-2-306 | Permit Contents | December 20, 1999 | November 2, 2015, 80 FR 67319 | Submitted on October 29, 2012, and supplemented on September 6, 2013 and July 2, 2014.
R18-2-306.01 | Permits Containing Voluntarily Accepted Emission Limitations and Standards | January 1, 2007 | November 2, 2015, 80 FR 67319 | Submitted on October 29, 2012, and supplemented on September 6, 2013 and July 2, 2014.
R18-2-306.02 | Establishment of an Emissions Cap | September 22, 1999 | November 2, 2015, 80 FR 67319 | Submitted on October 29, 2012, and supplemented on September 6, 2013 and July 2, 2014.
R18-2-310 | Affirmative Defenses for Excess Emissions Due to Malfunctions, Startup, and Shutdown | February 15, 2001 | September 18, 2001, 66 FR 48087 | Submitted on March 26, 2001.
R18-2-310.01 | Reporting Requirements | February 15, 2001 | September 18, 2001, 66 FR 48087 | Submitted on March 26, 2001.
R18-2-311 | Test Methods and Procedures | November 15, 1993 | November 2, 2015, 80 FR 67319 | Submitted on July 28, 2011.
R18-2-312 | Performance Tests | November 15, 1993 | November 2, 2015, 80 FR 67319 | Submitted on July 28, 2011.
R18-2-313 | Existing Source Emission Monitoring | February 15, 2001 | November 5, 2012, 77 FR 66405 | Submitted on August 24, 2012.
R18-2-315 | Posting of Permit | November 15, 1993 | November 2, 2015, 80 FR 67319 | Submitted on October 29, 2012, and supplemented on September 6, 2013 and July 2, 2014.
R18-2-316 | Notice by Building Permit Agencies | May 14, 1979 | November 2, 2015, 80 FR 67319 | Submitted on October 29, 2012, and supplemented on September 6, 2013 and July 2, 2014.
R18-2-319 | Minor Permit Revisions | August 7, 2012 | November 2, 2015, 80 FR 67319 | Submitted on October 29, 2012, and supplemented on September 6, 2013 and July 2, 2014.
R18-2-320 | Significant Permit Revisions | August 7, 2012 | November 2, 2015, 80 FR 67319 | Submitted on October 29, 2012, and supplemented on September 6, 2013 and July 2, 2014.
R18-2-321 | Permit Reopenings; Revocation and Reissuance; Termination | August 7, 2012 | November 2, 2015, 80 FR 67319 | Submitted on October 29, 2012, and supplemented on September 6, 2013 and July 2, 2014.
R18-2-323 | Permit Transfers | February 3, 2007 | November 2, 2015, 80 FR 67319 | Submitted on October 29, 2012, and supplemented on September 6, 2013 and July 2, 2014.
R18-2-327 | Annual Emissions inventory Questionnaire | December 7, 1995 | November 5, 2012, 77 FR 66405 | Submitted on August 24, 2012.
R18-2-330 | Public Participation | August 7, 2012 | November 2, 2015, 80 FR 67319 | Submitted on October 29, 2012, and supplemented on September 6, 2013 and July 2, 2014.
R18-2-332 | Stack Height Limitation | November 15, 1993 | November 2, 2015, 80 FR 67319 | Submitted on October 29, 2012, and supplemented on September 6, 2013 and July 2, 2014.
R18-2-334 | Minor New Source Review | August 7, 2012 | November 2, 2015, 80 FR 67319 | Submitted on October 29, 2012, and supplemented on September 6, 2013 and July 2, 2014.
Article 4 (Permit Requirements for New Major Sources and Major Modifications to Existing Major Sources)
R18-2-401 | Definitions | August 7, 2012 | November 2, 2015, 80 FR 67319 | Submitted on October 29, 2012, and supplemented on September 6, 2013 and July 2, 2014.
R18-2-402 | General | August 7, 2012 | November 2, 2015, 80 FR 67319 | Submitted on October 29, 2012, and supplemented on September 6, 2013 and July 2, 2014.
R18-2-403 | Permits for Sources Located in Nonattainment Areas | August 7, 2012 | November 2, 2015, 80 FR 67319 | Submitted on October 29, 2012, and supplemented on September 6, 2013 and July 2, 2014.
R18-2-404 | Offset Standards | August 7, 2012 | November 2, 2015, 80 FR 67319 | Submitted on October 29, 2012, and supplemented on September 6, 2013 and July 2, 2014.
R18-2-405 | Special Rule for Major Sources of VOC or Nitrogen Oxides in Ozone Nonattainment Areas Classified as Serious or Severe | August 7, 2012 | November 2, 2015, 80 FR 67319 | Submitted on October 29, 2012, and supplemented on September 6, 2013 and July 2, 2014.
R18-2-406 | Permit Requirements for Sources Located in Attainment and Unclassifiable Areas | August 7, 2012 | November 2, 2015, 80 FR 67319 | Submitted on October 29, 2012, and supplemented on September 6, 2013 and July 2, 2014.
R18-2-407, excluding subsection (H)(1)(c) | Air Quality Impact Analysis and Monitoring Requirements | August 7, 2012 | November 2, 2015, 80 FR 67319 | Submitted on October 29, 2012, and supplemented on September 6, 2013 and July 2, 2014.
R18-2-409 | Air Quality Models | November 15, 1993 | November 2, 2015, 80 FR 67319 | Submitted on October 29, 2012, and supplemented on September 6, 2013 and July 2, 2014.
R18-2-412 | PALs | August 7, 2012 | November 2, 2015, 80 FR 67319 | Submitted on October 29, 2012, and supplemented on September 6, 2013 and July 2, 2014.
Article 6 (Emissions from Existing and New Nonpoint Sources)
R18-2-601 | General | November 15, 1993 | September 23, 2014, 79 FR 56655 | Submitted on July 15, 1998, and supplemented on May 16, 2014. AAC, title 18, chapter 2, supp. 12-2, June 30, 2012.
R18-2-602 | Unlawful Open Burning | March 16, 2004 | May 16, 2006, 71 FR 28270 | Submitted on December 30, 2004.
R18-2-604 | Open Areas, Dry Washes or Riverbeds | November 15, 1993 | September 23, 2014, 79 FR 56655 | Submitted on July 15, 1998, and supplemented on May 16, 2014. AAC, title 18, chapter 2, supp. 12-2, June 30, 2012.
R18-2-605 | Roadways and Streets | November 15, 1993 | September 23, 2014, 79 FR 56655 | Submitted on July 15, 1998, and supplemented on May 16, 2014. AAC, title 18, chapter 2, supp. 12-2, June 30, 2012.
R18-2-606 | Material Handling | November 15, 1993 | September 23, 2014, 79 FR 56655 | Submitted on July 15, 1998, and supplemented on May 16, 2014. AAC, title 18, chapter 2, supp. 12-2, June 30, 2012.
R18-2-607 | Storage Piles | November 15, 1993 | September 23, 2014, 79 FR 56655 | Submitted on July 15, 1998, and supplemented on May 16, 2014. AAC, title 18, chapter 2, supp. 12-2, June 30, 2012.
R18-2-608 | Mineral Tailings | March 7, 2009 | September 23, 2014, 79 FR 56655 | Submitted on July 28, 2011, and supplemented on May 16, 2014. AAC, title 18, chapter 2, supp. 09-1, March 31, 2009.
R18-2-610 | [Definitions for R18-2-611] | May 12, 2000 | October 11, 2001, 66 FR 51869 | Submitted on July 11, 2000.
R18-2-611 | Agricultural PM10 General Permit; Maricopa PM10 Nonattainment Area | May 12, 2000 | October 11, 2001, 66 FR 51869 | Submitted on July 11, 2000.
R18-2-614 | Evaluation of nonpoint source emissions | August 7, 2012 | September 23, 2014, 79 FR 56655 | Submitted on July 15, 1998, and supplemented on May 16, 2014. AAC, title 18, chapter 2, supp. 12-2, June 30, 2012.
Article 7 (Existing Stationary Source Performance Standards)
R18-2-701 | Definitions | August 7, 2012 | September 23, 2014, 79 FR 56655 | Submitted on October 29, 2012, and supplemented on September 6, 2013. AAC, title 18, chapter 2, supp. 12-2, June 30, 2012.
R18-2-702 | General Provisions | February 3, 2004 | August 24, 2004, 69 FR 51952 | Establishes opacity standards. Submitted on January 16, 2004.
R18-2-703 | Standards of Performance for Existing Fossil-Fuel Fired Steam Generators and General Fuel Burning Equipment | March 7, 2009 | September 23, 2014, 79 FR 56655 | Submitted on July 28, 2011, and supplemented on May 16, 2014. AAC, title 18, chapter 2, supp. 09-1, March 31, 2009.
R18-2-704 | Standards of Performance for Incineration | August 4, 2007 | September 23, 2014, 79 FR 56655 | Submitted on July 28, 2011, and supplemented on May 16, 2014. AAC, title 18, chapter 2, supp. 09-1, March 31, 2009.
R18-2-706 | Standards of Performance for Existing Nitric Acid Plants | November 15, 1993 | September 23, 2014, 79 FR 56655 | Submitted on July 15, 1998, and supplemented on May 16, 2014. AAC, title 18, chapter 2, supp. 12-2, June 30, 2012.
R18-2-707 | Standards of Performance for Existing Sulfuric Acid Plants | November 15, 1993 | September 23, 2014, 79 FR 56655 | Submitted on July 15, 1998, and supplemented on May 16, 2014. AAC, title 18, chapter 2, supp. 12-2, June 30, 2012.
R18-2-710 | Standards of Performance for Existing Vessels for Petroleum Liquids | November 15, 1993 | March 24, 2003, 68 FR 14151 | Submitted on July 15, 1998.
R18-2-714 | Standards of Performance for Existing Sewage Treatment Plants | November 15, 1993 | September 23, 2014, 79 FR 56655 | Submitted on July 15, 1998, and supplemented on May 16, 2014. AAC, title 18, chapter 2, supp. 12-2, June 30, 2012.
R18-2-715, sections F, G, and H | Standards of Performance for Existing Primary Copper Smelters: Site-Specific Requirements | March 7, 2009 | September 23, 2014, 79 FR 56655 | Submitted on July 28, 2011, and supplemented on May 16, 2014. AAC, title 18, chapter 2, supp. 09-1, March 31, 2009.
R18-2-715.01 | Standards of Performance for Existing Primary Copper Smelters, Compliance and Monitoring | July 18, 2002 | November 1, 2004, 69 FR 63321 | Submitted on September 12, 2003.
R18-2-715.02 | Standards of Performance for Existing Primary Copper Smelters, Fugitive Emissions | November 15, 1993 | November 1, 2004, 69 FR 63321 | Submitted on July 15, 1998.
R18-2-719 | Standards of Performance for Existing Stationary Rotating Machinery | March 7, 2009 | September 23, 2014, 79 FR 56655 | Submitted on July 28, 2011, and supplemented on May 16, 2014. AAC, title 18, chapter 2, supp. 12-2, June 30, 2012.
R18-2-720 | Standards of Performance for Existing Lime Manufacturing Plants | March 7, 2009 | September 23, 2014, 79 FR 56655 | Submitted on July 28, 2011, and supplemented on May 16, 2014. AAC, title 18, chapter 2, supp. 09-1, March 31, 2009.
R18-2-723 | Standards of Performance for Existing Concrete Batch Plants | November 15, 1993 | September 23, 2014, 79 FR 56655 | Submitted on July 15, 1998, and supplemented on May 16, 2014. AAC, title 18, chapter 2, supp. 12-2, June 30, 2012.
R18-2-724 | Standards of Performance for Existing Fossil-Fuel Fired Industrial and Commercial Equipment | March 7, 2009 | September 23, 2014, 79 FR 56655 | Submitted on July 28, 2011, and supplemented on May 16, 2014. AAC, title 18, chapter 2, supp. 09-1, March 31, 2009.
R18-2-725 | Standards of Performance for Existing Dry Cleaning Plants | November 15, 1993 | March 24, 2003, 68 FR 14151 | Submitted on July 15, 1998.
R18-2-726 | Sandblasting Operations | November 15, 1993 | September 23, 2014, 79 FR 56655 | Submitted on July 15, 1998, and supplemented on May 16, 2014. AAC, title 18, chapter 2, supp. 12-2, June 30, 2012.
R18-2-727 | Standards of Performance for Spray Painting Operations | November 15, 1993 | March 24, 2003, 68 FR 14151 | Submitted on July 15, 1998.
R18-2-728 | Standards of Performance for Existing Ammonium Sulfide Manufacturing Plants | November 15, 1993 | September 23, 2014, 79 FR 56655 | Submitted on July 15, 1998, and supplemented on May 16, 2014. AAC, title 18, chapter 2, supp. 12-2, June 30, 2012.
R18-2-729 | Standards of Performance for Cotton Gins | August 4, 2007 | September 23, 2014, 79 FR 56655 | Submitted on July 28, 2011, and supplemented on May 16, 2014. AAC, title 18, chapter 2, supp. 09-1, March 31, 2009.
R18-2-730 | Standards of Performance for Unclassified Sources | March 7, 2009 | September 23, 2014, 79 FR 56655 | Submitted on July 28, 2011, and supplemented on May 16, 2014. AAC, title 18, chapter 2, supp. 09-1, March 31, 2009.
R18-2-732 | Standards of Performance for Existing Hospital/Medical/Infectious Waste Incinerators | August 4, 2007 | September 23, 2014, 79 FR 56655 | Submitted on July 28, 2011, and supplemented on May 16, 2014. AAC, title 18, chapter 2, supp. 09-2, June 30, 2009.
Article 8 (Emissions from Mobile Sources (New and Existing))
R18-2-801 | Classification of Mobile Sources | November 15, 1993 | March 24, 2003, 68 FR 14151 | Submitted on July 15, 1998.
R18-2-802 | Off-Road Machinery | November 15, 1993 | March 24, 2003, 68 FR 14151 | Submitted on July 15, 1998.
R18-2-803 | Heater-Planer Units | November 15, 1993 | March 24, 2003, 68 FR 14151 | Submitted on July 15, 1998.
R18-2-804 | Roadway and Site Cleaning Machinery | November 15, 1993 | March 24, 2003, 68 FR 14151 | Submitted on July 15, 1998.
R18-2-805 | Asphalt and Tar Kettles | November 15, 1993 | March 24, 2003, 68 FR 14151 | Submitted on July 15, 1998.
Article 10 (Motor Vehicles; Inspections and Maintenance)
R18-2-1001 | Definitions | December 20, 1999 | January 22, 2003, 68 FR 2912 | Submitted on July 6, 2001.
R18-2-1003 | Vehicles to be Inspected by the Mandatory Vehicle Emissions Inspection Program | June 28, 2000 | January 22, 2003, 68 FR 2912 | Submitted on July 6, 2001.
R18-2-1005 | Time of Inspection | December 20, 1999 | January 22, 2003, 68 FR 2912 | Submitted on July 6, 2001.
R18-2-1006 | Emissions Test Procedures | January 1, 2002 | January 22, 2003, 68 FR 2912 | Submitted on April 10, 2002.
R18-2-1007 | Evidence of Meeting State Inspection Requirements | December 20, 1999 | January 22, 2003, 68 FR 2912 | Submitted on July 6, 2001.
R18-2-1008 | Procedure for Issuing Certificates of Waiver | December 20, 1999 | January 22, 2003, 68 FR 2912 | Submitted on July 6, 2001.
R18-2-1009 | Tampering Repair Requirements | December 20, 1999 | January 22, 2003, 68 FR 2912 | Submitted on July 6, 2001.
R18-2-1010 | Low Emissions Tune-up, Emissions and Evaporative System Repair | December 20, 1999 | January 22, 2003, 68 FR 2912 | Submitted on July 6, 2001.
R18-2-1011 | Vehicle Inspection Report | December 20, 1999 | January 22, 2003, 68 FR 2912 | Submitted on July 6, 2001.
R18-2-1012 | Inspection Procedures and Fee | December 20, 1999 | January 22, 2003, 68 FR 2912 | Submitted on July 6, 2001.
R18-2-1013 | Reinspections | December 20, 1999 | January 22, 2003, 68 FR 2912 | Submitted on July 6, 2001.
R18-2-1016 | Licensing of Inspectors | January 14, 2000 | January 22, 2003, 68 FR 2912 | Submitted on July 6, 2001.
R18-2-1017 | Inspection of Government Vehicles | January 14, 2000 | January 22, 2003, 68 FR 2912 | Submitted on July 6, 2001.
R18-2-1018 | Certificate of Inspection | January 14, 2000 | January 22, 2003, 68 FR 2912 | Submitted on July 6, 2001.
R18-2-1019 | Fleet Station Procedures and Permits | January 1, 2002 | January 22, 2003, 68 FR 2912 | Submitted on April 10, 2002.
R18-2-1022 | Procedure for Waiving Inspections Due to Technical Difficulties | January 14, 2000 | January 22, 2003, 68 FR 2912 | Submitted on July 6, 2001.
R18-2-1023 | Certificate of Exemption for Out-of-State Vehicles | January 14, 2000 | January 22, 2003, 68 FR 2912 | Submitted on July 6, 2001.
R18-2-1025 | Inspection of Contractor's Equipment and Personnel | January 14, 2000 | January 22, 2003, 68 FR 2912 | Submitted on July 6, 2001.
R18-2-1026 | Inspection of Fleet Stations | January 14, 2000 | January 22, 2003, 68 FR 2912 | Submitted on July 6, 2001.
R18-2-1027 | Registration and Inspection of Emission Analyzers and Opacity Meters | January 14, 2000 | January 22, 2003, 68 FR 2912 | Submitted on July 6, 2001.
R18-2-1028 | Certification of Users of Registered Analyzers and Analyzer Repair Persons | January 14, 2000 | January 22, 2003, 68 FR 2912 | Submitted on July 6, 2001.
R18-2-1029 | Vehicle Emission Control Devices | January 14, 2000 | January 22, 2003, 68 FR 2912 | Submitted on July 6, 2001.
R18-2-1030 | Visible Emissions; Mobile Sources | January 14, 2000 | January 22, 2003, 68 FR 2912 | Submitted on July 6, 2001.
R18-2-1031 | Standards for Evaluating the Oxidation Efficiency of a Catalytic Converter | December 20, 1999 | January 22, 2003, 68 FR 2912 | Submitted on July 6, 2001.
Table 1 | Dynamometer Loading Table—Annual Tests | November 14, 1994 | January 22, 2003, 68 FR 2912 | Table 1 is cited in R18-2-1006. Submitted on July 6, 2001.
Table 2 | Emissions Standards—Annual Tests, Maximum Allowable | June 21, 1995 | January 22, 2003, 68 FR 2912 | Table 2 is cited in R18-2-1006 and R18-2-1019. Submitted on July 6, 2001.
Table 3 | Emissions Standards—Biennial Tests | December 20, 1999 | January 22, 2003, 68 FR 2912 | Table 3 is cited in R18-2-1006. Submitted on July 6, 2001.
Table 4 | Transient Driving Cycle | December 20, 1999 | January 22, 2003, 68 FR 2912 | Table 4 is cited in R18-2-1006 and R18-2-1016. Submitted on July 6, 2001.
Table 5 | Tolerances | November 14, 1994 | January 22, 2003, 68 FR 2912 | Table 5 is cited in R18-2-1006. Submitted on July 6, 2001.
Table 6 | Emissions Standards—Remote Sensing Identification | December 20, 1999 | January 22, 2003, 68 FR 2912 | Table 6 is cited in the VEI regulations. Submitted on July 6, 2001.
Article 14 (Conformity Determinations)
R18-2-1438 | General Conformity for Federal Actions | January 31, 1995 | April 23, 1999, 64 FR 19916 | Submitted on March 3, 1995.
Article 15 (Forest and Range Management Burns)
R18-2-1501 | Definitions | March 16, 2004 | May 16, 2006, 71 FR 28270 | Submitted on December 30, 2004.
R18-2-1502 | Applicability | March 16, 2004 | May 16, 2006, 71 FR 28270 | Submitted on December 30, 2004.
R18-2-1503 | Annual Registration | March 16, 2004 | May 16, 2006, 71 FR 28270 | Submitted on December 30, 2004.
R18-2-1504 | Prescribed Burn Plan | March 16, 2004 | May 16, 2006, 71 FR 28270 | Submitted on December 30, 2004.
R18-2-1505 | Prescribed Burn Requests and Authorization | March 16, 2004 | May 16, 2006, 71 FR 28270 | Submitted on December 30, 2004.
R18-2-1506 | Smoke Dispersion and Evaluation | March 16, 2004 | May 16, 2006, 71 FR 28270 | Submitted on December 30, 2004.
R18-2-1507 | Prescribed Burn Accomplishment; Wildlife Reporting | March 16, 2004 | May 16, 2006, 71 FR 28270 | Submitted on December 30, 2004.
R18-2-1508 | Wildland Fire Use: Plan, Authorization, Monitoring; Inter-Agency Consultation; Status Reporting | March 16, 2004 | May 16, 2006, 71 FR 28270 | Submitted on December 30, 2004.
R18-2-1509 | Emission Reduction Techniques | March 16, 2004 | May 16, 2006, 71 FR 28270 | Submitted on December 30, 2004.
R18-2-1510 | Smoke Management Techniques | March 16, 2004 | May 16, 2006, 71 FR 28270 | Submitted on December 30, 2004.
R18-2-1511 | Monitoring | March 16, 2004 | May 16, 2006, 71 FR 28270 | Submitted on December 30, 2004.
R18-2-1512 | Burner Qualifications | March 16, 2004 | May 16, 2006, 71 FR 28270 | Submitted on December 30, 2004.
R18-2-1513 | Public Notification Program; Regional Coordination | March 16, 2004 | May 16, 2006, 71 FR 28270 | Submitted on December 30, 2004.
Appendices to Title 18 (Environmental Quality), Chapter 2 (Department of Environmental Quality Air Pollution Control)
Appendix 1 | Filing Instructions for Installation Permit Application | July 25, 1979 | April 23, 1982, 47 FR 17483 | Submitted on April 1, 1980. Appendix 1 in its entirety was approved at 47 FR 17483 (April 23, 1982). Certain subsections of appendix 1 were superseded by approval of revisions at 48 FR 19878 (May 3, 1983) and at 49 FR 41026 (October 19, 1984. The latter rule was corrected 69 FR 2509 (January 16, 2004).
Appendix 1, subsections A1.4, A1.4.1, A1.4.3 (added), A1.4.3 (renumbered only), A1.5, A1.6.1 (deleted), A1.6.2 and A1.6.3 (renumbered only), A1.6.4 and A1.6.5 (deleted), A1.6.6 (renumbered only), A1.6.6.1, A1.6.6.2 and A1.6.6.3 (renumbered only), A1.6.6.4 (deleted), A1.6.6.5 (renumbered only) A1.6.6.6, A1.6.6.7 (Renumbered), A1.6.7.1, A1.6.7.2, A1.6.7.3 and Form ADHS/EHS Air Quality 100A (rev 12-80) | Filing Instructions for Installation Permit Application | May 28, 1982 | May 3, 1983, 48 FR 19878 | Relates to State PSD regulations. Submitted on June 3, 1982.
Appendix 1, subsections A1.5.6, and A1.9 (added) | Filing Instructions for Installation Permit Application | September 22, 1983 | October 19, 1984, 49 FR 41026; corrected on January 16, 2004, 69 FR 2509 | Submitted on February 3, 1984.
Appendix 2 | Test Methods and Protocols | October 3, 2005 | September 23, 2014, 79 FR 56655 | Submitted on July 28, 2011, and supplemented on May 16, 2014. AAC, title 18, chapter 2, supp. 12-2, June 30, 2012.
Appendix 2 | Filing Instructions for Operating Permit Application | July 25, 1979 | April 23, 1982, 47 FR 17483 | Submitted on April 1, 1980. Appendix 2 in its entirety was approved at 47 FR 17483 (April 23, 1982). Certain subsections of appendix 2 were superseded by approval of revisions at 48 FR 19878 (May 3, 1983).
Appendix 2, subsections A2.2.5, A2.3, A2.3.8 | Filing Instructions for Operating Permit Application | May 28, 1982 | May 3, 1983, 48 FR 19878 | Relates to State PSD regulations. Submitted on June 3, 1982.
Appendix 8 | Procedures for Utilizing the Sulfur Balance Method for Determining Sulfur Emissions | July 18, 2005 | April 12, 2006, 71 FR 18624 | Cited in Arizona Administrative Code rule R18-2-715.01. Submitted on March 1, 2006.
Materials Incorporated By Reference in Title 18 (Environmental Quality)
Chapter 2 (Department of Environmental Quality Air Pollution Control)
[Incorporated by reference through R18-2-102] | Arizona Testing Manual for Air Pollutant Emissions, Revision F, excluding sections 2 through 7 | March 1992 | September 23, 2014, 79 FR 56655 | Approval includes section 1 only. Submitted on July 28, 2011, and supplemented on May 16, 2014. Relates to various provisions in Arizona Administrative Code, title 18, chapter 2, articles 4, 6, and 7.
[Incorporated by reference through R18-2-220] | Procedures for Prevention of Emergency Episodes | 1988 Edition | October 15, 2012, 77 FR 62452 | Submitted on August 15, 1994.
Title 20 (Commerce, Financial Institutions, and Insurance)
Chapter 2 (Department of Weights and Measures)
Article 1 (Administration and Procedures)
R20-2-101 | Definitions | June 5, 2004 | June 13, 2012, 77 FR 35279 | Submitted on September 21, 2009.
Article 7 (Motor Fuels and Petroleum Products)
R20-2-701 | Definitions | February 9, 2001 | March 4, 2004, 69 FR 10161 | Submitted on August 15, 2001. Relates to the Arizona Cleaner Burning Gasoline (CBG) program.
R20-2-716 | Sampling and Access to Records | October 18, 1999 | March 4, 2004, 69 FR 10161 | Submitted on August 15, 2001. Relates to the Arizona Cleaner Burning Gasoline (CBG) program.
R20-2-750 | Registration Relating to Arizona CBG or AZR-BOB | September 22, 1999 | March 4, 2004, 69 FR 10161 | Submitted on August 15, 2001. Relates to the Arizona Cleaner Burning Gasoline (CBG) program.
R20-2-751 | Arizona CBG Requirements | February 9, 2001 | March 4, 2004, 69 FR 10161 | Submitted on August 15, 2001. Relates to the Arizona Cleaner Burning Gasoline (CBG) program.
R20-2-752 | General Requirements for Registered Suppliers | September 22, 1999 | March 4, 2004, 69 FR 10161 | Submitted on August 15, 2001. Relates to the Arizona Cleaner Burning Gasoline (CBG) program.
R20-2-753 | General Requirements for Pipelines and 3rd-party Terminals | September 22, 1999 | March 4, 2004, 69 FR 10161 | Submitted on August 15, 2001. Relates to the Arizona Cleaner Burning Gasoline (CBG) program.
R20-2-754 | Downstream Blending Exceptions for Transmix | September 22, 1999 | March 4, 2004, 69 FR 10161 | Submitted on August 15, 2001. Relates to the Arizona Cleaner Burning Gasoline (CBG) program.
R20-2-755 | Additional Requirements for AZRBOB and Downstream Oxygenate Blending | September 22, 1999 | March 4, 2004, 69 FR 10161 | Submitted on August 15, 2001. Relates to the Arizona Cleaner Burning Gasoline (CBG) program.
R20-2-756 | Downstream Blending of Arizona CBG with Nonoxygenate Blendstocks | September 22, 1999 | March 4, 2004, 69 FR 10161 | Submitted on August 15, 2001. Relates to the Arizona Cleaner Burning Gasoline (CBG) program.
R20-2-757 | Product Transfer Documentation; Records; Retention | September 22, 1999 | March 4, 2004, 69 FR 10161 | Submitted on August 15, 2001. Relates to the Arizona Cleaner Burning Gasoline (CBG) program.
R20-2-758 | Adoption of Fuel Certification Models | September 22, 1999 | March 4, 2004, 69 FR 10161 | Submitted on August 15, 2001. Relates to the Arizona Cleaner Burning Gasoline (CBG) program.
R20-2-759 | Testing Methodologies | February 9, 2001 | March 4, 2004, 69 FR 10161 | Submitted on August 15, 2001. Relates to the Arizona Cleaner Burning Gasoline (CBG) program.
R20-2-760 | Compliance Surveys | February 9, 2001 | March 4, 2004, 69 FR 10161. | Submitted on August 15, 2001. Relates to the Arizona Cleaner Burning Gasoline (CBG) program.
R20-2-761 | Liability for Noncompliant Arizona CBG or AZRBOB | September 22, 1999 | March 4, 2004, 69 FR 10161 | Submitted on August 15, 2001. Relates to the Arizona Cleaner Burning Gasoline (CBG) program.
R20-2-762 | Penalties | September 22, 1999 | March 4, 2004, 69 FR 10161 | Submitted on August 15, 2001. Relates to the Arizona Cleaner Burning Gasoline (CBG) program.
Table 1 | Type 1 Gasoline Standards | February 9, 2001 | March 4, 2004, 69 FR 10161 | Table 1 is cited in R20-2-751 (“Arizona CBG Requirements”). Submitted on August 15, 2001. Relates to the Arizona Cleaner Burning Gasoline (CBG) program.
Table 2 | Type 2 Gasoline Standards | February 9, 2001 | March 4, 2004, 69 FR 10161 | Table 2 is cited in R20-2-751 (“Arizona CBG Requirements”). Submitted on August 15, 2001. Relates to the Arizona Cleaner Burning Gasoline (CBG) program.
Article 9 (Gasoline Vapor Control)
R20-2-901 | Material Incorporated by Reference | June 5, 2004 | June 13, 2012, 77 FR 35279 | Submitted on September 21, 2009.
R20-2-902 | Exemptions | June 5, 2004 | June 13, 2012, 77 FR 35279 | Submitted on September 21, 2009.
R20-2-903 | Equipment and Installation | June 5, 2004 | June 13, 2012, 77 FR 35279 | Submitted on September 21, 2009.
R20-2-904 | Application Requirements and Process for Authority to Construct Plan Approval | June 5, 2004 | June 13, 2012, 77 FR 35279 | Submitted on September 21, 2009.
R20-2-905 | Initial Inspection and Testing | June 5, 2004 | June 13, 2012, 77 FR 35279 | Submitted on September 21, 2009.
R20-2-907 | Operation | October 8, 1998 | June 13, 2012, 77 FR 35279 | Submitted on September 21, 2009.
R20-2-908 | Training and Public Education | October 8, 1998 | June 13, 2012, 77 FR 35279 | Submitted on September 21, 2009.
R20-2-909 | Recordkeeping and Reporting | October 8, 1998 | June 13, 2012, 77 FR 35279 | Submitted on September 21, 2009.
R20-2-910 | Annual Inspection and Testing | June 5, 2004 | June 13, 2012, 77 FR 35279 | Submitted on September 21, 2009.
R20-2-911 | Compliance Inspections | June 5, 2004 | June 13, 2012, 77 FR 35279 | Submitted on September 21, 2009.
R20-2-912 | Enforcement | June 5, 2004 | June 13, 2012, 77 FR 35279 | Submitted on September 21, 2009.

Table 3—EPA-Approved Arizona General Permits
Title | State effective date | EPA approval date | Additional explanation
Dust Action General Permit, including the general permit itself, and attachments A, B, and C | December 30, 2011 | March 31, 2014, 79 FR 17881 | Issued by Arizona Department of Environmental Quality pursuant to ARS 49-457.05. Applies to certain types of dust sources in a county with a population of two million or more persons or any portion of a county within an area designated by EPA as a serious PM-10 nonattainment area or a maintenance area that was designated as a serious PM-10 nonattainment area. Submitted on May 25, 2012.

Table 4—EPA-Approved Maricopa County Air Pollution Control Regulations
County citation | Title/subject | State effective date | EPA approval date | Additional explanation
Pre-July 1988 Rule Codification
Regulation I—General Provisions
Rule 1 | Emissions Regulated; Policy; Legal Authority | August 12, 1971 | July 27, 1972, 37 FR 15080 | Submitted on May 26, 1972.
Rule 2, No. 11 “Alteration or Modification” and No. 33 “Existing Source” | Definitions | June 23, 1980 | June 18, 1982, 47 FR 26382 | Submitted on March 8, 1982.
Rule 2, except Nos. 18, 49, 50, 52, 54 and 57 | Definitions | June 23, 1980 | April 12, 1982, 47 FR 15579 | Submitted on June 23, 1980.
Rule 3 | Air pollution prohibited | June 23, 1980 | April 12, 1982, 47 FR 15579 | Submitted on June 23, 1980.
Regulation II—Permits
Rule 21.0 (paragraphs A-C; subparagraphs D.l.a-d; and paragraph E only) | Procedures for obtaining an installation permit | October 25, 1982 | August 10, 1988, 53 FR 30224; vacated; restored on January 29, 1991, 56 FR 3219 | Submitted on March 4, 1983.†
Rule 21.0 (subparagraph D.1, and subparagraphs D.1.e, f, and g only) | Procedures for obtaining an installation permit | July 9, 1984 | August 10, 1988, 53 FR 30224; vacated; restored on January 29, 1991, 56 FR 3219 | Submitted on March 4, 1983. Submitted on April 17, 1985.†
Rule 21 (paragraph G) | Permit Conditions | October 2, 1978 | April 12, 1982, 47 FR 15579 | Relates to public comment period.
Rule 22 (paragraphs A, C, D, F, G, and H) | Permit Denial-Action-Transfer-Expiration-Posting-Revocation-Compliance | August 12, 1971 | July 27, 1972, 37 FR 15080 | Paragraphs B and E have been superseded.
Rule 23 | Permit Classes | August 12, 1971 | July 27, 1972, 37 FR 15080 | Submitted on May 26, 1972.
Rule 25 | Emissions test methods and procedures | June 23, 1980 | April 12, 1982, 47 FR 15579 | Submitted on June 23, 1980.
Rule 26 | Portable Equipment | August 12, 1971 | July 27, 1972, 37 FR 15080 | Submitted on May 26, 1972.
Rule 26 | Air quality models | June 23, 1980 | April 12, 1982, 47 FR 15579 | Submitted on June 23, 1980.
Rule 27 | Performance tests | June 23, 1980 | April 12, 1982, 47 FR 15579 | Submitted on June 23, 1980.
Rule 28 | Permit Fees | March 8, 1982 | June 18, 1982, 47 FR 26382 | Submitted on March 8, 1982.
Regulation III—Control of Air Contaminants
Rule 32, Paragraph G | Other Industries | October 1, 1975 | April 12, 1982, 47 FR 15579 | Paragraph G of Rule 32 (“Odors and Gaseous Emissions”) is titled “Other Industries.” Submitted on June 23, 1980.
Rule 32, Paragraph H | Fuel Burning Equipment for Producing Electric Power (Sulfur Dioxide) | October 1, 1975 | April 12, 1982, 47 FR 15579 | Paragraph H of Rule 32 (“Odors and Gaseous Emissions”) is titled “Fuel Burning Equipment for Producing Electric Power (Sulfur Dioxide).” Submitted on June 23, 1980.
Rule 32, Paragraph J | Operating Requirements for an Asphalt Kettle | June 23, 1980 | April 12, 1982, 47 FR 15579 | Paragraph J of Rule 32 (“Odors and Gaseous Emissions”) is titled “Operating Requirements for an Asphalt Kettle.” Submitted on June 23, 1980.
Rule 32, Paragraph K | Emissions of Carbon Monoxide | June 23, 1980 | April 12, 1982, 47 FR 15579 | Paragraph K of Rule 32 (“Odors and Gaseous Emissions”) is titled “Emissions of Carbon Monoxide.” Submitted on June 23, 1980.
Rule 32 (Paragraphs A through F only) | Odors and Gaseous Emissions | August 12, 1971 | July 27, 1972, 37 FR 15080 | Paragraph G was superseded by approval of paragraph J of amended Rule 32. Submitted on May 26, 1972.
Rule 35 | Incinerators | August 12, 1971 | July 27, 1972, 37 FR 15080 | Superseded by approval of Maricopa Rule 313 at 79 FR 57445 (September 25, 2014) except for Hospital/Medical/Infectious Waste Incinerators. Submitted on May 26, 1972.
Regulation IV—Production of Records; Monitoring; Testing and Sampling Facilities
Rule 40 | Recordkeeping and Reporting | June 23, 1980 | April 12, 1982, 47 FR 15579 | Submitted on June 23, 1980.
Rule 41, paragraph A | Monitoring | August 12, 1971 | July 27, 1972, 37 FR 15080 | Submitted on May 26, 1972.
Rule 41, paragraph B | Monitoring | October 2, 1978 | April 12, 1982, 47 FR 15579 | Submitted on January 18, 1979.
Rule 42 | Testing and Sampling | August 12, 1971 | July 27, 1972, 37 FR 15080 | Submitted on May 26, 1972.
Rule 43 | Right of inspection | August 12, 1971 | July 27, 1972, 37 FR 15080 | Submitted on May 26, 1972.
Regulation VII—Emergency Procedures
Rule 71 | Anti-degradation | October 1, 1975 | April 12, 1982, 47 FR 15579 | Submitted on June 23, 1980.
Rule 74, paragraph C | Public Notification | June 23, 1980 | April 12, 1982, 47 FR 15579 | Submitted on June 23, 1980. Paragraphs A, B, and D superseded by approval of Rule 510 at 74 FR 57612 (November 9, 2009).
Regulation VIII—Validity and Operation
Rule 80 | Validity | August 12, 1971 | July 27, 1972, 37 FR 15080 | Submitted on May 26, 1972.
Rule 81 | Operation | August 12, 1971 | July 27, 1972, 37 FR 15080 | Submitted on May 26, 1972.
Post-July 1988 Rule Codification
Regulation I—General Provisions
Rule 100, Section 100, Subsection 108 | Hearing Board | September 25, 2013 | August 10, 2015, 80 FR 47859 | Subsection 108 is a subsection within section 100 (“General”) of Rule 100 (“General Provisions and Definitions”). Submitted on December 6, 2013.
Rule 100, Section 500 | Monitoring and Records | March 15, 2006 | November 5, 2012, 77 FR 66405 | Section 500 is a section within Rule 100 (“General Provisions and Definitions”). Includes subsections 501 (Reporting requirements), 502 (Data reporting), 503 (Emissions statements required as stated in the Act), 504 (Retention of records); and 505 (Annual emissions inventory report). Submitted on August 24, 2012.
Rule 140 | Excess Emissions | Revised September 5, 2001 | August 27, 2002, 67 FR 54957 | Submitted on February 22, 2002.
Regulation II—Permits and Fees
Rule 220 | Permits to Operate | July 13, 1988 | January 6, 1992, 57 FR 354 | Submitted on January 4, 1990.
Rule 242 | Emissions Offsets Generated by the Voluntary Paving of Unpaved Roads | June 20, 2007 | August 6, 2007, 72 FR 43538 | Submitted on July 5, 2007.
Regulation III—Control of Air Contaminants
Rule 300 | Visible Emissions | March 12, 2008 | July 28, 2010, 75 FR 44141 | Submitted on July 10, 2008.
Rule 310 | Fugitive Dust From Dust-Generating Operations | January 27, 2010 | December 15, 2010, 75 FR 78167 | Submitted on April 12, 2010. Cites appendices C and F, which are listed separately in this table.
Rule 310.01 | Fugitive Dust From Non-Traditional Sources of Fugitive Dust | January 27, 2010 | December 15, 2010, 75 FR 78167 | Submitted on April 12, 2010. Cites appendix C, which is listed separately in this table.
Rule 311 | Particulate matter from process industries | August 2, 1993 | April 10, 1995, 60 FR 18010. Vacated by Ober decision. Restored August 4, 1997, 62 FR 41856 | Submitted on March 3, 1994.
Rule 312 | Abrasive Blasting | July 13, 1988 | January 4, 2001, 66 FR 730 | Submitted on January 4, 1990.
Rule 313 | Incinerators, Burn-Off Ovens and Crematories | May 9, 2012 | September 25, 2014, 79 FR 57445 | Submitted on August 27, 2012.
Rule 314 | Open Outdoor Fires and Indoor Fireplaces at Commercial and Institutional Establishments | March 12, 2008 | November 9, 2009, 74 FR 57612 | Submitted on July 10, 2008.
Rule 316 | Nonmetallic Mineral Processing | March 12, 2008 | November 13, 2009, 74 FR 58553 | Submitted on July 10, 2008.
Rule 318 | Approval of Residential Woodburning Devices | April 21, 1999 | November 8, 1999, 64 FR 60678 | Submitted on August 4, 1999.
Rule 322 | Power Plant Operations | October 17, 2007 | October 14, 2009, 74 FR 52693 | Submitted on January 9, 2008.
Rule 323 | Fuel Burning Equipment from Industrial/Commercial/Institutional (ICI) Sources | October 17, 2007 | October 14, 2009, 74 FR 52693 | Submitted on January 9, 2008.
Rule 324 | Stationary Internal Combustion (IC) Engines | October 17, 2007 | October 14, 2009, 74 FR 52693 | Submitted on January 9, 2008.
Rule 325 | Brick and Structural Clay Products (BSCP) Manufacturing | August 10, 2005 | August 21, 2007, 72 FR 46564 | Element of the Revised PM-10 State Implementation Plan for the Salt River Area, September 2005. Submitted on October 7, 2005.
Rule 331 | Solvent Cleaning | April 21, 2004 | December 21, 2004, 69 FR 76417 | Submitted on July 28, 2004.
Rule 333 | Petroleum Solvent Dry Cleaning | June 19, 1996 | February 9, 1998, 63 FR 6489 | Submitted on February 26, 1997.
Rule 334 | Rubber Sports Ball Manufacturing | June 19, 1996 | February 9, 1998, 63 FR 6489 | Submitted on February 26, 1997.
Rule 335 | Architectural Coatings | July 13, 1988 | January 6, 1992, 57 FR 354 | Submitted on January 4, 1990.
Rule 336 | Surface Coating Operations | April 7, 1999 | September 20, 1999, 64 FR 50759 | Submitted on August 4, 1999.
Rule 337 | Graphic Arts | November 20, 1996 | February 9, 1998, 63 FR 6489 | Submitted on March 4, 1997.
Rule 338 | Semiconductor Manufacturing | June 19, 1996 | February 9, 1998, 63 FR 6489 | Submitted on February 26, 1997.
Rule 339 | Vegetable Oil Extract Processes | November 16, 1992 | February 9, 1998, 63 FR 6489 | Submitted on February 4, 1993.
Rule 340 | Cutback and Emulsified Asphalt | September 21, 1992 | February 1, 1996, 61 FR 3578 | Submitted on November 13, 1992.
Rule 341 | Metal Casting | August 5, 1994 | February 12, 1996, 61 FR 5287 | Submitted on August 16, 1994.
Rule 342 | Coating Wood Furniture and Fixtures | November 20, 1996 | February 9, 1998, 63 FR 6489 | Submitted on March 4, 1997.
Rule 343 | Commercial Bread Bakeries | February 15, 1995 | March 17, 1997, 62 FR 12544 | Submitted on August 31, 1995.
Rule 344 | Automobile Windshield Washer Fluid | April 7, 1999 | November 30, 2001, 66 FR 59699 | Submitted on August 4, 1999.
Rule 346 | Coating Wood Millwork | November 20, 1996 | February 9, 1998, 63 FR 6489 | Submitted on March 4, 1997.
Rule 347 | Ferrous Sand Casting | March 4, 1998 | June 12, 2000, 65 FR 36788 | Submitted on August 4, 1999.
Rule 348 | Aerospace Manufacturing and Rework Operations | April 7, 1999 | September 20, 1999, 64 FR 50759 | Submitted on August 4, 1999.
Rule 349 | Pharmaceutical, Cosmetic, and Vitamin Manufacturing Operations | April 7, 1999 | June 8, 2001, 66 FR 30815 | Submitted on August 4, 1999.
Rule 350 | Storage of Organic Liquids at Bulk Plants and Terminals | April 6, 1992 | September 5, 1995, 60 FR 46024 | Submitted on June 29, 1992.
Rule 351 | Loading of Organic Liquids | February 15, 1995 | February 9, 1998, 63 FR 6489 | Submitted on August 31, 1995.
Rule 352 | Gasoline Delivery Vessels | November 16, 1992 | September 5, 1995, 60 FR 46024 | Submitted on February 4, 1993.
Rule 353 | Transfer of Gasoline into Stationary Dispensing Tanks | April 6, 1992 | February 1, 1996, 61 FR 3578 | Submitted on June 29, 1992.
Rule 358 | Polystyrene Foam Operations | April 20, 2005 | May 26, 2005, 70 FR 30370 | Submitted on April 25, 2005.
Regulation V—Air Quality Standards and Area Classification
Rule 510, excluding Appendix G to the Maricopa County Air Pollution Control Regulations | Air Quality Standards | November 1, 2006 | November 9, 2009, 74 FR 57612 | Submitted on June 7, 2007.
Regulation VI—Emergency Episodes
Rule 600 | Emergency Episodes | July 13, 1988 | March 18, 1999, 64 FR 13351 | Submitted on January 4, 1990.
Appendices to Maricopa County Air Pollution Control Rules and Regulations
Appendix C | Fugitive Dust Test Methods | March 26, 2008 | December 15, 2010, 75 FR 78167 | Cited in Rules 310 and 310.01. Submitted on July 10, 2008.
Appendix F | Soil Designations | April 7, 2004 | August 21, 2007, 72 FR 46564 | Cited in Rule 310. Submitted on October 7, 2005.
† Vacated by the U.S. Court of Appeals for the Ninth Circuit in Delaney v. EPA, 898 F.2d 687 (9th Cir. 1990). Restored on January 29, 1991, 56 FR 3219.

Table 5—EPA-Approved Maricopa County Documents Related to Applications for Dust Control Permits
Title | State effective date | EPA approval date | Additional explanation
Application for Dust Control Permit | June 22, 2005 | August 21, 2007, 72 FR 46564 | Relates to Rule 310 (“Fugitive Dust from Dust-Generating Operations”). Element of the Revised PM-10 State Implementation Plan for the Salt River Area, Additional Materials, September 2005. Submitted on November 29, 2005.
Guidance for Application for Dust Control Permit | June 22, 2005 | August 21, 2007, 72 FR 46564 | Relates to Rule 310 (“Fugitive Dust from Dust-Generating Operations”). Element of the Revised PM-10 State Implementation Plan for the Salt River Area, Additional Materials, September 2005. Submitted on November 29, 2005.

Table 6—EPA-Approved Ordinances Adopted by Maricopa County and Other Local Jurisdictions Within Maricopa County
County citation | Title/subject | State effective date | EPA approval date | Additional explanation
Maricopa County Ordinance P-26 | Residential Woodburning Restriction Ordinance | March 26, 2008 | November 9, 2009, 74 FR 57612 | Submitted on July 10, 2008.
Maricopa County, Ordinance P-7 | Trip Reduction Ordinance | Adopted May 26, 1994 | May 4, 1998, 63 FR 24434 | Submitted on August 31, 1995.
Town of Carefree Ordinance No. 98-14 | An Ordinance of the Town of Carefree, Maricopa County, Arizona, Adding Section 10-4 to the Town Code Relating to Clean-Burning Fireplaces, Providing Penalties for Violations (3 pages) | Adopted September 1, 1998 | July 25, 2002, 67 FR 48718 | Submitted on February 16, 2000.
Town of Gilbert Ordinance 1066 | An Ordinance of the Common Council of the Town of Gilbert, Arizona Amending the Code of Gilbert by Amending Chapter 30 Environment, by adding New Article II Fireplace Restrictions Prescribing Standards for Fireplaces, Woodstoves, and Other Solid-Fuel Burning Devices in New Construction; Providing for an Effective Date of January 1, 1999; Providing for Repeal of Conflicting Ordinances; Providing for Severability (3 pages) | January 1, 1999 | July 25, 2002, 67 FR 48718 | Adopted by the Town of Gilbert on November 25, 1997. Submitted on February 16, 2000.
City of Mesa Ordinance No. 3434 | An Ordinance of the City Council of the City of Mesa, Maricopa County, Arizona, Relating to Fireplace Restrictions Amending Title 4, Chapter 1, Section 2 Establishing a Delayed Effective Date; and Providing Penalties for Violations (3 pages) | December 31, 1998 | July 25, 2002, 67 FR 48718 | Adopted by the City of Mesa on February 2, 1998. Submitted on February 16, 2000.
Town of Paradise Valley Ordinance Number 454 | An Ordinance of the Town of Paradise Valley, Arizona, Relating to Grading and Dust Control, Amending Article 5-13 of the Town Code and Sections 5-13-1 Through 5-13-5, Providing Penalties for Violations and Severability (5 pages) | January 22, 1998 | July 25, 2002, 67 FR 48718 | Adopted by the Town of Paradise Valley on January 22, 1998. Submitted on February 16, 2000. [Incorporation Note: There is an error in the ordinance's title, ordinance amended only sections 5-13-1 to 5-13-4; see section 1 of the ordinance.]
Town of Paradise Valley Ordinance Number 450 | An Ordinance of the Town of Paradise Valley, Arizona, Adding Section 5-1-7 to the Town Code Relating to Clean-Burning Fireplaces, Providing Penalties for Violations (3 pages) | December 18, 1997 | July 25, 2002, 67 FR 48718 | Adopted by the Town of Paradise Valley on December 18, 1997. Submitted on February 16, 2000.
City of Phoenix Ordinance No. G4062 | An Ordinance Amending the Phoenix City Code By Adding A New Chapter 40 “Environmental Protections,” By Regulating Fireplaces, Wood Stoves and Other Solid-Fuel Burning Devices and Providing that the Provisions of this Ordinance Shall Take Effect on December 31, 1998 (5 pages) | December 31, 1998 | July 25, 2002, 67 FR 48718 | Adopted by the City of Phoenix on December 10, 1997. Submitted on February 16, 2000.
City of Phoenix Ordinance No. G4037 | An Ordinance Amending Chapter 39, Article 2, Section 39-7 of the Phoenix City Code by Adding Subsection G Relating to Dust Free Parking Areas; and Amending Chapter 36, Article XI, Division I, Section 36-145 of the Phoenix City Code Relating to Parking on Non-Dust Free Lots (5 pages) | Adopted July 2, 1997 | July 25, 2002, 67 FR 48718 | Adopted by the City of Phoenix on July 2, 1997. Submitted on February 16, 2000.
City of Tolleson Ordinance No. 376, N.S. | An Ordinance of the City of Tolleson, Maricopa County, Arizona, Amending Chapter 7 of the Tolleson City Code by Adding a New Section 7-9, Prohibiting the Installation or Construction of a Fireplace or Wood Stove Unless It Meets the Standards Set Forth Herein (including Exhibit A, 4 pages) | Adopted December 8, 1998 | July 25, 2002, 67 FR 48718 | Adopted by the City of Tolleson on December 8, 1998. Submitted on February 16, 2000.

Table 7—EPA-Approved Pima County Air Pollution Control Regulations
County citation | Title/subject | State effective date | EPA approval date | Additional explanation
Pre-1976 Rule Codification
Regulation I—General Provisions
Rule 2 | Definitions | February 20, 1975 | May 11, 1977, 42 FR 23802 | Submitted on February 20, 1975.
Rule 3 | Standard Conditions | December 20, 1971 | July 27, 1972, 37 FR 15080 | Submitted on May 26, 1972.
Rule 19 | Decisions of Hearing Board; Subpoenas; Effective Date | December 20, 1971 | July 27, 1972, 37 FR 15080 | Submitted on May 26, 1972.
Rule 20 | Judicial Review; Grounds; Procedures | December 20, 1971 | July 27, 1972, 37 FR 15080 | Submitted on May 26, 1972.
Rule 21 | Notice of Hearing; Publication; Service | December 20, 1971 | July 27, 1972, 37 FR 15080 | Submitted on May 26, 1972.
Rule 22 | Hearing Board Fees | December 20, 1971 | July 27, 1972, 37 FR 15080 | Submitted on May 26, 1972.
Regulation II—Emissions Prohibited
Rule 2B | Emissions of Particulate Matter | March 19, 1974 | September 19, 1977, 42 FR 46926 | Submitted on March 19, 1974.
Rule 3 | Emissions of Gases, Vapors, Fumes or Odors | December 20, 1971 | July 27, 1972, 37 FR 15080 | Submitted on May 26, 1972.
Rule 5 | Organic Solvents | December 20, 1971 | July 27, 1972, 37 FR 15080 | Submitted on May 26, 1972.
Rule 7 | Emissions of Certain Sulfur Compounds | December 20, 1971 | July 27, 1972, 37 FR 15080 | Submitted on May 26, 1972.
1976-1978 Rule Codification
Regulation I—General Provisions
Rule 2, paragraphs uu-yy | Definitions | June 21, 1976 | July 19, 1977, 42 FR 36998 | Submitted on September 30, 1976.
Regulation II—Fuel Burning Equipment
Rule 2G (Paragraphs 1-4c) | Particulate Emissions | June 21, 1976 | July 19, 1977, 42 FR 36998 | Submitted on September 30, 1976.
Rule 7A (Paragraph 1) | Sulfur Dioxide Emissions | June 21, 1976 | July 19, 1977, 42 FR 36998 | Submitted on September 30, 1976. Paragraphs 2 to 5 were disapproved. See 42 FR 36998 (July 19, 1977).
Rule 7B (Paragraph 1) | Nitrogen Oxide Emissions | June 21, 1976 | July 19, 1977, 42 FR 36998 | Submitted on September 30, 1976.
Regulation VII—New Source Performance Standards
Regulation VII (Paragraphs A-D) | Standards of Performance for New Stationary Sources | June 21, 1976 | July 19, 1977, 42 FR 36998 | Submitted on September 30, 1976.
Regulation VIII—National Emission Standards for Hazardous Air Pollutants
Regulation VIII (Paragraphs A-C) | Emissions Standards for Hazardous Air Pollutants | June 21, 1976 | July 19, 1977, 42 FR 36998 | Submitted on September 30, 1976.
1979-1993 Rule Codification
Chapter I: General Provisions
Rule 101 | Declaration of Policy | August 17, 1979 | April 16, 1982, 47 FR 16326 | Submitted on October 9, 1979.
Rule 102 | Purpose | August 17, 1979 | April 16, 1982, 47 FR 16326 | Submitted on October 9, 1979.
Rule 103 | Authority | August 17, 1979 | April 16, 1982, 47 FR 16326 | Submitted on October 9, 1979.
Rule 111 | General Applicability | August 17, 1979 | April 16, 1982, 47 FR 16326 | Submitted on October 9, 1979.
Rule 112 | State and/or County | August 17, 1979 | April 16, 1982, 47 FR 16326 | Submitted on October 9, 1979.
Rule 113 | Limitations | August 17, 1979 | April 16, 1982, 47 FR 16326 | Submitted on October 9, 1979.
Rule 121 | Air Quality Control District | August 17, 1979 | April 16, 1982, 47 FR 16326 | Submitted on October 9, 1979.
Rule 122 | Executive Head | August 17, 1979 | April 16, 1982, 47 FR 16326 | Submitted on October 9, 1979.
Rule 123 | Governing Body | August 17, 1979 | April 16, 1982, 47 FR 16326 | Submitted on October 9, 1979.
Rule 151 | Severability Clause | August 17, 1979 | April 16, 1982, 47 FR 16326 | Submitted on October 9, 1979.
Rule 161 | Format | August 17, 1979 | April 16, 1982, 47 FR 16326 | Submitted on October 9, 1979.
Rule 162 | Headings and Special Type | August 17, 1979 | April 16, 1982, 47 FR 16326 | Submitted on October 9, 1979.
Rule 163 | Use of Number and Gender | August 17, 1979 | April 16, 1982, 47 FR 16326 | Submitted on October 9, 1979.
Rule 165 | Effective Date | August 17, 1979 | April 16, 1982, 47 FR 16326 | Submitted on October 9, 1979.
Rule 166 | Adoption by Reference | December 6, 1983 | August 10, 1988, 53 FR 30220; vacated; restored on January 29, 1991, 56 FR 3219 | Submitted on October 18, 1985.†
Rule 171 | Words, Phrases, and Terms | December 6, 1983 | August 10, 1988, 53 FR 30220; vacated; restored on January 29, 1991, 56 FR 3219 | Submitted on October 18, 1985.†
Rule 171 [paragraphs B.1 (“Air Contaminant or Air Pollutant”, B.1.a (“Common Air Pollutant”), B.7 (“Emission or Emissions”), B.8 (“Source or Existing Source”), C.1.a (“Existing Source”), C.1.b (“New Source”), C.2.a (“Major Source”), C.2.c (“New Major Source”), C.2.d (“Modification or Alteration”), C.3.a (“Stationary Source”), E.1.b (“Lowest Achievable Emission Rate” )] | Words, Phrases, and Terms | August 17, 1979 | July 7, 1982, 47 FR 29532 | Submitted on October 9, 1979.
Rule 172 | Meanings of Mathematical Symbols | August 17, 1979 | April 16, 1982, 47 FR 16326 | Submitted on October 9, 1979.
Rule 173 | Chemical Symbols and Abbreviations | August 17, 1979 | April 16, 1982, 47 FR 16326 | Submitted on October 9, 1979.
Rule 174 | Scientific Units | August 17, 1979 | April 16, 1982, 47 FR 16326 | Submitted on October 9, 1979.
Rule 175 | Acronyms | December 6, 1983 | August 10, 1988, 53 FR 30220; vacated; restored on January 29, 1991, 56 FR 3219 | Submitted on October 18, 1985.†
Chapter II: Permits
Rule 201 | Statutory Authority | August 17, 1979 | April 16, 1982, 47 FR 16326 | Submitted on October 9, 1979.
Rule 202, paragraph D only | Installation Permits | December 6, 1983 | August 10, 1988, 53 FR 30220; vacated; restored on January 29, 1991, 56 FR 3219 | Submitted on October 18, 1985.†
Rule 202 | Installation Permits | August 17, 1979 | April 16, 1982, 47 FR 16326 | Submitted on October 9, 1979.
Rule 203 | Operating Permits | August 17, 1979 | April 16, 1982, 47 FR 16326 | Submitted on October 9, 1979.
Rule 211 | Permit Application | August 17, 1979 | April 16, 1982, 47 FR 16326 | Submitted on October 9, 1979.
Rule 212 | Sampling, Testing, and Analysis Requirements | August 17, 1979 | April 16, 1982, 47 FR 16326 | Submitted on October 9, 1979.
Rule 213 | Public Notification/Public Comments | August 17, 1979 | April 16, 1982, 47 FR 16326 | Submitted on October 9, 1979.
Rule 215 | Permit Revocation | August 17, 1979 | April 16, 1982, 47 FR 16326 | Submitted on October 9, 1979.
Rule 221 | General Control | August 17, 1979 | April 16, 1982, 47 FR 16326 | Submitted on October 9, 1979.
Rule 222 | Permit Display or Posting | August 17, 1979 | April 16, 1982, 47 FR 16326 | Submitted on October 9, 1979.
Rule 223 | Permit Transferability | August 17, 1979 | April 16, 1982, 47 FR 16326 | Submitted on October 9, 1979.
Rule 224 | Fugitive Dust Producing Activities | August 17, 1979 | April 16, 1982, 47 FR 16326 | Submitted on October 9, 1979.
Rule 225 | Open Burning Permit Conditions | August 17, 1979 | April 16, 1982, 47 FR 16326 | Submitted on October 9, 1979.
Rule 226 | Permits for State-Delegated Emission Sources | August 17, 1979 | April 16, 1982, 47 FR 16326 | Submitted on October 9, 1979.
Rule 231 | Non-Compliance | August 17, 1979 | April 16, 1982, 47 FR 16326 | Submitted on October 9, 1979.
Rule 232 | Notification of Denial | August 17, 1979 | April 16, 1982, 47 FR 16326 | Submitted on October 9, 1979.
Rule 241 | General Provisions | August 17, 1979 | April 16, 1982, 47 FR 16326 | Submitted on October 9, 1979.
Rule 242 | Installation Permit Fees/Non-Fee Requirements | June 1, 1981 | April 16, 1982, 47 FR 16326 | Submitted on June 1, 1981.
Rule 243 | Open Burning Permit Fees | August 17, 1979 | April 16, 1982, 47 FR 16326 | Submitted on October 9, 1979.
Rule 244 | Operating Permit Fees | August 17, 1979 | April 16, 1982, 47 FR 16326 | Submitted on October 9, 1979.
Rule 251 | Permit Fee Studies Related to Inflation | August 17, 1979 | April 16, 1982, 47 FR 16326 | Submitted on October 9, 1979.
Rule 252 | Periodic Review of Individual Fee Schedules | August 17, 1979 | April 16, 1982, 47 FR 16326 | Submitted on October 9, 1979.
Rule 261 | Compliance Inspections | June 1, 1981 | April 16, 1982, 47 FR 16326 | Submitted on June 1, 1981.
Tables Cited by Rules in Chapter II
Table 242 | Activity Installation Permit Requirements for Construction/Destruction Activities | August 17, 1979 | April 16, 1982, 47 FR 16326 | Submitted on October 9, 1979.
Table 243 | Open Burning Permit Fee Schedules | June 1, 1981 | April 16, 1982, 47 FR 16326 | Submitted on June 1, 1981.
Table 244-A | Equipment Operating Permit Fee Schedules for Categorical Sources | June 1, 1981 | April 16, 1982, 47 FR 16326 | Submitted on June 1, 1981.
Table 244-B | Equipment Operating Permit Fee Schedules for Non-Categorical Sources | June 1, 1981 | April 16, 1982, 47 FR 16326 | Submitted on June 1, 1981.
Table 244-C | Activity Operating Permit Fee Requirements | August 17, 1979 | April 16, 1982, 47 FR 16326 | Submitted on October 9, 1979.
Chapter III: Universal Control Standards
Rule 301 | Planning, Constructing, or Operating Without a Permit | August 17, 1979 | April 16, 1982, 47 FR 16326 | Submitted on October 9, 1979.
Rule 302 | Non-Compliance with Applicable Standards | August 17, 1979 | April 16, 1982, 47 FR 16326 | Submitted on October 9, 1979.
Rule 312 | Asphalt Kettles | August 17, 1979 | April 16, 1982, 47 FR 16326 | Submitted on October 9, 1979.
Rule 313 | Incinerators | August 17, 1979 | April 16, 1982, 47 FR 16326 | Submitted on October 9, 1979.
Rule 314 | Petroleum Liquids | August 17, 1979 | April 16, 1982, 47 FR 16326 | Submitted on October 9, 1979.
Rule 315 | Roads and Streets | August 17, 1979 | April 16, 1982, 47 FR 16326 | Submitted on October 9, 1979.
Rule 316 | Particulate Materials | August 17, 1979 | April 16, 1982, 47 FR 16326 | Submitted on October 9, 1979.
Rule 318 | Vacant Lots and Open Spaces | August 17, 1979 | April 16, 1982, 47 FR 16326 | Submitted on October 9, 1979.
Rule 321 | Standards and Applicability | August 17, 1979 | April 16, 1982, 47 FR 16326 | Submitted on October 9, 1979.
Rule 331 | Applicability | August 17, 1979 | April 16, 1982, 47 FR 16326 | Submitted on October 9, 1979.
Rule 332 | Compilation of Mass Rates and Concentrations | August 17, 1979 | April 16, 1982, 47 FR 16326 | Submitted on October 9, 1979.
Rule 341 | Applicability | August 17, 1979 | April 16, 1982, 47 FR 16326 | Submitted on October 9, 1979.
Rule 342 | Mass—Concentration Ceilings | August 17, 1979 | April 16, 1982, 47 FR 16326 | Submitted on October 9, 1979.
Rule 343 | Visibility Limiting Standards | August 17, 1979 | April 16, 1982, 47 FR 16326 | Submitted on October 9, 1979.
Rule 344 | Odor Limiting Standards | August 17, 1979 | April 16, 1982, 47 FR 16326 | Submitted on October 9, 1979.
Rule 371 | Tucson Nonattainment Areas | December 6, 1983 | August 10, 1988, 53 FR 30220; vacated; restored on January 29, 1991, 56 FR 3219 | Submitted on October 18, 1985.†
Rule 372 | Ajo Area | December 6, 1983 | August 10, 1988, 53 FR 30220; vacated; restored on January 29, 1991, 56 FR 3219 | Submitted on October 18, 1985.†
Rule 373 | General County Areas | December 6, 1983 | August 10, 1988, 53 FR 30220; vacated; restored on January 29, 1991, 56 FR 3219 | Submitted on October 18, 1985.†
Figure 371-A | Tucson Nonattainment Area for Total Suspended Particulates | December 6, 1983 | August 10, 1988, 53 FR 30220; vacated; restored on January 29, 1991, 56 FR 3219 | Submitted on October 18, 1985.†
Figure 371-C | Tucson Nonattainment Area for Carbon Monoxide | December 6, 1983 | August 10, 1988, 53 FR 30220; vacated; restored on January 29, 1991, 56 FR 3219 | Submitted on October 18, 1985.†
Figure 372 | Approximate Boundaries of Ajo Area | December 6, 1983 | August 10, 1988, 53 FR 30220; vacated; restored on January 29, 1991, 56 FR 3219 | Submitted on October 18, 1985.†
Rule 381, paragraph A, subparagraphs 1, 2, 3, 4, and 5, and paragraph B only | ADHS Nonattainment-Area Standards | December 6, 1983 | August 10, 1988, 53 FR 30220; vacated; restored on January 29, 1991, 56 FR 3219 | Submitted on October 18, 1985.†
Tables Cited by Rules in Chapter III
Table 321, excluding the “Asbestos-Containing Operation” standards | Emissions-Discharge Opacity Limiting Standards | August 17, 1979 | April 16, 1982, 47 FR 16326 | Approval excludes the “Asbestos-Containing Operation” standards. Submitted on October 9, 1979.
Table 332, excluding lines (h)-(m) | Emissions-Discharge Mass Limiting Standards | August 17, 1979 | April 16, 1982, 47 FR 16326 | Approval excludes lines (h)-(m). Submitted on October 9, 1979.
Table 341, excluding the Beryllium ceilings | Maximum Allowable Pollutant-Concentration Ceilings in Ambient Air | August 17, 1979 | April 16, 1982, 47 FR 16326 | Approval excludes the beryllium ceilings. Submitted on October 9, 1979.
Chapter IV: Performance Standards for New Major Sources
Rule 402 | Stack and Shop Emissions | August 17, 1979 | April 16, 1982, 47 FR 16326 | Submitted on October 9, 1979.
Rule 403 | Applicability of More Than One Standard | August 17, 1979 | April 16, 1982, 47 FR 16326 | Submitted on October 9, 1979.
Rule 411 | Tucson Area | August 17, 1979 | April 16, 1982, 47 FR 16326 | Submitted on October 9, 1979.
Rule 412 | Ajo Area | August 17, 1979 | April 16, 1982, 47 FR 16326 | Submitted on October 9, 1979.
Rule 413 | General County Areas | August 17, 1979 | April 16, 1982, 47 FR 16326 | Submitted on October 9, 1979.
Rule 421 | Applicability | August 17, 1979 | July 7, 1982, 47 FR 29532 | Submitted on October 9, 1979.
Rule 422 | TSP Clean Air Plan | August 17, 1979 | July 7, 1982, 47 FR 29532 | Submitted on October 9, 1979.
Rule 423 | TSP Emission Data Bank | August 17, 1979 | July 7, 1982, 47 FR 29532 | Submitted on October 9, 1979.
Rule 424 | Emission Offset Requirement | August 17, 1979 | July 7, 1982, 47 FR 29532 | Submitted on October 9, 1979.
Rule 425 | Lowest Achievable Emission Rate | August 17, 1979 | July 7, 1982, 47 FR 29532 | Submitted on October 9, 1979.
Rule 426 | Existing Sources in Compliance | August 17, 1979 | July 7, 1982, 47 FR 29532 | Submitted on October 9, 1979.
Chapter V: Testing and Monitoring
Rule 501 | Applicability of Methodology | August 17, 1979 | April 16, 1982, 47 FR 16326 | Submitted on October 9, 1979.
Rule 502 | Testing Frequencies | August 17, 1979 | April 16, 1982, 47 FR 16326 | Submitted on October 9, 1979.
Rule 503 | Notification; Fees | August 17, 1979 | April 16, 1982, 47 FR 16326 | Submitted on October 9, 1979.
Rule 504, part E, paragraph 2 | Pre-Installation Testing or Modeling Requirements | August 17, 1979 | July 7, 1982, 47 FR 29532 | Submitted on June 1, 1981.
Rule 504 | Pre-Installation Testing or Modeling Requirements | August 17, 1979 | July 7, 1982, 47 FR 29532 | Submitted on October 9, 1979.
Rule 505 | Sampling and Testing Facilities | August 17, 1979 | April 16, 1982, 47 FR 16326 | Submitted on October 9, 1979.
Rule 506 | Stack Sampling | August 17, 1979 | April 16, 1982, 47 FR 16326 | Submitted on October 9, 1979.
Rule 507 | Waiver of Test Requirements | August 17, 1979 | April 16, 1982, 47 FR 16326 | Submitted on October 9, 1979.
Rule 511 | General Requirements | August 17, 1979 | April 16, 1982, 47 FR 16326 | Submitted on October 9, 1979.
Rule 512 | In-Stack Monitoring | August 17, 1979 | April 16, 1982, 47 FR 16326 | Submitted on October 9, 1979.
Chapter VI: Recordkeeping and Reporting
Regulation 60 (“Classification of Pollutants”), Rule 601 | Classification of Common and Hazardous Air Pollutants | August 17, 1979 | April 16, 1982, 47 FR 16326 | Submitted on October 9, 1979.
Rule 611, paragraph A only | Recordkeeping for Compliance Determinations | June 1, 1981 | April 16, 1982, 47 FR 16326 | Approval included paragraph A only. Submitted on June 1, 1981.
Rule 611, paragraphs A.1 to A.3 only | Recordkeeping for Compliance Determinations | August 17, 1979 | April 16, 1982, 47 FR 16326 | Approval included paragraphs A.1 to A.3 only. Submitted on October 9, 1979.
Rule 612 | Recordkeeping for Emissions Inventories | August 17, 1979 | April 16, 1982, 47 FR 16326 | Submitted on October 9, 1979.
Rule 621 | Reporting for Compliance Evaluations | August 17, 1979 | April 16, 1982, 47 FR 16326 | Submitted on October 9, 1979.
Rule 622 | Reporting as a Permit Requirement | August 17, 1979 | April 16, 1982, 47 FR 16326 | Submitted on October 9, 1979.
Rule 623 | Reporting for Emissions Inventories | August 17, 1979 | April 16, 1982, 47 FR 16326 | Submitted on October 9, 1979.
Rule 624 | Reporting for TSP Emission Data Bank | August 17, 1979 | April 16, 1982, 47 FR 16326 | Submitted on October 9, 1979.
Rule 631 | Confidentiality of Trade Secrets, Sales Data, and Proprietary Information | August 17, 1979 | April 16, 1982, 47 FR 16326 | Submitted on October 9, 1979.
Rule 641 | Suppression; False Information | August 17, 1979 | April 16, 1982, 47 FR 16326 | Submitted on October 9, 1979.
Tables Cited by Rules in Chapter VI
Table 603 | Methodology for Entering Records of Emissions into TSP Data Bank | August 17, 1979 | April 16, 1982, 47 FR 16326 | Submitted on October 9, 1979.
Chapter VII: Violations and Judicial Procedures
Rule 701 | Criminal Complaint | August 17, 1979 | April 16, 1982, 47 FR 16326 | Submitted on October 9, 1979.
Rule 703 | Injunction | August 17, 1979 | April 16, 1982, 47 FR 16326 | Submitted on October 9, 1979.
Rule 704 | Precedence of Actions | August 17, 1979 | April 16, 1982, 47 FR 16326 | Submitted on October 9, 1979.
Rule 705 | Penalties | August 17, 1979 | April 16, 1982, 47 FR 16326 | Submitted on October 9, 1979.
Rule 706, paragraphs D.1 and D.2 only | Reviews for Startup, Shutdown, or Malfunctions | August 17, 1979 | April 16, 1982, 47 FR 16326 | Approval included paragraphs D.1 and D.2 only. Submitted on June 1, 1981.
Rule 706, paragraphs A to C, D.3, D.4, and E only | Reviews for Startup, Shutdown, or Malfunctions | August 17, 1979 | April 16, 1982, 47 FR 16326 | Approval included paragraphs A to C, D.3, D.4, and E only. Submitted on October 9, 1979.
Rule 721 | Evasion of Basic Requirements | August 17, 1979 | April 16, 1982, 47 FR 16326 | Submitted on October 9, 1979.
Rule 722 | Concealment of Emissions | August 17, 1979 | April 16, 1982, 47 FR 16326 | Submitted on October 9, 1979.
Chapter VIII: Emergency Episodes and Public Awareness
Rule 801 | State Jurisdiction | August 17, 1979 | April 16, 1982, 47 FR 16326 | Submitted on October 9, 1979.
Rule 802 | Determination of Emergency Conditions | August 17, 1979 | April 16, 1982, 47 FR 16326 | Submitted on October 9, 1979.
Rule 803 | Emergency Episode Reporting | August 17, 1979 | April 16, 1982, 47 FR 16326 | Submitted on October 9, 1979.
Rule 804 | Enforcement Actions | August 17, 1979 | April 16, 1982, 47 FR 16326 | Submitted on October 9, 1979.
Rule 811 | Continuous Monitoring of Ambient Air Pollution | August 17, 1979 | April 16, 1982, 47 FR 16326 | Submitted on October 9, 1979.
Rule 821 | Reports to the Public | August 17, 1979 | April 16, 1982, 47 FR 16326 | Submitted on October 9, 1979.
Rule 822 | General Information | August 17, 1979 | April 16, 1982, 47 FR 16326 | Submitted on October 9, 1979.
Rule 823 | Public Participation in Rulemaking | August 17, 1979 | April 16, 1982, 47 FR 16326 | Submitted on October 9, 1979.
Tables Cited by Rules in Chapter VIII
Table 802 | Air Pollution Episode Criteria | August 17, 1979 | April 16, 1982, 47 FR 16326 | Submitted on October 9, 1979.
Table 804 | Possible Control Actions During Various Stages of an Air Pollution Episode | August 17, 1979 | April 16, 1982, 47 FR 16326 | Submitted on October 9, 1979.
Chapter IX: Appendix
Rule 901 | General Affidavit of Delegation | August 17, 1979 | April 16, 1982, 47 FR 16326 | Submitted on October 9, 1979.
Rule 902 | Political Sub-Divisions Delegation | August 17, 1979 | April 16, 1982, 47 FR 16326 | Submitted on October 9, 1979.
Rule 903 | Large Power Plants Delegation | August 17, 1979 | April 16, 1982, 47 FR 16326 | Submitted on October 9, 1979.
Rule 904 | Unpaved Roads Delegation | August 17, 1979 | April 16, 1982, 47 FR 16326 | Submitted on October 9, 1979.
Rule 911 (“Emissions Discharge Testing for Common Air Pollutants”), Method 1 | Sample and Velocity Traverses for Stationary Sources | August 17, 1979 | April 16, 1982, 47 FR 16326 | Submitted on October 9, 1979.
Rule 911 (“Emissions Discharge Testing for Common Air Pollutants”), Method 2 | Determination of Stack Gas Velocity and Volumetric Flow Rate (Type S Pitot Tube) | August 17, 1979 | April 16, 1982, 47 FR 16326 | Submitted on October 9, 1979.
Rule 911 (“Emissions Discharge Testing for Common Air Pollutants”), Method 3 | Gas Analysis for Carbon Dioxide, Excess Air, and Dry Molecular Weight | August 17, 1979 | April 16, 1982, 47 FR 16326 | Submitted on October 9, 1979.
Rule 911 (“Emissions Discharge Testing for Common Air Pollutants”), Method 4 | Determination of Moisture in Stack Gases | August 17, 1979 | April 16, 1982, 47 FR 16326 | Submitted on October 9, 1979.
Rule 911 (“Emissions Discharge Testing for Common Air Pollutants”), Method 5 | Determination of Particulate Emissions from Stationary Sources | August 17, 1979 | April 16, 1982, 47 FR 16326 | Submitted on October 9, 1979.
Rule 911 (“Emissions Discharge Testing for Common Air Pollutants”), Method 6 | Determination of Sulfur Dioxide Emissions from Stationary Sources | August 17, 1979 | April 16, 1982, 47 FR 16326 | Submitted on October 9, 1979.
Rule 911 (“Emissions Discharge Testing for Common Air Pollutants”), Method 7 | Determination of Nitrogen Oxide Emissions from Stationary Sources | August 17, 1979 | April 16, 1982, 47 FR 16326 | Submitted on October 9, 1979.
Rule 911 (“Emissions Discharge Testing for Common Air Pollutants”), Method 8 | Determination of Sulfuric Acid Mist and Sulfur Dioxide Emissions from Stationary Sources | August 17, 1979 | April 16, 1982, 47 FR 16326 | Submitted on October 9, 1979.
Rule 911 (“Emissions Discharge Testing for Common Air Pollutants”), Method 9 | Visual Determination of the Opacity of Emissions from Stationary Sources | August 17, 1979 | April 16, 1982, 47 FR 16326 | Submitted on October 9, 1979.
Rule 911 (“Emissions Discharge Testing for Common Air Pollutants”), Method 10 | Determination of Carbon Monoxide Emissions from Stationary Sources | August 17, 1979 | April 16, 1982, 47 FR 16326 | Submitted on October 9, 1979.
Rule 911 (“Emissions Discharge Testing for Common Air Pollutants”), Method 11 | Determination of Hydrogen Sulfide Emissions from Stationary Sources | August 17, 1979 | April 16, 1982, 47 FR 16326 | Submitted on October 9, 1979.
Rule 911 (“Emissions Discharge Testing for Common Air Pollutants”), Method 16 | Semi-Continuous Determination of Sulfur Emissions from Stationary Sources | August 17, 1979 | April 16, 1982, 47 FR 16326 | Submitted on October 9, 1979.
Rule 911 (“Emissions Discharge Testing for Common Air Pollutants”), Method 17 | Determination of Particulate Emissions from Stationary Sources (In-Stack Filtration Method) | August 17, 1979 | April 16, 1982, 47 FR 16326 | Submitted on October 9, 1979.
Rule 911 (“Emissions Discharge Testing for Common Air Pollutants”), Method 19 | Determination of Sulfur Dioxide Removal Efficiency and Particulate, Sulfur Dioxide and Nitrogen Oxides Emission Rates from Electric Utility Steam Generators | June 1, 1981 | April 16, 1982, 47 FR 16326 | Submitted on June 1, 1981.
Rule 911 (“Emissions Discharge Testing for Common Air Pollutants”), Method 20 | Determination of Nitrogen Oxides, Sulfur Dioxide and Oxygen Emissions from Stationary Gas Turbines | June 1, 1981 | April 16, 1982, 47 FR 16326 | Submitted on June 1, 1981.
Rule 913 (“Ambient Air Testing for Common Air Pollutants”), Method A | Reference Method for the Determination of Sulfur Dioxide in the Atmosphere (Pararosaniline Method) | August 17, 1979 | April 16, 1982, 47 FR 16326 | Submitted on October 9, 1979.
Rule 913 (“Ambient Air Testing for Common Air Pollutants”), Method B | Reference Method for the Determination of Suspended Particulates in the Atmosphere (High Volume Method) | August 17, 1979 | April 16, 1982, 47 FR 16326 | Submitted on October 9, 1979.
Rule 913 (“Ambient Air Testing for Common Air Pollutants”), Method C | Measurement Principle and Calibration Procedure for the Continuous Measurement of Carbon Monoxide in the Atmosphere (Non-Dispersive Infrared Spectrometry) | August 17, 1979 | April 16, 1982, 47 FR 16326 | Submitted on October 9, 1979.
Rule 913 (“Ambient Air Testing for Common Air Pollutants”), Method D | Measurement Principle and Calibration Procedure for the Measurement of Ozone in the Atmosphere | August 17, 1979 | April 16, 1982, 47 FR 16326 | Submitted on October 9, 1979.
Rule 913 (“Ambient Air Testing for Common Air Pollutants”), Method E | Reference Method for Determination of Hydrocarbons Corrected for Methane | August 17, 1979 | April 16, 1982, 47 FR 16326 | Submitted on October 9, 1979.
Rule 913 (“Ambient Air Testing for Common Air Pollutants”), Method F | Measurement Principle and Calibration Procedure for the Measurement of Nitrogen Dioxide in the Atmosphere (Gas Phase Chemiluminescence) | August 17, 1979 | April 16, 1982, 47 FR 16326 | Submitted on October 9, 1979.
Rule 913 (“Ambient Air Testing for Common Air Pollutants”), Method G | Reference Method for the Determination of Lead in Suspended Particulate Matter collected from Ambient Air | August 17, 1979 | April 16, 1982, 47 FR 16326 | Submitted on October 9, 1979.
Rule 913 (“Ambient Air Testing for Common Air Pollutants”), Method H | Interpretation of the National Ambient Air Quality Standards for Ozone | August 17, 1979 | April 16, 1982, 47 FR 16326 | Submitted on October 9, 1979.
Rule 921 | General Specifications | August 17, 1979 | April 16, 1982, 47 FR 16326 | Submitted on October 9, 1979.
Rule 922 | Performance Specification 1 (Opacity) | August 17, 1979 | April 16, 1982, 47 FR 16326 | Submitted on October 9, 1979.
Rule 923 | Performance Specification 2 (SO2 and NOX) | August 17, 1979 | April 16, 1982, 47 FR 16326 | Submitted on October 9, 1979.
Rule 924 | Performance Specification 3 (CO2 and O2) | August 17, 1979 | April 16, 1982, 47 FR 16326 | Submitted on October 9, 1979.
Rule 931 | Guideline on Air Quality Models | August 17, 1979 | April 16, 1982, 47 FR 16326 | Submitted on October 9, 1979.
Rule 932 | Workbook for Comparison of Air Quality Models | August 17, 1979 | April 16, 1982, 47 FR 16326 | Submitted on October 9, 1979.
Post-1993 Rule Codification
Pima County Code
Title 17. Air Quality Control
Chapter 12. Permits and Permit Revisions
Article V. Open Burning Permits
17.12.480 | Open burning permits | October 19, 2004 | May 16, 2006, 71 FR 28270 | Submitted on December 30, 2004.
† Vacated by the U.S. Court of Appeals for the Ninth Circuit in Delaney v. EPA, 898 F.2d 687 (9th Cir. 1990). Restored on January 29, 1991, 56 FR 3219.

Table 8—EPA-Approved Ordinances Adopted by Pima County and Other Local Jurisdictions Within Pima County
County citation | Title/subject | State effective date | EPA approval date | Additional explanation
Pima County Ordinance No. 1988-72 | Travel Reduction Ordinance | April 18, 1988 | January 29, 1991, 56 FR 3219 | Submitted on May 26, 1988.
City of Tucson Ordinance No. 6914 | Travel Reduction Ordinance | April 18, 1988 | January 29, 1991, 56 FR 3219 | Submitted on May 26, 1988.
City of South Tucson Ordinance 88-01 | Travel Reduction Code | April 18, 1988 | January 29, 1991, 56 FR 3219 | Adopted through Resolutions No. 88-01 and 88-05.
Town of Marana Ordinance No. 88-06 | Travel Reduction Code | April 18, 1988 | January 29, 1991, 56 FR 3219 | Adopted through Resolutions No. 88-06 and 88-07. Submitted on May 26, 1988.
Town of Oro Valley Ordinance No. 162 | Travel Reduction Code | April 18, 1988 | January 29, 1991, 56 FR 3219 | Adopted through Resolutions No. 162, 326 and 327.

Table 9—EPA-Approved Pinal County Air Pollution Control Regulations
County citation | Title/subject | State effective date | EPA approval date | Additional explanation
Pinal-Gila Counties Air Pollution Control District Regulations
7-3-1.4(C) | Incineration | August 7, 1980 | April 12, 1982, 47 FR 15579 | Adopted by Pinal-Gila Counties Air Quality Control District. Submitted on August 7, 1980. Deleted with respect to Gila County only July 25, 2001, 66 FR 38565.
7-3-1.4 (Excluding Paragraph C) | Particulate Emissions—Incineration | March 19, 1974 | November 15, 1978, 43 FR 53031 | Adopted by Pinal-Gila Counties Air Quality Control District. EPA disapproved paragraph C. Submitted on July 1, 1975. Deleted with respect to Gila County only July 25, 2001, 66 FR 38565.
7-3-1.5 | Particulate Emissions—Wood Waste Burners | March 19, 1974 | November 15, 1978, 43 FR 53031 | Adopted by Pinal-Gila Counties Air Quality Control District. Submitted on July 1, 1975. Deleted with respect to Gila County only July 25, 2001, 66 FR 38565.
7-3-1.7(F) | Fuel burning equipment | August 7, 1980 | April 12, 1982, 47 FR 15579 | Adopted by Pinal-Gila Counties Air Quality Control District. Submitted on August 7, 1980. Deleted with respect to Gila County only July 25, 2001, 66 FR 38565.
7-3-1.7 (Excluding Paragraph F) | Particulate Emissions—Fuel Burning Equipment | March 19, 1974 | November 15, 1978, 43 FR 53031 | Adopted by Pinal-Gila Counties Air Quality Control District. EPA disapproved paragraph F. Submitted on July 1, 1975. Deleted with respect to Gila County only July 25, 2001, 66 FR 38565.
7-3-2.4 | SO2 Emissions—Sulfuric Acid Plants | March 19, 1974 | November 15, 1978, 43 FR 53031 | Adopted by Pinal-Gila Counties Air Quality Control District. Submitted on July 1, 1975. Deleted with respect to Gila County only July 25, 2001, 66 FR 38565.
7-3-5.1 | NO2 Emissions—Fuel Burning Equipment | March 19, 1974 | November 15, 1978, 43 FR 53031 | Adopted by Pinal-Gila Counties Air Quality Control District. Submitted on July 1, 1975. Deleted with respect to Gila County only July 25, 2001, 66 FR 38565.
7-3-5.2 | NO2 Emissions—Nitric Acid Plants | March 19, 1974 | November 15, 1978, 43 FR 53031 | Adopted by Pinal-Gila Counties Air Quality Control District. Submitted on July 1, 1975. Deleted with respect to Gila County only July 25, 2001, 66 FR 38565.
Pinal County Air Quality Control District Regulations
Chapter 1. General Provisions and Definitions
1-1-010 | Declaration of policy | February 22, 1995 | April 9, 1996, 61 FR 15717 | Submitted on November 27, 1995.
1-1-020 | Air Quality Control District | June 29, 1993 | April 9, 1996, 61 FR 15717 | Submitted on November 27, 1995.
1-1-030 | Executive head | June 29, 1993 | April 9, 1996, 61 FR 15717 | Submitted on November 27, 1995.
1-1-040 | Investigative authority | June 29, 1993 | April 9, 1996, 61 FR 15717 | Submitted on November 27, 1995.
1-1-060 | Authority to study, cooperate and hold public hearings | June 29, 1993 | April 9, 1996, 61 FR 15717 | Submitted on November 27, 1995.
1-1-070 | Severability clause | June 29, 1993 | April 9, 1996, 61 FR 15717 | Submitted on November 27, 1995.
1-1-080 | Preservation of rights | June 29, 1993 | April 9, 1996, 61 FR 15717 | Submitted on November 27, 1995.
1-1-090 | Copies and effective date | November 3, 1993 | April 9, 1996, 61 FR 15717 | Submitted on November 27, 1995.
1-1-100 | Selecting interpretations | June 29, 1993 | April 9, 1996, 61 FR 15717 | Submitted on November 27, 1995.
1-1-106 | Jurisdictional Statement | February 22, 1995 | April 9, 1996, 61 FR 15717 | Submitted on November 27, 1995.
1-2-110 | Adopted document(s) | June 29, 1993 | April 9, 1996, 61 FR 15717 | Submitted on November 27, 1995.
1-2-120 | Adoptions by reference | November 3, 1993 | April 9, 1996, 61 FR 15717 | Submitted on November 27, 1995.
1-3-140 | Definitions, 74, Hearing Board | July 23, 2014 | August 10, 2015, 80 FR 47859 | Adopted by the Pinal County Board of Supervisors through Resolution No. 072314-AQ1. Includes new text that is underlined and excludes removed text which was struck by the board. Submitted by ADEQ on September 4, 2014.
1-3-140 | Definitions | July 29, 1998 | November 13, 2002, 67 FR 68764 | Submitted on October 7, 1998.
Chapter 2. Ambient Air Quality Standards
2-1-010 | Purpose | June 29, 1993 | April 9, 1996, 61 FR 15717 | Submitted on November 27, 1995.
2-1-020 | Particulate matter | June 29, 1993 | April 9, 1996, 61 FR 15717 | Submitted on November 27, 1995.
2-1-030 | Sulfur oxide (sulfur dioxide) | June 29, 1993 | April 9, 1996, 61 FR 15717 | Submitted on November 27, 1995.
2-1-040 | Ozone | June 29, 1993 | April 9, 1996, 61 FR 15717 | Submitted on November 27, 1995.
2-1-050 | Carbon monoxide | June 29, 1993 | April 9, 1996, 61 FR 15717 | Submitted on November 27, 1995.
2-1-060 | Nitrogen dioxide | June 29, 1993 | April 9, 1996, 61 FR 15717 | Submitted on November 27, 1995.
2-1-070 | Lead | June 29, 1993 | April 9, 1996, 61 FR 15717 | Submitted on November 27, 1995.
2-2-080 | Air quality monitoring methods | June 29, 1993 | April 9, 1996, 61 FR 15717 | Submitted on November 27, 1995.
2-2-090 | Air quality monitoring procedures | June 29, 1993 | April 9, 1996, 61 FR 15717 | Submitted on November 27, 1995.
2-3-100 | Interpretation of ambient air quality standards | June 29, 1993 | April 9, 1996, 61 FR 15717 | Submitted on November 27, 1995.
2-3-110 | Evaluation of air quality data | June 29, 1993 | April 9, 1996, 61 FR 15717 | Submitted on November 27, 1995.
2-4-120 | Purpose | June 29, 1993 | April 9, 1996, 61 FR 15717 | Relates to attainment area classifications. Submitted on November 27, 1995.
2-4-130 | Adopted document(s) | June 29, 1993 | April 9, 1996, 61 FR 15717 | Submitted on November 27, 1995.
2-4-140 | Area classifications within Pinal County | June 29, 1993 | April 9, 1996, 61 FR 15717 | Submitted on November 27, 1995.
2-4-150 | Attainment status in Pinal County | June 29, 1993 | April 9, 1996, 61 FR 15717 | Submitted on November 27, 1995.
2-5-160 | Ambient air increment ceilings | October 12, 1995 | April 9, 1996, 61 FR 15717 | Submitted on November 27, 1995.
2-5-170 | Baseline concentration | June 29, 1993 | April 9, 1996, 61 FR 15717 | Submitted on November 27, 1995.
2-5-180 | Baseline date | October 12, 1995 | April 9, 1996, 61 FR 15717 | Submitted on November 27, 1995.
2-5-190 | Baseline area | February 22, 1995 | April 9, 1996, 61 FR 15717 | Submitted on November 27, 1995.
2-5-200 | Exemptions | February 22, 1995 | April 9, 1996, 61 FR 15717 | Submitted on November 27, 1995.
2-5-210 | Violations of maximum allowable increases | June 29, 1993 | April 9, 1996, 61 FR 15717 | Submitted on November 27, 1995.
2-6-220 | Violations of national ambient air quality standards | June 29, 1993 | April 9, 1996, 61 FR 15717 | Submitted on November 27, 1995.
2-7-230 | Purpose | June 29, 1993 | April 9, 1996, 61 FR 15717 | Relates to air pollution emergency episodes. Submitted on November 27, 1995.
2-7-240 | Episode procedures guidelines | June 29, 1993 | April 9, 1996, 61 FR 15717 | Submitted on November 27, 1995.
2-7-250 | Definitions | June 29, 1993 | April 9, 1996, 61 FR 15717 | Relates to air pollution emergency episodes. Submitted on November 27, 1995.
2-7-260 | Standards | June 29, 1993 | April 9, 1996, 61 FR 15717 | Relates to air pollution emergency episodes. Submitted on November 27, 1995.
2-7-270 | Administrative requirements | June 29, 1993 | April 9, 1996, 61 FR 15717 | Relates to air pollution emergency episodes. Submitted on November 27, 1995.
2-8-280 | General | June 29, 1993 | April 28, 2004, 69 FR 23103 | Relates to limits on visible emissions. Submitted on November 27, 1995.
2-8-290 | Definitions | June 29, 1993 | April 28, 2004, 69 FR 23103 | Relates to limits on visible emissions. Submitted on November 27, 1995.
2-8-300 | Performance Standards | May 18, 2005 | March 27, 2006, 71 FR 15043 | Relates to limits on visible emissions. Submitted on September 12, 2005.
2-8-302 | Performance Standards—Hayden PM10 Nonattainment Area | January 7, 2009 | April 6, 2010, 75 FR 17307 | Submitted on June 12, 2009.
2-8-310 | Exemptions | June 29, 1993 | April 28, 2004, 69 FR 23103 | Relates to limits on visible emissions. Submitted on November 27, 1995.
2-8-320 | Monitoring and records | June 29, 1993 | April 28, 2004, 69 FR 23103 | Relates to limits on visible emissions. Submitted on November 27, 1995.
Chapter 3. Permits and Permit Revisions
3-1-010 | Purpose | November 3, 1993 | April 9, 1996, 61 FR 15717 | Submitted on November 27, 1995.
3-1-030 | Definitions | November 3, 1993 | April 9, 1996, 61 FR 15717 | Submitted on November 27, 1995.
3-1-040 | Applicability and classes of permits | October 12, 1995 | April 9, 1996, 61 FR 15717 | Submitted on November 27, 1995.
3-1-042 | Operating authority and obligations for a source subject to permit reopening | February 22, 1995 | April 9, 1996, 61 FR 15717 | Submitted on November 27, 1995.
3-1-050 | Permit application requirements | October 12, 1995 | April 9, 1996, 61 FR 15717 | Submitted on November 27, 1995.
3-1-055 | Completeness determination | November 3, 1993 | April 9, 1996, 61 FR 15717 | Submitted on November 27, 1995.
3-1-060 | Permit application review process | February 22, 1995 | April 9, 1996, 61 FR 15717 | Submitted on November 27, 1995.
3-1-065 | Permit review by the EPA and affected states | November 3, 1993 | April 9, 1996, 61 FR 15717 | Submitted on November 27, 1995.
3-1-070 | Permit application grant or denial | November 3, 1993 | April 9, 1996, 61 FR 15717 | Submitted on November 27, 1995.
3-1-081 | Permit conditions | February 22, 1995 | April 9, 1996, 61 FR 15717 | Submitted on November 27, 1995.
3-1-082 | Emission standards and limitations | November 3, 1993 | April 9, 1996, 61 FR 15717 | Submitted on November 27, 1995.
3-1-083 | Compliance provisions | February 22, 1995 | April 9, 1996, 61 FR 15717 | Submitted on November 27, 1995.
3-1-084 | Voluntarily Accepted Federal Enforceable Emission Limitations: Applicability; Reopening; Effective Date | February 22, 1995 | December 20, 2000, 65 FR 79742 | Submitted on November 27, 1995.
3-1-085 | Notice by building permit agencies | November 3, 1993 | April 9, 1996, 61 FR 15717 | Submitted on November 27, 1995.
3-1-087 | Permit reopening, reissuance and termination | November 3, 1993 | April 9, 1996, 61 FR 15717 | Submitted on November 27, 1995.
3-1-089 | Permit term, renewal and expiration | February 22, 1995 | April 9, 1996, 61 FR 15717 | Submitted on November 27, 1995.
3-1-090 | Permit transfer | November 3, 1993 | April 9, 1996, 61 FR 15717 | Submitted on November 27, 1995.
3-1-102 | Permit shields | November 3, 1993 | April 9, 1996, 61 FR 15717 | Submitted on November 27, 1995.
3-1-103 | Annual emissions inventory questionnaire | February 22, 1995 | April 9, 1996, 61 FR 15717 | Submitted on November 27, 1995.
3-1-105 | Permits containing the terms and conditions of federal delayed compliance orders (DCO) or consent decree | November 3, 1993 | April 9, 1996, 61 FR 15717 | Submitted on November 27, 1995.
3-1-107 | Public notice and participation | February 22, 1995 | December 20, 2000, 65 FR 79742 | Submitted on November 27, 1995.
3-1-109 | Material permit condition | February 22, 1995 | April 9, 1996, 61 FR 15717 | Submitted on November 27, 1995.
3-1-110 | Investigative authority | November 3, 1993 | April 9, 1996, 61 FR 15717 | Submitted on November 27, 1995.
3-1-120 | Confidentiality of records | November 3, 1993 | April 9, 1996, 61 FR 15717 | Submitted on November 27, 1995.
3-1-132 | Permit imposed right of entry | June 29, 1993 | April 9, 1996, 61 FR 15717 | Submitted on November 27, 1995.
3-1-140 | Permit revocation | November 3, 1993 | April 9, 1996, 61 FR 15717 | Submitted on November 27, 1995.
3-1-150 | Monitoring | November 3, 1993 | April 9, 1996, 61 FR 15717 | Submitted on November 27, 1995.
3-1-160 | Test methods and procedures | November 3, 1993 | April 9, 1996, 61 FR 15717 | Submitted on November 27, 1995.
3-1-170 | Performance tests | November 3, 1993 | April 9, 1996, 61 FR 15717 | Submitted on November 27, 1995.
3-1-173 | Quality assurance | November 3, 1993 | April 9, 1996, 61 FR 15717 | Submitted on November 27, 1995.
3-1-175 | Certification of truth, accuracy and completeness | November 3, 1993 | April 9, 1996, 61 FR 15717 | Submitted on November 27, 1995.
3-1-177 | Stack height limitation | November 3, 1993 | April 9, 1996, 61 FR 15717 | Submitted on November 27, 1995.
3-2-180 | Facility changes allowed without permit revisions | November 3, 1993 | April 9, 1996, 61 FR 15717 | Submitted on November 27, 1995.
3-2-185 | Administrative permit amendments | November 3, 1993 | April 9, 1996, 61 FR 15717 | Submitted on November 27, 1995.
3-2-190 | Minor permit revisions | November 3, 1993 | April 9, 1996, 61 FR 15717 | Submitted on November 27, 1995.
3-2-195 | Significant permit revisions | November 3, 1993 | April 9, 1996, 61 FR 15717 | Submitted on November 27, 1995.
3-3-200 | Purpose | November 3, 1993 | April 9, 1996, 61 FR 15717 | Relates to permit requirements for new major sources and major modifications to existing major sources. Submitted on November 27, 1995.
3-3-203 | Definitions | November 3, 1993 | April 9, 1996, 61 FR 15717 | Relates to permit requirements for new major sources and major modifications to existing major sources. Submitted on November 27, 1995.
3-3-205 | Application requirements | November 3, 1993 | April 9, 1996, 61 FR 15717 | Relates to permit requirements for new major sources and major modifications to existing major sources. Submitted on November 27, 1995.
3-3-210 | Application review process | February 22, 1995 | April 9, 1996, 61 FR 15717 | Relates to permit requirements for new major sources and major modifications to existing major sources. Submitted on November 27, 1995.
3-3-250 | Permit and permit revision requirements for sources located in attainment and unclassifiable areas | February 22, 1995 | April 9, 1996, 61 FR 15717 | Relates to permit requirements for new major sources and major modifications to existing major sources. Submitted on November 27, 1995.
3-3-260 | Air quality impact analysis and monitoring requirements | November 3, 1993 | April 9, 1996, 61 FR 15717 | Relates to permit requirements for new major sources and major modifications to existing major sources. Submitted on November 27, 1995.
3-3-270 | Innovative control technology | November 3, 1993 | April 9, 1996, 61 FR 15717 | Relates to permit requirements for new major sources and major modifications to existing major sources. Submitted on November 27, 1995.
3-3-275 | Air quality models | November 3, 1993 | April 9, 1996, 61 FR 15717 | Relates to permit requirements for new major sources and major modifications to existing major sources. Submitted on November 27, 1995.
3-3-280 | Visibility protection | November 3, 1993 | April 9, 1996, 61 FR 15717 | Relates to permit requirements for new major sources and major modifications to existing major sources. Submitted on November 27, 1995.
3-8-700 | General Provisions | October 27, 2004 | May 16, 2006, 71 FR 28270 | Relates to open burning. Submitted on December 30, 2004.
3-8-710 | Permit Provisions and Administration | October 27, 2004 | May 16, 2006, 71 FR 28270 | Relates to open burning. Submitted on December 30, 2004.
Chapter 4. Emissions from Existing and New Non-Point Sources
4-2-020 | Fugitive Dust—General | December 4, 2002 | April 6, 2010, 75 FR 17307 | Submitted on June 12, 2009.
4-2-030 | Fugitive Dust—Definitions | December 4, 2002 | April 6, 2010, 75 FR 17307 | Submitted on June 12, 2009.
4-2-040 | Standards | June 29, 1993 | August 1, 2007, 72 FR 41896 | Relates to fugitive dust. Submitted on November 27, 1995.
4-2-050 | Monitoring and Records | May 14, 1997 | August 1, 2007, 72 FR 41896 | Relates to fugitive dust. Submitted on October 7, 1998.
4-4-100 | General Provisions | October 1, 2009 | April 6, 2010, 75 FR 17307 | Relates to PM-10 Non-attainment Area Rules; Dustproofing and Stabilization for Commercial Unpaved Parking, Drive and Working Yards. Submitted on June 12, 2009.
4-4-110 | Definitions | October 1, 2009 | April 6, 2010, 75 FR 17307 | Relates to PM-10 Non-attainment Area Rules; Dustproofing and Stabilization for Commercial Unpaved Parking, Drive and Working Yards. Submitted on June 12, 2009.
4-4-120 | Objective Standards | October 1, 2009 | April 6, 2010, 75 FR 17307 | Relates to PM-10 Non-attainment Area Rules; Dustproofing and Stabilization for Commercial Unpaved Parking, Drive and Working Yards. Submitted on June 12, 2009.
4-4-130 | Work Practice Standards | October 1, 2009 | April 6, 2010, 75 FR 17307 | Relates to PM-10 Non-attainment Area Rules; Dustproofing and Stabilization for Commercial Unpaved Parking, Drive and Working Yards. Submitted on June 12, 2009.
4-4-140 | Recordkeeping and Records Retention | October 1, 2009 | April 6, 2010, 75 FR 17307 | Relates to PM-10 Non-attainment Area Rules; Dustproofing and Stabilization for Commercial Unpaved Parking, Drive and Working Yards. Submitted on June 12, 2009.
4-5-150 | Stabilization for Residential Parking and Drives; Applicability | October 1, 2009 | April 6, 2010, 75 FR 17307 | Relates to PM-10 Non-attainment Area Rules; Stabilization for Residential Parking and Drives. Submitted on June 12, 2009.
4-5-160 | Residential Parking Control Requirement | October 1, 2009 | April 6, 2010, 75 FR 17307 | Relates to PM-10 Non-attainment Area Rules; Stabilization for Residential Parking and Drives. Submitted on June 12, 2009.
4-5-170 | Deferred enforcement date | October 1, 2009 | April 6, 2010, 75 FR 17307 | Relates to PM-10 Non-attainment Area Rules; Stabilization for Residential Parking and Drives. Submitted on June 12, 2009.
4-7-210 | Definitions | June 3, 2009 | April 6, 2010, 75 FR 17307 | Relates to Construction Sites in Non-Attainment Areas—Fugitive Dust. Submitted on June 12, 2009.
4-7-214 | General Provisions | June 3, 2009 | April 6, 2010, 75 FR 17307 | Relates to Construction Sites in Non-Attainment Areas—Fugitive Dust. Submitted on June 12, 2009.
4-7-218 | Applicability; Development Activity | June 3, 2009 | April 6, 2010, 75 FR 17307 | Relates to Construction Sites in Non-Attainment Areas—Fugitive Dust. Submitted on June 12, 2009.
4-7-222 | Owner and/or Operator Liability | June 3, 2009 | April 6, 2010, 75 FR 17307 | Relates to Construction Sites in Non-Attainment Areas—Fugitive Dust. Submitted on June 12, 2009.
4-7-226 | Objective Standards; Sites | June 3, 2009 | April 6, 2010, 75 FR 17307 | Relates to Construction Sites in Non-Attainment Areas—Fugitive Dust. Submitted on June 12, 2009.
4-7-230 | Obligatory Work Practice Standards; Sites | June 3, 2009 | April 6, 2010, 75 FR 17307 | Relates to Construction Sites in Non-Attainment Areas—Fugitive Dust. Submitted on June 12, 2009.
4-7-234 | Nonattainment-Area Dust Permit Program; General Provisions | June 3, 2009 | April 6, 2010, 75 FR 17307 | Relates to Construction Sites in Non-Attainment Areas—Fugitive Dust. Submitted on June 12, 2009.
4-7-238 | Nonattainment Area Site Permits | June 3, 2009 | April 6, 2010, 75 FR 17307 | Relates to Construction Sites in Non-Attainment Areas—Fugitive Dust. Submitted on June 12, 2009.
4-7-242 | Nonattainment Area Block Permits | June 3, 2009 | April 6, 2010, 75 FR 17307 | Relates to Construction Sites in Non-Attainment Areas—Fugitive Dust. Submitted on June 12, 2009.
4-7-246 | Recordkeeping and Records Retention | June 3, 2009 | April 6, 2010, 75 FR 17307 | Relates to Construction Sites in Non-Attainment Areas—Fugitive Dust. Submitted on June 12, 2009.
4-9-320 | Test Methods for Stabilization for Unpaved Roads and Unpaved Parking Lots | June 3, 2009 | April 6, 2010, 75 FR 17307 | Submitted on June 12, 2009.
4-9-340 | Visual Opacity Test Methods | June 3, 2009 | April 6, 2010, 75 FR 17307 | Submitted on June 12, 2009.
Chapter 5. Stationary Source Performance Standards
5-18-740 | Storage of Volatile Organic Compounds—Organic Compound Emissions | February 22, 1995 | December 26, 2000, 65 FR 81371 | Submitted on November 27, 1995.
5-19-800 | General | February 22, 1995 | December 26, 2000, 65 FR 81371 | Relates to loading of organic liquids. Submitted on November 27, 1995.
5-22-950 | Fossil Fuel Fired Steam Generator Standard Applicability | February 22, 1995 | September 29, 2000, 65 FR 58359 | Submitted on November 27, 1995.
5-22-960 | Fossil Fuel Fired Steam Generator Sulfur Dioxide Emission Limitation | February 22, 1995 | September 29, 2000, 65 FR 58359 | Submitted on November 27, 1995.
5-24-1032 | Federally Enforceable Minimum Standard of Performance—Process Particulate Emissions | February 22, 1995 | April 17, 2012, 77 FR 22676 | Submitted on November 27, 1995.
5-24-1040 | Carbon Monoxide Emissions—Industrial Processes | February 22, 1995 | April 28, 2004, 69 FR 23103 | Submitted on November 27, 1995.
5-24-1045 | Sulfite Pulp Mills—Sulfur Compound Emissions | February 22, 1995 | September 29, 2000, 65 FR 58359 | Submitted on November 27, 1995.
5-24-1055 | Pumps and Compressors—Organic Compound Emissions | February 22, 1995 | December 26, 2000, 65 FR 81371 | Submitted on November 27, 1995.

(d) EPA-approved source-specific requirements.

EPA-Approved Source-Specific Requirements
Name of source | Order/permit No. | Effective date | EPA approval date | Explanation
Arizona Department of Environmental Quality
Arizona Electric Power Cooperative's Apache Generating Station | Significant Revision No. 59195 to Air Quality Control Permit No. 55412, excluding section V.D | May 13, 2014 | April 10, 2015, 80 FR 19220 | Permit issued by the Arizona Department of Environmental Quality. Submitted on May 13, 2014.
Maricopa County Air Quality Department
W.R. Meadows of Arizona, Inc., Goodyear, Arizona | V98-0004, condition 23 | February 17, 2005 | June 14, 2005, 70 FR 34357 | Permit issued by the Maricopa County Air Quality Department. Submitted on April 20, 2005.

(e) EPA-approved Arizona nonregulatory provisions and quasi-regulatory measures.

Table 1—EPA-Approved Non-Regulatory and Quasi-Regulatory Measures
[Excluding certain resolutions and statutes, which are listed in tables 2 and 3, respectively] ¹
Name of SIP provision | Applicable geographic or nonattainment area or title/subject | State submittal date | EPA approval date | Explanation
The State of Arizona Air Pollution Control Implementation Plan
Clean Air Act Section 110(a)(2) State Implementation Plan Elements (Excluding Part D Elements and Plans)
Chapter 1—Introduction | State-wide | May 26, 1972 | July 27, 1972, 37 FR 15080 | Submittal letter is dated May 26, 1972; received by EPA on May 30, 1972.
Appendix G—Policy Statement on Air Pollution Control | State-wide | May 26, 1972 | July 27, 1972, 37 FR 15080 | Submittal letter is dated May 26, 1972; received by EPA on May 30, 1972.
Chapter 2—Legal Authority, excluding section 2.9 (“Jurisdiction over Indian Lands”) | State-wide | May 26, 1972 | July 27, 1972, 37 FR 15080 | Submittal letter is dated May 26, 1972; received by EPA on May 30, 1972. See table 1 of subsection (c) and table 3 of subsection (e). Section 2.9 was deleted without replacement at 81 FR 7209 (February 11, 2016).
Assertion of State Jurisdiction over Apache, Navajo, Santa Cruz, and Yavapai Counties; Assertion of State Jurisdiction over Cochise County; and Assertion of State Jurisdiction over specific sources in Mohave County | Apache, Navajo, Santa Cruz, Yavapai, Cochise, and Mohave Counties | February 3, 1975 | July 31, 1978, 43 FR 33245 |
Chapter 3—Air Quality Data | State-wide | May 26, 1972 | July 27, 1972, 37 FR 15080 | Submittal letter is dated May 26, 1972; received by EPA on May 30, 1972.
Chapter 4—Emission Data | State-wide | May 26, 1972 | July 27, 1972, 37 FR 15080 | Submittal letter is dated May 26, 1972; received by EPA on May 30, 1972.
Chapter 5—Air Quality Surveillance Network (February 1980) | State-wide | February 15, 1980 | August 10, 1981, 46 FR 40512 |
Chapter 6—Control Strategy | State-wide | May 26, 1972 | July 27, 1972, 37 FR 15080 | SIP elements developed to address CAA requirements in designated nonattainment areas as well as maintenance plans are listed at the end of this table.
Chapter 7—Compliance Schedules | State-wide | May 26, 1972 | July 27, 1972, 37 FR 15080 | Submittal letter is dated May 26, 1972; received by EPA on May 30, 1972.
Chapter 8—Emergency Episode Prevention | State-wide | May 26, 1972 | July 27, 1972, 37 FR 15080 | Submittal letter is dated May 26, 1972; received by EPA on May 30, 1972.
Appendix E—Emergency Episode Communications Manual | State-wide | May 26, 1972 | July 27, 1972, 37 FR 15080 | Submittal letter is dated May 26, 1972; received by EPA on May 30, 1972.
Chapter 9—Review of New Sources and Modifications | State-wide | May 26, 1972 | July 27, 1972, 37 FR 15080 | Submittal letter is dated May 26, 1972; received by EPA on May 30, 1972.
Setting Applicability Thresholds, pages 1547-1549 in Appendix A to “State Implementation Plan Revision: New Source Review” adopted on October 29, 2012 | State-wide | Submitted on October 29, 2012, and supplemented on September 6, 2013 and July 2, 2014 | November 2, 2015, 80 FR 67319 |
Memorandum, “Proposed Final Permits to be Treated as Appealable Agency Actions,” dated February 10, 2015, from Eric Massey, Air Quality Division Director to Balaji Vaidyanathan, Permit Section Manager, submitted on February 23, 2015. | State-wide | Submitted on October 29, 2012, and supplemented on September 6, 2013 and July 2, 2014 | November 2, 2015, 80 FR 67319 |
“State Implementation Plan Revision: New Source Review—Supplement,” relating to the division of jurisdiction for New Source Review in Arizona, adopted on July 2, 2014 | State-wide | Submitted on October 29, 2012, and supplemented on September 6, 2013 and July 2, 2014 | November 2, 2015, 80 FR 67319 |
Letter from the Arizona Department of Environmental Quality, dated June 1, 1988, committing to administer the provisions of the Federal New Source Review regulations consistent with EPA's requirements | State-wide | June 1, 1988 | August 10, 1988, 53 FR 30220; vacated; restored on January 29, 1991, 56 FR 3219 | The commitments apply to the issuance of, or revision to, permits for any source which is a major stationary source or major modification as defined in 40 CFR, part 51, subpart I.†
Letter from Maricopa County Department of Health Services, Division of Public Health, dated April 28, 1988, committing to administer the New Source Review provisions of their regulations consistent with EPA's requirements | Maricopa County | July 25, 1988 | August 10, 1988, 53 FR 30224; vacated; restored on January 29, 1991, 56 FR 3219 | The commitments apply to the issuance of, or revision to, permits for any source which is a major stationary source or major modification as defined in 40 CFR, part 51, subpart I.†
Letter from the Pima County Health Department, Office of Environmental Quality, dated April 24, 1988 committing to administer the New Source Review provisions of their regulations consistent with EPA's requirements | Pima County | July 22, 1988 | August 10, 1988, 53 FR 30220; vacated; restored on January 29, 1991, 56 FR 3219 | The commitments apply to the issuance of, or revision to, permits for any source which is a major stationary source or major modification as defined in 40 CFR, part 51, subpart I.†
State Implementation Plan Determination of “Good Engineering Practice” Stack Height | Gila County (Hayden Copper Smelter) | September 20, 1979 | January 14, 1983, 48 FR 1717 | Issued by Arizona Department of Health Services.
Technical Basis of New Source Review Regulations, Pima County, Arizona, February 6, 1980 (AQ-125-a) | Pima County | February 28, 1980 | July 7, 1982, 47 FR 29532 |
Chapter 10—Source Surveillance | State-wide | May 26, 1972 | July 27, 1972, 37 FR 15080 | Submittal letter is dated May 26, 1972; received by EPA on May 30, 1972.
Chapter 11—Rules and Regulations | State-wide | May 26, 1972 | July 27, 1972, 37 FR 15080 | Also, see tables 1 through 6 in section 40 CFR 52.120(c).
Chapter 12—Intergovernmental Cooperation | State-wide | May 26, 1972 | July 27, 1972, 37 FR 15080 | Submittal letter is dated May 26, 1972; received by EPA on May 30, 1972.
Chapter 13—Resources | State-wide | May 26, 1972 | July 27, 1972, 37 FR 15080 | Submittal letter is dated May 26, 1972; received by EPA on May 30, 1972.
Small Business Stationary Source Technical and Environmental Compliance Assistance Program | State-wide | February 1, 1995 | June 15, 1995, 60 FR 31411 | Adopted by the Arizona Department of Environmental Quality on February 1, 1995.
Small Business Stationary Source Technical and Environmental Compliance Assistance Program | State-wide | November 13, 1992 | June 15, 1995, 60 FR 31411 | Adopted by the Arizona Department of Environmental Quality on November 13, 1992.
A Revised Analysis of Lead Emissions and Ambient-Air Concentrations in Pima County, Arizona | Pima County | September 26, 1980 | June 30, 1982, 47 FR 28374 |
Arizona Lead SIP Revision | State-wide | April 1, 1980 | June 30, 1982, 47 FR 28374 |
Arizona State Implementation Plan, Revision to the Arizona Regional Haze Plan for Arizona Electric Power Cooperative, Incorporated, Apache Generating Station, excluding the appendices | Source-Specific | May 13, 2014 | April 10, 2015, 80 FR 19220 | Submitted on May 13, 2014.
Arizona State Implementation Plan Revision, Regional Haze Under Section 308 of the Federal Regional Haze Rule (May 2013), excluding: | Source-Specific | May 3, 2013 | July 30, 2013, 78 FR 46142 |
(i) Chapter 10, section 10.7 (regarding ASARCO Hayden Smelter (PM10 emissions) and Chemical Lime Company—Nelson Lime Plant);
(ii) Chapter 11, except subsection 11.3.1(3) (“Focus on SO2 and NOX pollutants”);
(iii) Appendix D: chapter I, except for the footnotes in tables 1.1, 1.2 and 1.3 to the entries for AEPCO [Apache], and the entry in table 1.2 for Freeport-McMoRan Miami Smelter; chapter VI, section C (regarding PM10 emissions from ASARCO Hayden smelter); chapter XII, section C, and chapter XIII, subsection D; and
(iv) Appendix E.
Arizona State Implementation Plan, Regional Haze Under Section 308 of the Federal Regional Haze Rule (January 2011), excluding: | Source-Specific | February 28, 2011 | July 30, 2013, 78 FR 46142 |
(i) Chapter 6: table 6.1; chapter 10: sections 10.4, 10.6 (regarding Unit I4 at the Irvington (Sundt) Generating Station), 10.7, and 10.8; chapter 11; chapter 12: sections 12.7.3 (“Emission Limitation and Schedules of Compliance”) and 12.7.6 (“Enforceability of Arizona's Measures”); and chapter 13: section 13.2.3 (“Arizona and Other State Emission Reductions Obligations”);
(ii) Appendix D: chapter I; chapter V (regarding Unit I4 at the Irvington (Sundt) Generating Station); chapter VI, sections C and D; chapter VII; chapter IX; chapter X, section E.1; chapter XI, section D; chapter XII, sections B and C; chapter XIII, sections B, C, and D; and chapter XIV, section D; and
(iii) Appendix E.
Arizona State Implementation Plan, Regional Haze Under Section 308 of the Federal Regional Haze Rule: Appendix D, Arizona BART—Supplemental Information: | Source-Specific | February 28, 2011 | December 5, 2012, 77 FR 72512 | Certain source-specific Best Available Retrofit Technology (BART) limits at three electric generating stations.
(i) Table 1.1—NOX BART, entry for AEPCO [Apache], ST1 [Unit 1] only.
(ii) Table 1.2—PM10 BART, entries for AEPCO [Apache], APS Cholla Power Plant and SRP Coronado Generating Station.
(iii) Table 1.3—SO2 BART, entries for AEPCO, APS Cholla Power Plant and SRP Coronado Generating Station.
Arizona State Implementation Plan Revision under Clean Air Act Section 110(a)(1) and (2); Implementation of the 2008 Lead National Ambient Air Quality Standards, excluding the appendices | State-wide | October 14, 2011 | August 10, 2015, 80 FR 47859 | Adopted by the Arizona Department of Environmental Quality on October 14, 2011.
SIP Revision: Clean Air Act Section 110(a)(2)(D), 2008 Ozone National Ambient Air Quality Standards (December 3, 2015) | State-wide | December 3, 2015 | May 19, 2016, 81 FR 31513; correcting amendment on June 6, 2016, 81 FR 31679 | Adopted by the Arizona Department of Environmental Quality on December 3, 2015.
Arizona State Implementation Plan Revision under Clean Air Act Section 110(a)(1) and (2); 2008 8-hour Ozone NAAQS, excluding the appendices | State-wide | December 27, 2012 | August 10, 2015, 80 FR 47859 | Adopted by the Arizona Department of Environmental Quality on December 27, 2012.
Ordinance No. 1993-128, Section 1, 17.040.190 “Composition” Section 6, 17.24.040 “Reporting for compliance evaluations” | Pima County | December 19, 2013 | August 10, 2015, 80 FR 47859 | Adopted by the Board of Supervisors of Pima County, Arizona on September 28, 1993.
Ordinance 2005-43, Chapter 17.12, Permits and Permit Revisions, section 2, 17.12.040 “Reporting Requirements” | Pima County | December 19, 2013 | August 10, 2015, 80 FR 47859 | Adopted by the Board of Supervisors of Pima County, Arizona on April 19, 2005.
Arizona State Implementation Plan Revision under Clean Air Act Section 110(a)(1) and (2): Implementation of 2006 PM2.5 National Ambient Air Quality Standards, 1997 PM2.5 National Ambient Air Quality Standards, and 1997 8-Hour Ozone National Ambient Air Quality Standards, September 2009, excluding the appendices | State-wide | October 14, 2009 | November 5, 2012, 77 FR 66398 | Adopted by the Arizona Department of Environmental Quality on October 14, 2009.
Final Supplement to the Arizona State Implementation Plan under Clean Air Act Section 110(a)(1) and (2): Implementation of 2006 PM2.5 National Ambient Air Quality Standards, 1997 PM2.5 National Ambient Air Quality Standards, and 1997 8-Hour Ozone National Ambient Air Quality Standards, August 2012, excluding the appendices | State-wide | August 24, 2012 | November 5, 2012, 77 FR 66398 | Adopted by the Arizona Department of Environmental Quality on August 24, 2012.
Revision to the Arizona State Implementation Plan Under Clean Air Act Section 110(a)(2)(D)(i)—Regional Transport (May 2007) | Statewide | May 24, 2007 | July 31, 2007, 72 FR 41629 | Interstate Transport SIP adopted by the Arizona Department of Environmental Quality on May 24, 2007.
Part D Elements and Plans (Other than for the Metropolitan Phoenix or Tucson Areas)
Ajo Sulfur Dioxide State Implementation and Maintenance Plan | Ajo Sulfur Dioxide Air Quality Planning Area | June 18, 2002 | November 3, 2003, 68 FR 62239 | Adopted by the Arizona Department of Environmental Quality on June 18, 2002.
Bullhead City Moderate Area PM10 Maintenance Plan and Request for Redesignation to Attainment | Bullhead City PM10 Air Quality Planning Area | February 7, 2002 | June 26, 2002, 67 FR 43020 | Adopted by the Arizona Department of Environmental Quality on February 7, 2002.
Douglas Sulfur Dioxide Nonattainment Area State Implementation and Maintenance Plan, dated November 29, 2001 | Douglas Sulfur Dioxide Air Quality Planning Area | December 14, 2001 | February 28, 2006, 71 FR 9941 | Adopted by the Arizona Department of Environmental Quality on December 14, 2001.
Modeling Supplement-Douglas Sulfur Dioxide (SO2) State Implementation and Maintenance Plan | Douglas Sulfur Dioxide Air Quality Planning Area | April 2, 2004 | February 28, 2006, 71 FR 9941 | Adopted by the Arizona Department of Environmental Quality on April 2, 2004.
Modeling and Emissions Inventory Supplement for the Douglas Sulfur Dioxide Nonattainment Area State Implementation and Maintenance Plan and Redesignation Request, dated September 2005 | Douglas Sulfur Dioxide Air Quality Planning Area | September 16, 2005 | February 28, 2006, 71 FR 9941 | Adopted by the Arizona Department of Environmental Quality on September 16, 2005.
Final Miami Sulfur Dioxide Nonattainment Area State Implementation and Maintenance Plan (June 2002) (revised May 26, 2004), excluding appendix A (“SIP Support Information”), sections A.1 (“Pertinent Sections of the Arizona Administrative Code”) and A.2 (“Information Regarding Revisions to AAC R18-2-715 and R18-2-715.01, `Standards of Performance for Primary Copper Smelters: Site Specific Requirements; Compliance and Monitoring' ”); and appendix D (“SIP Public Hearing Documentation”) | Miami Sulfur Dioxide Air Quality Planning Area | June 26, 2002 | January 24, 2007, 72 FR 3061 | Adopted by ADEQ on June 26, 2002. Incorporates replacement pages for the cover page and pages iii, 2, 3, 4 and 49 enclosed with letter from ADEQ dated June 30, 2004. Includes a letter from Stephen A. Owens, Director, Arizona Department of Environmental Quality, dated June 20, 2006, withdrawing a section 107(d)(3)(D) boundary redesignation request included in the Miami Sulfur Dioxide Nonattainment Area State Implementation and Maintenance Plan and requesting a section 110(k)(6) error correction.
Morenci Sulfur Dioxide Nonattainment Area State Implementation and Maintenance Plan | Morenci Sulfur Dioxide Air Quality Planning Area | June 21, 2002 | April 26, 2004, 69 FR 22447 | Adopted by the Arizona Department of Environmental Quality on June 21, 2002.
Final Update of the Limited Maintenance Plan for the Payson PM10 Maintenance Area (December 2011) | Payson PM10 Air Quality Planning Area | January 23, 2012 | March 19, 2014, 79 FR 15227 | Adopted by the Arizona Department of Environmental Quality on January 23, 2012.
Payson Moderate Area PM10 Maintenance Plan and Request for Redesignation to Attainment | Payson PM10 Air Quality Planning Area | March 29, 2002 | June 26, 2002, 67 FR 43013 | Adopted by the Arizona Department of Environmental Quality on March 29, 2002.
Arizona State Implementation Plan Revision for the Nogales PM2.5 Nonattainment Area (September 2013), including appendices A and B | Nogales PM2.5 Nonattainment Area | September 6, 2013 | February 9, 2015, 80 FR 6907 | Adopted by the Arizona Department of Environmental Quality on September 6. 2013.
Final 2012 State Implementation Plan Nogales PM10 Nonattainment Area | Nogales PM10 Nonattainment Area | August 24, 2012 | September 25, 2012, 77 FR 58962 |
Final Arizona State Implementation Plan Revision, San Manuel Sulfur Dioxide Nonattainment Area, March 2007 | San Manuel Sulfur Dioxide Nonattainment Area | June 7, 2007 | January 18, 2008, 73 FR 3396 |
Part D Elements and Plans for the Metropolitan Phoenix and Tucson Areas
MAG 2014 State Implementation Plan Revision for the Removal of Stage II Vapor Recovery Controls in the Maricopa Eight-Hour Ozone Nonattainment Area (August 2014), excluding appendix A, exhibit 2 (“Arizona Revised Statutes Listed in Table 1-1”) | Maricopa Eight-Hour Ozone Nonattainment Area | September 2, 2014 | November 16, 2015, 80 FR 70689 | Adopted by the Regional Council of the Maricopa Association of Governments on August 27, 2014.
Final Addendum to the Arizona State Implementation Plan Revision, Exemption of Motorcycles from Vehicle Emissions Inspections and Maintenance Program Requirements in Area A, October 2009 (December 2010) | Area A—i.e., Phoenix metropolitan area | January 11, 2011 | May 22, 2013, 78 FR 30209 | Adopted by the Arizona Department of Environmental Quality on January 11, 2011.
Final Arizona State Implementation Plan Revision, Exemption of Motorcycles from Vehicle Emissions Inspections and Maintenance Program Requirements in Area A (October 2009), excluding appendices A and C | Area A—i.e., Phoenix metropolitan area | November 6, 2009 | May 22, 2013, 78 FR 30209 | Adopted by the Arizona Department of Environmental Quality on November 6, 2009.
September 2006 Supplement to Final Arizona State Implementation Plan Revision, Basic and Enhanced Vehicle Emissions Inspection/Maintenance Programs, December 2005, excluding appendices | Areas A and B—i.e., Phoenix and Tucson metropolitan areas | October 3, 2006 | March 30, 2007, 72 FR 15046 | Adopted by the Arizona Department of Environmental Quality on October 3, 2006.
Final Arizona State Implementation Plan Revision, Basic and Enhanced Vehicle Emissions Inspection/Maintenance Programs (December 2005), excluding appendices | Areas A and B—i.e., Phoenix and Tucson metropolitan areas | December 23, 2005 | March 30, 2007, 72 FR 15046 | Adopted by the Arizona Department of Environmental Quality on December 23, 2005.
MAG 2013 Carbon Monoxide Maintenance Plan for the Maricopa County Area, March 2013 | Maricopa County Carbon Monoxide Air Quality Planning Area | April 2, 2013 | March 3, 2016, 81 FR 11120 | Adopted by the Arizona Department of Environmental Quality on April 2, 2013.
MAG Carbon Monoxide Redesignation Request and Maintenance Plan for the Maricopa County Nonattainment Area and Appendices, dated May 2003 | Maricopa County Carbon Monoxide Air Quality Planning Area | June 16, 2003 | March 9, 2005, 70 FR 11553 | Adopted by the Arizona Department of Environmental Quality on June 16, 2003.
Revised MAG 1999 Serious Area Carbon Monoxide Plan for the Maricopa County Nonattainment Area, dated March 2001 | Maricopa County Carbon Monoxide Air Quality Planning Area | April 18, 2001 | March 9, 2005, 70 FR 11553 | Adopted by the Maricopa Association of Governments on March 28, 2001 and by the Arizona Department of Environmental Quality on April 18, 2001. March 9, 2005 final rule was corrected at September 6, 2005, 70 FR 52928.
Addendum to MAG 1987 Carbon Monoxide Plan for the Maricopa County Nonattainment Area, July 21, 1988 | Maricopa County | July 22, 1988 | August 10, 1988, 53 FR 30224; vacated; restored on January 29, 1991, 56 FR 3219 | Supplemental information related to the SIP revision of July 18, 1988. Vacated by the U.S. Court of Appeals for the Ninth Circuit in Delaney v. EPA. Control and committal measures were restored on January 29, 1991, 56 FR 3219. EPA disapproved the attainment demonstration, conformity and contingency portions of the 1988 Addendum at 40 CFR 52.124(a)(1). See 56 FR 5458 (February 11, 1991).
Maricopa Association of Governments (MAG) 1987 Carbon Monoxide (CO) Plan for the Maricopa County Area, MAG CO Plan Commitments for Implementation, and Appendix A through E, Exhibit 4, Exhibit D | Maricopa County Carbon Monoxide Air Quality Planning Area | October 5, 1987 | August 10, 1988, 53 FR 30224; vacated; restored on January 29, 1991, 56 FR 3219 | Adopted on July 10, 1987. Vacated by the U.S. Court of Appeals for the Ninth Circuit in Delaney v. EPA. Control and committal measures were restored on January 29, 1991, 56 FR 3219. EPA disapproved the attainment demonstration, conformity and contingency portions of the 1987 MAG CO Plan at 40 CFR 52.124(a)(1). See 56 FR 5458 (February 11, 1991).
MAG 2014 Eight-Hour Ozone Plan—Submittal of Marginal Area Requirements for the Maricopa Nonattainment Area (June 2014), excluding: | Phoenix-Mesa 2008 8-hour ozone nonattainment area | July 2, 2014 | October 16, 2015, 80 FR 62457 |
(i) Sections titled “A Nonattainment Area Preconstruction Permit Program—CAA section 182(a)(2)(C),” “New Source Review—CAA, Title I, Part D,” and “Offset Requirements: 1:1 to 1 (Ratio of Total Emission Reductions of Volatile Organic Compounds to Total Increased Emissions)—CAA Section 182(a)(4)” on pages 8 and 9 and section titled “Meet Transportation Conformity Requirements—CAA Section 176(c)” on pages 10 and 11
(ii) Appendices A and B
MAG Eight-Hour Ozone Redesignation Request and Maintenance Plan for the Maricopa Nonattainment Area (February 2009), excluding the appendices | Phoenix-Mesa 1997 8-hour ozone maintenance area | March 23, 2009 | September 17, 2014, 79 FR 55645 | Adopted by the Arizona Department of Environmental Quality on March 23, 2009.
Letter dated June 13, 2007 from Stephen A. Owens, Director, ADEQ to Wayne Nastri, Regional Administrator, United States Environmental Protection Agency, Region IX | Phoenix-Mesa 1997 8-hour ozone nonattainment area | June 13, 2007 | June 13, 2012, 77 FR 35285 | Transmittal letter for Eight-Hour Ozone Plan for the Maricopa Nonattainment Area (June 2007).
Eight-Hour Ozone Plan for the Maricopa Nonattainment Area (June 2007), including Appendices, Volumes One and Two | Phoenix-Mesa 1997 8-hour ozone nonattainment area | June 13, 2007 | June 13, 2012, 77 FR 35285 |
One-Hour Ozone Redesignation Request and Maintenance Plan for the Maricopa County Nonattainment Area, dated March 2004 | Maricopa County 1-Hour Ozone Air Quality Planning Area | April 21, 2004 | June 14, 2005, 70 FR 34362 | Adopted by the Maricopa Association of Governments Regional Council on March 26, 2004 and adopted by the Arizona Department of Environmental Quality on April 21, 2004.
Final Serious Area Ozone State Implementation Plan for Maricopa County, dated December 2000 | Maricopa County 1-Hour Ozone Air Quality Planning Area | December 14, 2000 | June 14, 2005, 70 FR 34362 | Adopted by the Arizona Department of Environmental Quality on December 14, 2000.
Letter and enclosures regarding Arizona's Intent to “Opt-out” of the Clean Fuel Fleet Program | Maricopa County 1-Hour Ozone Air Quality Planning Area | December 7, 1998 | June 14, 2005, 70 FR 34362 | Adopted by the Arizona Department of Environmental Quality on December 7, 1998.
2012 Five Percent Plan for PM-10 for the Maricopa County Nonattainment Area, and Appendices Volume One and Volume Two | Maricopa County PM-10 Nonattainment Area | May 25, 2012 | June 10, 2014, 79 FR 33107 | Adopted May 23, 2012.
2012 Five Percent Plan for PM-10 for the Pinal County Township 1 North, Range 8 East Nonattainment Area | Pinal County Township 1 North, Range 8 East Nonattainment Area | May 25, 2012 | June 10, 2014, 79 FR 33107 | Adopted May 25, 2012.
Nonattainment Area Plan for Total Suspended Particulates, Maricopa County Urban Planning Area | Maricopa County Urban Planning Area | November 8, 1979 | May 5, 1982, 47 FR 19326 |
Revision to the Nonattainment Area Plan for Carbon Monoxide and Photochemical Oxidants, Maricopa County Urban Planning Area | Maricopa County Urban Planning Area | July 3, 1979 | May 5, 1982, 47 FR 19326 |
Nonattainment Area Plan for Carbon Monoxide and Photochemical Oxidants, Maricopa County Urban Planning Area | Maricopa County Urban Planning Area | February 23, 1979 | May 5, 1982, 47 FR 19326 |
Letter supplementing the revised transportation control plan | Phoenix-Tucson Intrastate Air quality Control Region | October 2, 1973 | December 3, 1973, 38 FR 33368 |
Letter supplementing the revised transportation control plan | Phoenix-Tucson Intrastate Air quality Control Region | September 21, 1973 | December 3, 1973, 38 FR 33368 |
Revised transportation control plan | Phoenix-Tucson Intrastate Air quality Control Region | September 11, 1973 | December 3, 1973, 38 FR 33368 | EPA approved various transportation control strategies, including certain elements of an inspection program, but disapproved other elements, and approved certain strategies with exception.
2008 Revision to the Carbon Monoxide Limited Maintenance Plan for the Tucson Air Planning Area (for 2010), excluding appendix D | Tucson Air Planning Area | July 10, 2008 | December 21, 2009, 74 FR 67819 | Adopted by the Pima Association of Governments on June 26, 2008.
Appendix D (Revised)—Supplement to the Carbon Monoxide Limited Maintenance Plan for the Tucson Air Planning Area (for 2010) | Tucson Air Planning Area | June 22, 2009 | December 21, 2009, 74 FR 67819 | Letter from Arizona Department of Environmental Quality re: Vehicle Emissions Inspection Program (VEIP), Revised to include supporting documents authorizing the VEIP from 2009 to 2017. Adopted by the Pima Association of Governments on May 28, 2009.
1996 Carbon Monoxide Limited Maintenance Plan for the Tucson Air Planning Area (as updated August, 1997) | Tucson Air Planning Area | October 6, 1997 | June 8, 2000, 65 FR 36353; corrected March 18, 2004, 69 FR 12802 | Approval includes base year (1994) emissions inventory; contingency plan, including commitments to follow maintenance plan contingency procedures by the Pima Association of Governments and by the member jurisdictions: the town of Oro Valley, Arizona (Resolution No. (R) 96-38, adopted June 5, 1996), the City of South Tucson (Resolution No. 96-16, adopted on June 10, 1996), Pima County (Resolution and Order No. 1996-120, adopted June 18, 1996), the City of Tucson (Resolution No. 17319, adopted June 24, 1996), and the town of Marana, Arizona (Resolution No. 96-55, adopted June 18, 1996).
Commitment in the July 22, 1988 submittal letter to apply the oxygenated fuels program of the July 18, 1988 submittal to Pima County | Pima County | July 22, 1988 | January 29, 1991, 56 FR 3219 |
1987 Carbon Monoxide State Implementation Plan Revision for the Tucson Air Planning Area | Tucson Air Planning Area | January 6, 1988 | August 10, 1988, 53 FR 30220; vacated; restored on January 29, 1991, 56 FR 3219 | Adopted on October 21, 1987. Vacated by the U.S. Court of Appeals for the Ninth Circuit in Delaney v. EPA. Control and committal measures were restored on January 29, 1991, 56 FR 3219.
Improvement Schedules for Transit System and Rideshare Program in Metropolitan Pima County | Metropolitan Pima County | March 8, 1982 | July 7, 1982, 47 FR 29532 | Adopted on October 21, 1987.
Metropolitan Pima County Nonattainment Area Plan for TSP | Metropolitan Pima County | March 27, 1979 | July 7, 1982, 47 FR 29532 |
Metropolitan Pima County Nonattainment Area Plan for CO | Metropolitan Pima County | March 20, 1979 | July 7, 1982, 47 FR 29532 |
Intergovernmental Agreement (IGA) between Pima County, City of Tucson, City of South Tucson, Town of Oro Valley and Town of Marana, April 18, 1988 | Pima County | May 26, 1988 | January 29, 1991 | Related to motor vehicle trip reduction.
¹ Table 1 is divided into three parts: Clean Air Act Section 110(a)(2) State Implementation Plan Elements (excluding Part D Elements and Plans), Part D Elements and Plans (other than for the Metropolitan Phoenix or Tucson Areas), and Part D Elements and Plans for the Metropolitan Phoenix and Tucson Areas.
† Vacated by the U.S. Court of Appeals for the Ninth Circuit in Delaney v. EPA, 898 F.2d 687 (9th Cir. 1990). Restored on January 29, 1991, 56 FR 3219.

Table 2—EPA-Approved Resolutions Adopted by Jurisdictions in Maricopa and Pinal Counties To Implement Measures in PM-10 and Carbon Monoxide State Implementation Plans
Name of SIP provision | Applicable geographic or nonattainment area | State submittal date | EPA approval date | Explanation
Resolution to Implement Measures to Reduce Reentrained Dust Emissions from Targeted Paved Roads in the Revised PM-10 State Implementation Plan for the Salt River Area (including Exhibit A and Arizona Department of Transportation Plan to Reduce Reentrained Dust Emissions from Targeted Paved Roads) | Maricopa County | October 7, 2005 | August 21, 2007, 72 FR 46564 | Adopted by the Arizona Department of Transportation on September 17, 2004.
Resolution to Implement Measures in the MAG 1998 Serious Area Particulate Plan for PM-10 for the Maricopa County Area (including Exhibit A, 8 pages) | Maricopa County | February 16, 2000 | July 25, 2002, 67 FR 48718 | Adopted by the Arizona Department of Transportation on July 17, 1998.
Resolution to Implement Measures in the MAG 1997 Serious Area Particulate Plan for PM-10 and MAG 1998 Serious Area Carbon Monoxide Plan for the Maricopa County Area (including Exhibit A, 24 pages plus index page) | Maricopa County | February 16, 2000 | July 25, 2002, 67 FR 48718 | Adopted by the Arizona Department of Transportation on June 20, 1997.
Resolution No. C-85-05-005-0-00: Resolution to Implement Additional Measures for the Maricopa County, Arizona Serious PM-10 Nonattainment Area (including Exhibit A) | Maricopa County | October 7, 2005 | August 21, 2007, 72 FR 46564 | Adopted on January 19, 2005.
Resolution to Adopt the Revised MAG 1999 Serious Area Particulate Plan for PM-10 for the Maricopa County Nonattainment Area (including Exhibit A, 2 pages) | Maricopa County | February 16, 2000 | July 25, 2002, 67 FR 48718 | Adopted by the Maricopa Association of Governments on February 14, 2000.
Resolution #9701: Resolution to Implement Measures in the MAG 1997 Serious Area Particulate Plan for PM-10 and MAG 1998 Serious Area Carbon Monoxide Plan for the Maricopa County Area (including Exhibit A, 23 pages) | Maricopa County | February 16, 2000 | July 25, 2002, 67 FR 48718 | Adopted by the Regional Public Transportation Authority on June 12, 1997.
Resolution to Update Control Measure 6 in the Revised MAG 1999 Serious Area Particulate Plan for PM-10 for the Maricopa County Area (including Exhibit A, 2 pages) | Maricopa County | January 8, 2002 | July 25, 2002, 67 FR 48718 | Adopted by Maricopa County on December 19, 2001.
Resolution to Implement Measures in the MAG 1999 Serious Area Particulate Plan for PM-10 for the Maricopa County Area (including Exhibit A, 10 pages) | Maricopa County | February 16, 2000 | July 25, 2002, 67 FR 48718 | Adopted by Maricopa County on December 15, 1999.
Resolution to Implement Measures in the MAG 1998 Serious Area Particulate Plan for PM-10 for the Maricopa County Area (including Exhibit A, 10 pages) | Maricopa County | February 16, 2000 | July 25, 2002, 67 FR 48718 | Adopted by Maricopa County on February 17, 1999.
Resolution to Implement Measures in the MAG 1997 Serious Area Particulate Plan for PM-10 for the Maricopa County Area (including Exhibit A, 9 pages) | Maricopa County | February 16, 2000 | July 25, 2002, 67 FR 48718 | Adopted by Maricopa County on November 19, 1997.
Resolution to Implement Measures in the MAG 1997 Serious Area Particulate Plan for PM-10 and MAG 1998 Serious Area Carbon Monoxide Plan for the Maricopa County Area (including Exhibit A, 16 pages) | Maricopa County | February 16, 2000 | July 25, 2002, 67 FR 48718 | Adopted by Maricopa County on June 25, 1997. Transcription error “1A998” in the original.
Resolution To Improve the Administration of Maricopa County's Fugitive Dust Program and to Foster Interagency Cooperation | Maricopa County | May 7, 1997 | August 4, 1997, 62 FR 41856 | Adopted by Maricopa County on May 14, 1997.
Resolution No. 04-24: A Resolution of the Mayor and City Council of the City of Apache Junction, Arizona, Implementing Measures to Reduce Reentrained Dust Emissions from Targeted Paved Roads in the Revised PM-10 State Implementation Plan for the Salt River Area (including Exhibit A) | City of Apache Junction | October 7, 2005 | August 21, 2007, 72 FR 46564 | Adopted on September 21, 2004.
Resolution No. 2448-04: A Resolution of the Council of the City of Avondale, Arizona, Implementing Measures to Reduce Reentrained Dust Emissions from Targeted Paved Roads in the Revised PM-10 State Implementation Plan for the Salt River Area (including Exhibit A) | City of Avondale | October 7, 2005 | August 21, 2007, 72 FR 46564 | Adopted on September 20, 2004.
Resolution No. 1949-99; A Resolution of the Council of the City of Avondale, Maricopa County, Arizona, Implementing Measures in the MAG 1998 Serious Area Particulate Plan for PM-10 for the Maricopa County Area (including Exhibit A, 7 pages) | City of Avondale | February 16, 2000 | July 25, 2002, 67 FR 48718 | Adopted by the City of Avondale on February 16, 1999.
Resolution No. 1711-97; A Resolution of the City Council of the City of Avondale, Maricopa County, Arizona, To Implement Measures in the MAG 1997 Serious Area Particulate Plan for PM-10 and MAG 1998 Serious Area Carbon Monoxide Plan for the Maricopa County Area (including Exhibit A, 14 pages) | City of Avondale | February 16, 2000 | July 25, 2002, 67 FR 48718 | Adopted by the City of Avondale on September 15, 1997.
Resolution No. 58-04: A Resolution of the Mayor and Town Council of the Town of Buckeye, Arizona, Implementing Measures to Reduce Reentrained Dust Emission from Targeted Paved Roads in the Revised PM-10 State Implementation Plan for the Salt River Area (including Exhibit A) | Town of Buckeye | October 7, 2005 | August 21, 2007, 72 FR 46564 | Adopted on November 16, 2004.
Resolution No. 15-97; A Resolution of the Town Council of the Town of Buckeye, Maricopa County, Arizona, To Implement Measures in the MAG 1997 Serious Area Carbon Monoxide Plan for the Maricopa County Area (including Exhibit A, 5 pages) | Town of Buckeye | February 16, 2000 | July 25, 2002, 67 FR 48718 | Adopted by the Town of Buckeye on October 7, 1997.
Town of Carefree Resolution No. 98-24; A Resolution of the Mayor and Common Council of the Town of Carefree, Arizona, To Implement Measures in the MAG 1998 Serious Area Particulate Plan for PM-10 for the Maricopa County Area (including Exhibit A, 4 pages) | Town of Carefree | February 16, 2000 | July 25, 2002, 67 FR 48718 | Adopted by the Town of Carefree on September 1, 1998.
Town of Carefree Resolution No. 97-16; A Resolution of the Mayor and Common Council of the Town of Carefree, Arizona, To Implement Measures in the MAG 1997 Serious Area Particulate Plan for PM-10 and MAG 1998 Serious Area Carbon Monoxide Plan for the Maricopa County Area (including Exhibit A, 3 pages) | Town of Carefree | February 16, 2000 | July 25, 2002, 67 FR 48718 | Adopted by the Town of Carefree on September 2, 1997.
Resolution R98-14; A Resolution of the Mayor and Town Council of the Town of Cave Creek, Maricopa County, Arizona, To Implement Measures in the MAG 1998 Serious Area Particulate Plan for PM-10 for the Maricopa County Area (including Exhibit A, 1 page) | Town of Cave Creek | February 16, 2000 | July 25, 2002, 67 FR 48718 | Adopted by the Town of Cave Creek on December 8, 1998.
Resolution R97-28; A Resolution of the Mayor and Town Council of the Town of Cave Creek, Maricopa County, Arizona, Implementing Measures in the MAG 1997 Serious Area Particulate Plan for PM-10 and MAG 1998 Serious Area Carbon Monoxide Plan for the Maricopa County Area (including Exhibit A, 4 pages) | Town of Cave Creek | February 16, 2000 | July 25, 2002, 67 FR 48718 | Adopted by the Town of Cave Creek on September 2, 1997.
Resolution No. 3782: Resolution to Implement Measures to Reduce Re-entrained Dust Emissions from Identified Paved Roads in Chandler As Part of the Revised PM-10 State Implementation Plan for Air Quality (including Exhibit A and Exhibit B) | City of Chandler | October 7, 2005 | August 21, 2007, 72 FR 46564 | Adopted on October 14, 2004.
Resolution No. 2929; A Resolution of the City Council of the City of Chandler, Arizona, To Implement Measures in the MAG 1998 Serious Area Particulate Plan for PM-10 for the Maricopa County Area (including Exhibit A, 9 pages) | City of Chandler | February 16, 2000 | July 25, 2002, 67 FR 48718 | Adopted by the City of Chandler on October 8, 1998.
Resolution No. 2672; A Resolution of the City Council of the City of Chandler, Arizona To Implement Measures in the MAG 1997 Serious Area Particulate Plan for PM-10 and MAG 1998 Serious Area Carbon Monoxide Plan for the Maricopa County Area (including Exhibit A, 16 pages) | City of Chandler | February 16, 2000 | July 25, 2002, 67 FR 48718 | Adopted by the City of Chandler on August 14, 1997.
A Resolution of the City Council of the City of Chandler, Arizona, Stating the City's Intent to Work Cooperatively with Maricopa County to Control the Generation of Fugitive Dust Pollution | City of Chandler | May 7, 1997 | August 4, 1997, 62 FR 41856 | Adopted by the City of Chandler on March 27, 1997.
Resolution No. R04-10-54: A Resolution of the Mayor and City Council of the City of El Mirage, Maricopa County, Arizona, Implementing Measures to Reduce Re-entrained Dust Emissions from Targeted Paved Roads in the Revised PM-10 State Implementation Plan for the Salt River Area (including Exhibit A) | City of El Mirage | October 7, 2005 | August 21, 2007, 72 FR 46564 | Adopted on October 28, 2004.
Resolution No. R98-08-22; A Resolution of the Mayor and Common Council of the City of El Mirage, Arizona, Amending Resolution No. R98-02-04 To Implement Measures in the MAG 1997 Serious Area Particulate Plan for PM-10 for the Maricopa County Area (including Exhibit A, 5 pages) | City of El Mirage | February 16, 2000 | July 25, 2002, 67 FR 48718 | Adopted by the City of El Mirage on August 27, 1998.
Resolution No. R98-02-04; A Resolution To Implement Measures in the MAG 1997 Serious Area Particulate Plan for PM-10 for the Maricopa County Area (including Exhibit A, 5 pages) | City of El Mirage | February 16, 2000 | July 25, 2002, 67 FR 48718 | Adopted by the City of El Mirage on February 12, 1998.
Resolution No. R97-08-20; Resolution To Implement Measures in the MAG 1997 Serious Area Particulate Plan for PM-10 and MAG 1998 Serious Area Carbon Monoxide Plan for the Maricopa County Area (including Exhibit A, 8 pages) | City of El Mirage | February 16, 2000 | July 25, 2002, 67 FR 48718 | Adopted by the City of El Mirage on August 28, 1997.
Resolution No. 2004-63: A Resolution of the Mayor and Council of the Town of Fountain Hills, Arizona, Implementing Measures to Reduce Reentrained Dust Emissions from Targeted Paved Roads in the Revised PM-10 State Implementation Plan for the Salt River Area (including Exhibit A and Protocol to Reduce Reentrained Dust Emissions from Targeted Paved Roads) | Town of Fountain Hills | October 7, 2005 | August 21, 2007, 72 FR 46564 | Adopted on November 18, 2004.
Resolution No. 1998-49; Resolution To Implement Measures in the MAG 1998 Serious Area Particulate Plan for PM-10 for the Maricopa County Area (including Exhibit A, 7 pages), adopted on October 1, 1998 | Town of Fountain Hills | February 16, 2000 | July 25, 2002, 67 FR 48718 | Adopted by the Town of Fountain Hills on October 1, 1998. Incorporated materials are pages 4 to 10 of the 11-page resolution package; pages 1 and 2 are cover sheets with no substantive content and page 11 is a summary of measures previously adopted by the Town of Fountain Hills.
Resolution No. 1997-49; A Resolution of the Common Council of the Town of Fountain Hills, Arizona, Adopting the MAG 1997 Particulate Plan for PM-10 and MAG 1998 Serious Area Carbon Monoxide Plan for the Maricopa County Area and Committing to Certain Implementation Programs (including Exhibit B, 5 pages and cover) | Town of Fountain Hills | February 16, 2000 | July 25, 2002, 67 FR 48718 | Adopted by the Town of Fountain Hills on October 2, 1997.
Resolution No. 2575: A Resolution of the Common Council of the Town of Gilbert, Arizona to Implement Measures to Reduce Reentrained Dust Emissions from Targeted Paved Roads in the Revised PM-10 State Implementation Plan for the Salt River Area (including Exhibit A and Town of Gilbert Protocol for Reducing PM-10 Emissions from “High Dust” Paved Roads) | Town of Gilbert | October 7, 2005 | August 21, 2007, 72 FR 46564 | Adopted on March 29, 2005.
Resolution No. 1939: A Resolution of the Common Council of the Town of Gilbert, Arizona, Expressing its Commitment to Implement Measures in the Maricopa Association of Governments (MAG) 1998 Serious Area Particulate Plan for PM-10 for the Maricopa County Area (including Attachment A, 5 pages) | Town of Gilbert | February 16, 2000 | July 25, 2002, 67 FR 48718 | Adopted by the Town of Gilbert on July 21, 1998. Attachment A is referred to as Exhibit A in the text of the Resolution.
Resolution No. 1864; A Resolution of the Common Council of the Town of Gilbert, Arizona, Implementing Measures in the MAG 1997 Serious Area Particulate Plan for PM-10 for the Maricopa County Area (including Attachment A, 5 pages) | Town of Gilbert | February 16, 2000 | July 25, 2002, 67 FR 48718 | Adopted by the Town of Gilbert on November 25, 1997. Attachment A is referred to as Exhibit A in the text of the Resolution.
Resolution No. 1817; A Resolution of the Common Council of the Town of Gilbert, Maricopa County, Arizona, Authorizing the Implementation of the MAG 1997 Serious Area Particulate Plan for PM-10 and the MAG Serious Area Carbon Monoxide Plan for the Maricopa County Area (including 15 pages of attached material) | Town of Gilbert | February 16, 2000 | July 25, 2002, 67 FR 48718 | Adopted by the Town of Gilbert on June 10, 1997.
A Resolution of the Mayor and the Common Council of the Town of Gilbert, Maricopa County, Arizona, Providing for the Town's Intent to Work Cooperatively with Maricopa County, Arizona, to Control the Generation of Fugitive Dust Pollution | Town of Gilbert | May 7, 1997 | August 4, 1997, 62 FR 41856 | Adopted by the Town of Gilbert on April 15, 1997.
Resolution No. 3796 New Series: A Resolution of the Council of the City of Glendale, Maricopa County, Arizona, Implementing Measures to Reduce Reentrained Dust Emissions from Targeted Paved Roads in the Revised PM-10 State Implementation Plan for the Salt River Area (including Exhibit A and Glendale Targeted Street Sweeping Protocol to Reduce Dust Emissions) | City of Glendale | October 7, 2005 | August 21, 2007, 72 FR 46564 | Adopted on September 14, 2004.
Resolution No. 3225 New Series; A Resolution of the Council of the City of Glendale, Maricopa County, Arizona, Implementing Measures in the MAG 1998 Serious Area Particulate Plan for PM-10 for the Maricopa County Area (including Exhibit A, 9 pages) | City of Glendale | February 16, 2000 | July 25, 2002, 67 FR 48718 | Adopted by the City of Glendale on July 28, 1998.
Resolution No. 3161 New Series; A Resolution of the Council of the City of Glendale, Maricopa County, Arizona, Implementing Measures in the MAG 1997 Serious Area Particulate Plan for PM-10 for the Maricopa County Area (including Exhibit A, 6 pages) | City of Glendale | February 16, 2000 | July 25, 2002, 67 FR 48718 | Adopted by the City of Glendale on October 28, 1997.
Resolution No. 3123 New Series; A Resolution of the Council of the City of Glendale, Maricopa County, Arizona, Implementing Measures in the MAG 1997 Serious Area Particulate Plan for PM-10 and MAG 1998 Serious Area Carbon Monoxide Plan for the Maricopa County Area (including Exhibit A, 20 pages) | City of Glendale | February 16, 2000 | July 25, 2002, 67 FR 48718 | Adopted by the City of Glendale on June 10, 1997.
A Resolution of the Council of the City of Chandler, Maricopa County, Arizona, Stating Its Intent to Work Cooperatively with Maricopa County to Control the Generation of Fugitive Dust Pollution | City of Glendale | May 7, 1997 | August 4, 1997, 62 FR 41856 | Adopted by the City of Glendale on March 25, 1997.
Resolution No. 04-941: A Resolution of the Mayor and Council of the City of Goodyear, Maricopa County, Arizona, to Authorize the City Manager to Implement Measures to Reduce Reentrained Dust Emissions from Targeted Paved Roads in the Revised PM-10 State Implementation Plan for the Salt River Area (including Exhibit A and Protocol for Reducing Reentrained Dust Emissions from Targeted Paved Roads) | City of Goodyear | October 7, 2005 | August 21, 2007, 72 FR 46564 | Adopted on October 25, 2004.
Resolution No. 98-645; A Resolution of the Council of the City of Goodyear, Maricopa County, Arizona, Implementing Measures in the MAG 1998 Serious Area Particulate Plan for PM-10 for the Maricopa County Area (including Attachment III, 7 pages) | City of Goodyear | February 16, 2000 | July 25, 2002, 67 FR 48718 | Adopted by the City of Goodyear on July 27, 1998.
Resolution No. 97-604 Carbon Monoxide Plan; A Resolution of the Council of the City of Goodyear, Maricopa County, Arizona, Implementing Measures in the MAG 1997 Serious Area Particulate Plan for PM-10 and MAG 1998 Serious Area Carbon Monoxide Plan for the Maricopa County Area (including Exhibit A, 21 pages) | City of Goodyear | February 16, 2000 | July 25, 2002, 67 FR 48718 | Adopted by the City of Goodyear on September 9, 1997. Adoption year not given on the resolution but is understood to be 1997 based on resolution number.
Resolution No. 8344: A Resolution of the City Council of the City of Mesa, Maricopa County, Arizona, Stating the City's Intent to Implement Measures to Reduce Particulate Pollution (including Exhibit A) | City of Mesa | October 7, 2005 | August 21, 2007, 72 FR 46564 | Adopted on October 4, 2004.
Resolution No. 7360; A Resolution of the City Council of the City of Mesa, Maricopa County, Arizona, to Implement Measures in the MAG Serious Area Particulate Plan for PM-10 for the Maricopa County Area (including Exhibit A, 8 pages) | City of Mesa | February 16, 2000 | July 25, 2002, 67 FR 48718 | Adopted by the City of Mesa on May 3, 1999.
Resolution No. 7123; A Resolution of the City Council of the City of Mesa, Maricopa County, Arizona, to Implement Measures in the MAG 1997 Serious Area Particulate Plan for PM-10 for the Maricopa County Area (including Exhibit A, 10 pages) | City of Mesa | February 16, 2000 | July 25, 2002, 67 FR 48718 | Adopted by the City of Mesa on December 1, 1997.
Resolution No. 7061; A Resolution of the City Council of the City of Mesa, Maricopa County, Arizona, to Implement Measures in the MAG 1997 Serious Area Particulate Plan for PM-10 and MAG 1998 Serious Area Carbon Monoxide Plan for the Maricopa County Area (including Exhibit A, 13 pages plus index page) | City of Mesa | February 16, 2000 | July 25, 2002, 67 FR 48718 | Adopted by the City of Mesa on June 23, 1997.
A Resolution of the Mesa City Council Stating the City's Intent to Work Cooperatively with Maricopa County to Control the Generation of Particulate Air Pollution and Directing City Staff to Develop a Particulate Pollution Control Ordinance Supported by Adequate Staffing Levels to Address Air Quality | City of Mesa | May 7, 1997 | August 4, 1997, 62 FR 41856 | Adopted by the City of Mesa on April 23, 1997.
Resolution Number 1084: Resolution to Implement Measures to Reduce Reentrained Dust Emissions from Targeted Paved Roads in the Revised PM-10 State Implementation Plan for the Salt River Area (including Exhibit A) | Town of Paradise Valley | October 7, 2005 | August 21, 2007, 72 FR 46564 | Adopted on September 23, 2004.
Resolution Number 945; A Resolution of the Mayor and Town Council of the Town of Paradise Valley, Arizona, to Implement Measures in the MAG 1998 Serious Area Particulate Plan for PM-10 for the Maricopa County Area (including Exhibit A, 5 pages) | Town of Paradise Valley | February 16, 2000 | July 25, 2002, 67 FR 48718 | Adopted by the Town of Paradise Valley on July 23, 1998.
Resolution Number 913; A Resolution of the Town of Paradise Valley, to Implement Measures in the MAG 1997 Serious Area Particulate Plan for PM-10 and MAG 1998 Serious Area Carbon Monoxide Plan for the Maricopa County Area (including Exhibit A, 9 pages) | Town of Paradise Valley | February 16, 2000 | July 25, 2002, 67 FR 48718 | Adopted by the Town of Paradise Valley on October 9, 1997.
Resolution No. 04-235: A Resolution of the Mayor and City Council of the City of Peoria, Maricopa County, Arizona, Implementing Measures to Reduce Reentrained Dust Emissions from Targeted Paved Roads in the Revised PM-10 State Implementation Plan for the Salt River Area (including Exhibit A and City of Peoria Targeted Paved Roadways Dust Control Protocol, September 24, 2004) | City of Peoria | October 7, 2005 | August 21, 2007, 72 FR 46564 | Adopted on October 5, 2004.
Resolution No. 98-107; A Resolution of the Mayor and Council of the City of Peoria, Arizona, to Approve and Authorize the Acceptance to Implement Measures in the MAG 1998 Serious Area Particulate Plan for PM-10 for the Maricopa County Area (including Exhibit A, 7 pages) | City of Peoria | February 16, 2000 | July 25, 2002, 67 FR 48718 | Adopted by the City of Peoria on July 21, 1998.
Resolution No. 97-113; A Resolution of the Mayor and Council of the City of Peoria, Arizona, to Implement Measures in the MAG 1997 Serious Area Particulate Plan for PM-10 for the Maricopa County Area and Directing the Recording of This Resolution with the Maricopa County Recorder and Declaring an Emergency (including Exhibit A, 8 pages plus index page) | City of Peoria | February 16, 2000 | July 25, 2002, 67 FR 48718 | Adopted by the City of Peoria on October 21, 1997.
Resolution No. 97-37; A Resolution of the Mayor and Council of the City of Peoria, Arizona, to Implement Measures in the MAG 1997 Serious Area Particulate Plan for PM-10 and MAG 1998 Serious Area Carbon Monoxide Plan for the Maricopa County Area (including Exhibits A, 5 pages, and B, 19 pages) | City of Peoria | February 16, 2000 | July 25, 2002, 67 FR 48718 | Adopted by the City of Peoria on June 17, 1997.
Resolution No. 20114: A Resolution Stating the City's Intent to Implement Measures to Reduce Air Pollution (including Exhibit A, City of Phoenix 2004 Protocol and Implementation Plan for Paved Streets with Potential for Dust Emissions, and Attachment A) | City of Phoenix | October 7, 2005 | August 21, 2007, 72 FR 46564 | Adopted on June 16, 2004.
Resolution No. 19141; A Resolution Stating the City's Intent to Implement Measures to Reduce Particulate Air Pollution (including Exhibit A, 10 pages) | City of Phoenix | February 16, 2000 | July 25, 2002, 67 FR 48718 | Adopted by the City of Phoenix on September 9, 1998.
Resolution No. 19006; A Resolution Stating the City's Intent to Implement Measures to Reduce Air Pollution (including Exhibit A, 13 pages) | City of Phoenix | February 16, 2000 | July 25, 2002, 67 FR 48718 | Adopted by the City of Phoenix on November 19, 1997.
Resolution No. 18949; A Resolution Stating the City's Intent to Implement Measures to Reduce Air Pollution (including Exhibit A, 19 pages) | City of Phoenix | February 16, 2000 | July 25, 2002, 67 FR 48718 | Adopted by the City of Phoenix on July 2, 1997.
Resolution 1889A Resolution of the Phoenix City Council Stating the City's Intent to Work Cooperatively with Maricopa County to Control the Generation of Fugitive Dust Pollution | City of Phoenix | May 7, 1997 | August 4, 1997, 62 FR 41856 | Adopted by the City of Phoenix on April 9, 1997.
Resolution 175-98; A Resolution of the Town Council of the Town of Queen Creek, Maricopa County, Arizona to Implement Measures in the MAG 1998 Serious Area Particulate Plan for the Maricopa County Area (including Exhibit A, 9 pages) | Town of Queen Creek | February 16, 2000 | July 25, 2002, 67 FR 48718 | Adopted by the Town of Queen Creek on September 16, 1998.
Resolution 145-97; A Resolution of the Town Council of the Town of Queen Creek, Maricopa County, Arizona to Implement Measures in the MAG 1997 Serious Area Particulate Plan for PM-10 for the Maricopa County Area (including Exhibit A, 1 page) | Town of Queen Creek | February 16, 2000 | July 25, 2002, 67 FR 48718 | Adopted by the Town of Queen Creek on November 5, 1997.
Resolution 129-97; A Resolution of the Town Council of the Town of Queen Creek, Maricopa County, Arizona to Implement Measures in the MAG 1997 Serious Area Particulate Plan for PM-10 and MAG 1998 Serious Area Carbon Monoxide Plan for the Maricopa County Area (including Exhibit A, 3 pages) | Town of Queen Creek | February 16, 2000 | July 25, 2002, 67 FR 48718 | Adopted by the Town of Queen Creek on June 4, 1997.
Resolution No. 6588: A Resolution of the Council of the City of Scottsdale, Maricopa County Arizona, Authorizing Implementation of Measures to Reduce Reentrained Dust Emissions from Targeted Paved Roads in the Revised PM-10 State Implementation Plan for the Salt River Area (including Exhibit A and Attachment #1—Protocol to Reduce Reentrained Dust Emissions from Targeted Paved Roads) | City of Scottsdale | October 7, 2005 | August 21, 2007, 72 FR 46564 | Adopted on December 6, 2004.
Resolution No. 5100; A Resolution of the City of Scottsdale, Maricopa County, Arizona, To Strengthen Particulate Dust Control and Air Pollution Measures in the Maricopa County Area (including Exhibit A, 10 pages) | City of Scottsdale | February 16, 2000 | July 25, 2002, 67 FR 48718 | Adopted by the City of Scottsdale on December 1, 1998.
Resolution No. 4942; Resolution of the Scottsdale City Council To Implement Measures in the MAG 1997 Serious Area Particulate Plan for PM-10 for the Maricopa County Area (including Exhibit A, 13 pages) | City of Scottsdale | February 16, 2000 | July 25, 2002, 67 FR 48718 | Adopted by the City of Scottsdale on December 1, 1997.
Resolution No. 4864; A Resolution of the City of Scottsdale, Maricopa County, Arizona, To Implement Measures in the MAG 1997 Serious Area Particulate Plan for PM-10 and MAG 1998 Serious Area Carbon Monoxide Plan for the Maricopa County Area: Stating the Council's Intent to Implement Certain Control Measures Contained in that Plan (including Exhibit A, 21 pages) | City of Scottsdale | February 16, 2000 | July 25, 2002, 67 FR 48718 | Adopted by the City of Scottsdale on August 4, 1997.
A Resolution of the Scottsdale City Council Stating the City's Intent to Work Cooperatively with Maricopa County to Control the Generation of Fugitive Dust Pollution | City of Scottsdale | May 7, 1997 | August 4, 1997, 62 FR 41856 | Adopted by the City of Scottsdale on March 31, 1997.
Resolution No. 04-163: A Resolution of the Mayor and Council of the City of Surprise, Arizona, to Implement Measures to Reduce Reentrained Dust Emissions from Targeted Paved Roads in the Revised PM-10 State Implementation Plan for the Salt River Area (including Exhibit A and Protocol) | City of Surprise | October 7, 2005 | August 21, 2007, 72 FR 46564 | Adopted on September 23, 2004.
Resolution No. 98-51; A Resolution to Implement Measures in the MAG 1997 Serious Area Particulate Plan for PM-10 for the Maricopa County Area (including Exhibit A, 6 pages) | City of Surprise | February 16, 2000 | July 25, 2002, 67 FR 48718 | Adopted by the City of Surprise on September 10, 1998.
Resolution No. 97-67; A Resolution to Implement Measures in the MAG 1997 Serious Area Particulate Plan for PM-10 for the Maricopa County Area (including Exhibit A, 3 pages) | City of Surprise | February 16, 2000 | July 25, 2002, 67 FR 48718 | Adopted by the City of Surprise on October 23, 1997.
Resolution No. 97-29; A Resolution to Implement Measures in the MAG 1997 Serious Area Particulate Plan for PM-10 and MAG 1998 Serious Area Carbon Monoxide Plan for the Maricopa County Area (including Exhibit A, 4 pages) | City of Surprise | February 16, 2000 | July 25, 2002, 67 FR 48718 | Adopted by the City of Surprise on June 12, 1997.
Resolution No. 2004.84: A Resolution of the Mayor and City Council of the City of Tempe, Arizona, to Implement Measures to Reduce Reentrained Dust Emissions from Targeted Paved Roads in the Revised PM-10 State Implementation Plan for the Salt River Area (including Exhibit A and Protocol for Reducing Reentrained Dust Emissions from Targeted Paved Roads, September 30, 2004) | City of Tempe | October 7, 2005 | August 21, 2007, 72 FR 46564 | Adopted on September 30, 2004.
Resolution No. 98.42, Resolution of the Council of the City of Tempe Implementing Measures in the MAG 1998 Serious Area Particulate Plan for PM-10 for the Maricopa County Area (including Exhibit A, 8 pages) | City of Tempe | February 16, 2000 | July 25, 2002, 67 FR 48718 | Adopted by the City of Tempe on September 10, 1998.
Resolution No. 97.71, Resolution of the Council of the City of Tempe Stating Its Intent to Implement Measures in the MAG 1997 Serious Area Particulate Plan for PM-10 for the Maricopa County Area (including Exhibit A, 6 pages) | City of Tempe | February 16, 2000 | July 25, 2002, 67 FR 48718 | Adopted by the City of Tempe on November 13, 1997.
Resolution No. 97.39; Resolution to Implement Measures in the MAG 1997 Serious Area Particulate Plan for PM-10 and MAG 1998 Serious Area Carbon Monoxide Plan for the Maricopa County Area (including Exhibit A, 18 pages) | City of Tempe | February 16, 2000 | July 25, 2002, 67 FR 48718 | Adopted by the City of Tempe on June 12, 1997.
A Resolution of the Council of the City of Tempe, Arizona, Stating Its Intent to Work Cooperatively with Maricopa County to Control the Generation of Fugitive Dust Pollution | City of Tempe | May 7, 1997 | August 4, 1997, 62 FR 41856 | Adopted by the City of Tempe on March 27, 1997.
Resolution No. 947: A Resolution of the Mayor and City Council of the City of Tolleson, Maricopa County, Arizona, Implementing Measures to Reduce Reentrained Dust Emissions from Targeted Paved Roads in the Revised PM-10 State Implementation Plan for the Salt River Area (including Exhibit A), adopted on September 28, 2004 | City of Tolleson | October 7, 2005 | August 21, 2007, 72 FR 46564 | Adopted on September 28, 2004.
Resolution No. 808, A Resolution of the Mayor and City Council of the City of Tolleson, Maricopa County, Arizona, Implementing Measures in the Maricopa Association of Governments (MAG) 1998 Serious Area Particulate Plan for PM-10 for the Maricopa County Area (including Exhibit A) | City of Tolleson | February 16, 2000 | July 25, 2002, 67 FR 48718 | Adopted by the City of Tolleson on July 28, 1998.
Resolution No. 788, A Resolution of the Mayor and City Council of the City of Tolleson, Maricopa County, Arizona, Implementing Measures in the Maricopa Association of Governments (MAG) 1997 Serious Area Particulate Plan for PM-10 and MAG 1998 Serious Area Carbon Monoxide Plan for the Maricopa County Area (including Exhibit A, 12 pages) | City of Tolleson | February 16, 2000 | July 25, 2002, 67 FR 48718 | Adopted by the City of Tolleson on June 10, 1997.
Resolution No. 1308, Resolution To Implement Measures in the MAG 1997 Serious Area Particulate Plan for PM-10 and MAG 1998 Serious Area Carbon Monoxide Plan for the Maricopa County Area (including Exhibit A, 4 pages) | Town of Wickenburg | February 16, 2000 | July 25, 2002, 67 FR 48718 | Adopted by the Town of Wickenburg on August 18, 1997.
Resolution No. 05-01: Resolution to Implement Measures to Reduce Reentrained Dust Emissions from Targeted Paved Roads in the Revised PM-10 State Implementation Plan for the Salt River Area (including Exhibit A) | Town of Youngtown | October 7, 2005 | August 21, 2007, 72 FR 46564 | Adopted on January 20, 2005.
Resolution No. 98-15: Resolution To Implement Measures in the MAG 1998 Serious Area Particulate Plan for PM-10 for the Maricopa County Area (including Exhibit A, 8 pages) | Town of Youngtown | February 16, 2000 | July 25, 2002, 67 FR 48718 | Adopted by the Town of Youngtown on August 20, 1998.
Resolution No 98-05: Resolution Stating Intent to Work Cooperatively with Maricopa County to Control the Generation of Fugitive Dust Pollution (including Exhibit A, 2 pages) | Town of Youngtown | February 16, 2000 | July 25, 2002, 67 FR 48718 | Adopted by the Town of Youngtown on February 19, 1998.
Resolution No. 97-15, Resolution To Implement Measures in the MAG 1997 Serious Particulate Plan for PM-10 and MAG 1998 Serious Area Carbon Monoxide Plan for the Maricopa County Area (including Exhibit A, 4 pages) | Town of Youngtown | February 16, 2000 | July 25, 2002, 67 FR 48718 | Adopted by the Town of Youngtown on September 18, 1997.

Table 3—EPA-Approved Arizona Statutes—Non-Regulatory
State citation | Title/subject | State submittal date | EPA approval date | Explanation
ARIZONA REVISED STATUTES
Title 15 (Education)
Chapter 12 (Community Colleges)
Article 3 (Community College District Boards)
15-1444 | Powers and duties | March 23, 1988 | August 10, 1988, 53 FR 30220; vacated; restored on January 29, 1991, 56 FR 3219 | Subsection C only. Senate Bill 1360, section 6.†
Chapter 13 (Universities and Related Institutions)
Article 2 (Arizona Board of Regents)
15-1627 | Control of vehicles and nonpedestrian devices on property of institutions under jurisdiction of board; sanctions; compliance with emissions inspection; definition | July 18, 1988 | August 10, 1988, 53 FR 30224; vacated; restored on January 29, 1991, 56 FR 3219 | House Bill 2206, section 2.†
Title 28 (Transportation)
Chapter 2 (Administration)
Article 6 (Unblended Gasoline Shortages) ¹
28-2701 | Definitions | July 18, 1988 | August 10, 1988, 53 FR 30224; vacated; restored on January 29, 1991, 56 FR 3219 | House Bill 2206, section 6.† Delayed effective date per section 29 of HB 2206.
28-2702 | Department Survey of Availability of Unblended Gasoline | July 18, 1988 | August 10, 1988, 53 FR 30224; vacated; restored on January 29, 1991, 56 FR 3219 | House Bill 2206, section 6.† Delayed effective date per section 29 of HB 2206.
28-2703 | Determination of Shortage: Declaration | July 18, 1988 | August 10, 1988, 53 FR 30224; vacated; restored on January 29, 1991, 56 FR 3219 | House Bill 2206, section 6.† Delayed effective date per section 29 of HB 2206.
28-2704 | State Set-aside Volume | July 18, 1988 | August 10, 1988, 53 FR 30224; vacated; restored on January 29, 1991, 56 FR 3219 | House Bill 2206, section 6.† Delayed effective date per section 29 of HB 2206.
28-2705 | Assignment of Set-aside | July 18, 1988 | August 10, 1988, 53 FR 30224; vacated; restored on January 29, 1991, 56 FR 3219 | House Bill 2206, section 6.† Delayed effective date per section 29 of HB 2206.
28-2706 | Price | July 18, 1988 | January 29, 1991, 56 FR 3219 | House Bill 2206, section 6. Delayed effective date per section 29 of HB 2206.
28-2707 | Application | July 18, 1988 | January 29, 1991, 56 FR 3219 | House Bill 2206, section 6. Delayed effective date per section 29 of HB 2206.
28-2708 | Appeals | July 18, 1988 | January 29, 1991, 56 FR 3219 | House Bill 2206, section 6. Delayed effective date per section 29 of HB 2206.
Chapter 7 (Certification of Title and Registration)
Article 5 (Registration Requirements Generally)
28-2153 | Registration requirement; exceptions; assessment; violation; classification | August 24, 2012 | November 5, 2012, 77 FR 66398 | Arizona Revised Statutes (West's, 2011-2012 Compact Edition). Adopted by the Arizona Department of Environmental Quality on August 24, 2012.
Title 35 (Public Finances)
Chapter 2 (Handling of Public Funds)
Article 2 (State Management of Public Monies)
35-313 | Investment of trust and treasury monies; loan of securities | August 24, 2012 | November 5, 2012, 77 FR 66398 | Arizona Revised Statutes (West's, 2011-2012 Compact Edition). Adopted by the Arizona Department of Environmental Quality on August 24, 2012.
Title 36 (Public Health and Safety)
Chapter 6
Article 8 (Air Pollution)
36-772 | Department of Health Services; Studies | July 13, 1981 | June 18, 1982, 47 FR 26382
36-775 | Powers and Duties | July 13, 1981 | June 18, 1982, 47 FR 26382
36-779.01 | Permits; Exceptions; Applications; Fees | July 13, 1981 | June 18, 1982, 47 FR 26382
36-779.02 | Grant or Denial of Applications | July 13, 1981 | June 18, 1982, 47 FR 26382
36-779.04 | Permit Nontransferable | July 13, 1981 | June 18, 1982, 47 FR 26382
36-779.05 | Expiration of Permit | July 13, 1981 | June 18, 1982, 47 FR 26382
36-779.06 | Posting of Permit | July 13, 1981 | June 18, 1982, 47 FR 26382
36-779.07 | Notice by Building Permit Agencies | July 13, 1981 | June 18, 1982, 47 FR 26382
36-780 | Classification and Reporting: Production of Records; Confidentiality of Records; Violation; Penalty | July 13, 1981 | June 18, 1982, 47 FR 26382
36-789 | Unlawful Open Burning; Exceptions; Violation; Penalty | July 13, 1981 | June 18, 1982, 47 FR 26382
36-789.02 | Defenses | July 13, 1981 | June 18, 1982, 47 FR 26382
36-790 | Limitations | July 13, 1981 | June 18, 1982, 47 FR 26382
36-791 | Preservation of Rights | July 13, 1981 | June 18, 1982, 47 FR 26382
Chapter 14 (Air Pollution)
Article 1 (State Air Pollution Control)
36-1704 | Hearing Board | July 13, 1981 | June 18, 1982, 47 FR 26382
36-1707.02 | Grant or Denial of Application | July 13, 1981 | June 18, 1982, 47 FR 26382
36-1707.03 | Appeals to Hearing Board | July 13, 1981 | June 18, 1982, 47 FR 26382
36-1707.04 | Permit Nontransferable; Exception | July 13, 1981 | June 18, 1982, 47 FR 26382
36-1707.05 | Posting of Permit | July 13, 1981 | June 18, 1982, 47 FR 26382
36-1707.06 | Notice by Building Permit Agencies | July 13, 1981 | June 18, 1982, 47 FR 26382
36-1708 | Classification and Reporting; Production of Records: Confidentiality of Records; Violation; Penalty | July 13, 1981 | June 18, 1982, 47 FR 26382
36-1717 | Motor Vehicle and Combustion Engine Emissions; Standards | August 5, 1981 | June 18, 1982, 47 FR 26382
36-1718 | Limitations | August 5, 1981 | June 18, 1982, 47 FR 26382
36-1718.01 | Preservation of Rights | August 5, 1981 | June 18, 1982, 47 FR 26382
36-1720 | Violation; Classification; Agreement Provisions | August 5, 1981 | June 18, 1982, 47 FR 26382
36-1720.01 | Defenses | July 13, 1981 | June 18, 1982, 47 FR 26382
Title 38 (Public Officers and Employees)
Chapter 1 (General Provisions)
Article 1 (Definitions)
38-101 | Definitions | August 24, 2012 | November 5, 2012, 77 FR 66398 | Arizona Revised Statutes (West's, 2011-2012 Compact Edition). Adopted by the Arizona Department of Environmental Quality on August 24, 2012.
Article 8 (Conflict of Interest of Officers and Employees)
38-501 | Application of article | August 24, 2012 | November 5, 2012, 77 FR 66398 | Arizona Revised Statutes (West's, 2011-2012 Compact Edition). Adopted by the Arizona Department of Environmental Quality on August 24, 2012.
38-502 | Definitions | August 24, 2012 | November 5, 2012, 77 FR 66398 | Arizona Revised Statutes (West's, 2011-2012 Compact Edition). Adopted by the Arizona Department of Environmental Quality on August 24, 2012.
38-503 | Conflict of interest; exemptions; employment prohibition | August 24, 2012 | November 5, 2012, 77 FR 66398 | Arizona Revised Statutes (West's, 2011-2012 Compact Edition). Adopted by the Arizona Department of Environmental Quality on August 24, 2012.
38-504 | Prohibited acts | August 24, 2012 | November 5, 2012, 77 FR 66398 | Arizona Revised Statutes (West's, 2011-2012 Compact Edition). Adopted by the Arizona Department of Environmental Quality on August 24, 2012.
38-505 | Additional income prohibited for services | August 24, 2012 | November 5, 2012, 77 FR 66398 | Arizona Revised Statutes (West's, 2011-2012 Compact Edition). Adopted by the Arizona Department of Environmental Quality on August 24, 2012.
38-506 | Remedies | August 24, 2012 | November 5, 2012, 77 FR 66398 | Arizona Revised Statutes (West's, 2011-2012 Compact Edition). Adopted by the Arizona Department of Environmental Quality on August 24, 2012.
38-507 | Opinions of the attorney general, county attorneys, city or town attorneys and house and senate ethics committee | August 24, 2012 | November 5, 2012, 77 FR 66398 | Arizona Revised Statutes (West's, 2011-2012 Compact Edition). Adopted by the Arizona Department of Environmental Quality on August 24, 2012.
38-508 | Authority of public officers and employees to act | August 24, 2012 | November 5, 2012, 77 FR 66398 | Arizona Revised Statutes (West's, 2011-2012 Compact Edition). Adopted by the Arizona Department of Environmental Quality on August 24, 2012.
38-509 | Filing of disclosures | August 24, 2012 | November 5, 2012, 77 FR 66398 | Arizona Revised Statutes (West's, 2011-2012 Compact Edition). Adopted by the Arizona Department of Environmental Quality on August 24, 2012.
38-510 | Penalties | August 24, 2012 | November 5, 2012, 77 FR 66398 | Arizona Revised Statutes (West's, 2011-2012 Compact Edition). Adopted by the Arizona Department of Environmental Quality on August 24, 2012.
38-511 | Cancellation of political subdivision and state contracts; definition | August 24, 2012 | November 5, 2012, 77 FR 66398 | Arizona Revised Statutes (West's, 2011-2012 Compact Edition). Adopted by the Arizona Department of Environmental Quality on August 24, 2012.
Title 41 (State Government)
Chapter 1 (Executive Officers)
Article 1 (The Governor)
41-101.03 | State Employee Ride Sharing Program; Designated State Agency; Fund | July 18, 1988 | August 10, 1988, 53 FR 30224; vacated; restored on January 29, 1991, 56 FR 3219 | House Bill 2206, section 7.
Chapter 4 (Department of Administration and Personnel Board)
Article 7 (Management of State Properties)
41-796.01 | Adjusted work hours | September 1, 1999 | June 8, 2000, 65 FR 36353 | House Bill 2189, section 3.
Chapter 15 (Department of Weights and Measures)
Article 2 (State Administration of Weights and Measures)
41-2065 | Powers and Duties | June 11, 1991 | March 9, 1992, 57 FR 8268 | House Bill 2181, section 1.
41-2066 | Enforcement powers of the director and inspectors | July 18, 1988 | August 10, 1988, 53 FR 30224; vacated; restored on January 29, 1991, 56 FR 3219 | House Bill 2206, section 10.>†
41-2066(A)(2) | Enforcement powers of the director and inspectors | January 22, 2004 | March 4, 2004, 69 FR 10161 | Included in submittal entitled “Supplement to Cleaner Burning Gasoline Program State Implementation Plan Revision.”
Title 49 (The Environment)
Chapter 1 (General Provisions)
Article 1 (Department of Environmental Quality)
49-103 | Department employees; legal counsel | August 24, 2012 | November 5, 2012, 77 FR 66398 | Arizona Revised Statutes (West's, 2011-2012 Compact Edition). Adopted by the Arizona Department of Environmental Quality on August 24, 2012.
49-104, subsections (A)(2), (A)(4), (B)(3), and (B)(5) only | Powers and duties of the department and director | August 24, 2012 | November 5, 2012, 77 FR 66398 | Arizona Revised Statutes (West's, 2011-2012 Compact Edition). Adopted by the Arizona Department of Environmental Quality on August 24, 2012.
49-106 | Statewide application of rules | August 24, 2012 | November 5, 2012, 77 FR 66398 | Arizona Revised Statutes (West's, 2011-2012 Compact Edition). Adopted by the Arizona Department of Environmental Quality on August 24, 2012.
Chapter 3 (Air Quality)
Article 1 (General Provisions)
49-402 | State and county control | October 29, 2012, and supplemented on September 6, 2013 | September 23, 2014, 79 FR 56655 | West's Arizona Revised Statutes, 2012-2013 Compact Edition.
49-403 | Air Quality Compliance Advisory Committee | July 18, 1988 | August 10, 1988, 53 FR 30224; vacated; restored on January 29, 1991, 56 FR 3219 | House Bill 2206, section 15.†
49-404 | State implementation plan | September 1, 1999 | June 8, 2000, 65 FR 36353 | House Bill 2189, section 42.
49-404 | Department of transportation pilot project on oxygenated fuels, compressed natural gas and liquid propane gas; reports | July 18, 1988 | August 10, 1988, 53 FR 30224; vacated; restored on January 29, 1991, 56 FR 3219 | House Bill 2206, section 15.†
49-405 | Attainment area designations | August 24, 2012 | November 5, 2012, 77 FR 66398 | Arizona Revised Statutes (West's, 2011-2012 Compact Edition). Adopted by the Arizona Department of Environmental Quality on August 24, 2012.
49-405 | Oxygenated Fuel Fleet Studies Reporting Requirements | July 18, 1988 | August 10, 1988, 53 FR 30224; vacated; restored on January 29, 1991, 56 FR 3219 | House Bill 2206, section 15.>†
49-406 | Nonattainment area plan | August 11, 1998 | June 8, 2000, 65 FR 36353 | Senate Bill 1427, section 15.
49-406 | Clean burning reporting requirements; definitions | July 18, 1988 | August 10, 1988, 53 FR 30224; vacated; restored on January 29, 1991, 56 FR 3219 | House Bill 2206, section 15.†
Article 2 (State Air Pollution Control)
49-421 | Definitions | August 24, 2012 | November 5, 2012, 77 FR 66398 | Arizona Revised Statutes (West's, 2011-2012 Compact Edition). Adopted by the Arizona Department of Environmental Quality on August 24, 2012.
49-422 | Powers and duties | August 24, 2012 | November 5, 2012, 77 FR 66398 | Arizona Revised Statutes (West's, 2011-2012 Compact Edition). Adopted by the Arizona Department of Environmental Quality on August 24, 2012.
49-424 | Duties of department | August 24, 2012 | November 5, 2012, 77 FR 66398 | Arizona Revised Statutes (West's, 2011-2012 Compact Edition). Adopted by the Arizona Department of Environmental Quality on August 24, 2012.
49-425 | Rules; hearing | August 24, 2012 | November 5, 2012, 77 FR 66398 | Arizona Revised Statutes (West's, 2011-2012 Compact Edition). Adopted by the Arizona Department of Environmental Quality on August 24, 2012.
49-426, excluding paragraphs D, E.1, F, I, J, and M | Permits; duties of director; exceptions; applications; objections; fees | July 28, 2011, and supplemented on May 16, 2014 | September 23, 2014, 79 FR 56655 | West's Arizona Revised Statutes, 2012-2013 Compact Edition.
49-433 | Special inspection warrant | August 24, 2012 | November 5, 2012, 77 FR 66398 | Arizona Revised Statutes (West's, 2011-2012 Compact Edition). Adopted by the Arizona Department of Environmental Quality on August 24, 2012.
49-435 | Hearings on orders of abatement | August 24, 2012 | November 5, 2012, 77 FR 66398 | Arizona Revised Statutes (West's, 2011-2012 Compact Edition). Adopted by the Arizona Department of Environmental Quality on August 24, 2012.
49-441 | Suspension and revocation of conditional order | August 24, 2012 | November 5, 2012, 77 FR 66398 | Arizona Revised Statutes (West's, 2011-2012 Compact Edition). Adopted by the Arizona Department of Environmental Quality on August 24, 2012.
49-455, subsections (A) and (B)(2) only | Permit administration fund | August 24, 2012 | November 5, 2012, 77 FR 66398 | Arizona Revised Statutes (West's, 2011-2012 Compact Edition). Adopted by the Arizona Department of Environmental Quality on August 24, 2012.
49-460 | Violations; production of records | August 24, 2012 | November 5, 2012, 77 FR 66398 | Arizona Revised Statutes (West's, 2011-2012 Compact Edition). Adopted by the Arizona Department of Environmental Quality on August 24, 2012.
49-461 | Violations; order of abatement | August 24, 2012 | November 5, 2012, 77 FR 66398 | Arizona Revised Statutes (West's, 2011-2012 Compact Edition). Adopted by the Arizona Department of Environmental Quality on August 24, 2012.
49-462 | Violations; injunctive relief | August 24, 2012 | November 5, 2012, 77 FR 66398 | Arizona Revised Statutes (West's, 2011-2012 Compact Edition). Adopted by the Arizona Department of Environmental Quality on August 24, 2012.
49-463 | Violations; civil penalties | August 24, 2012 | November 5, 2012, 77 FR 66398 | Arizona Revised Statutes (West's, 2011-2012 Compact Edition). Adopted by the Arizona Department of Environmental Quality on August 24, 2012.
49-465 | Air pollution emergency | August 24, 2012 | November 5, 2012, 77 FR 66398 | Arizona Revised Statutes (West's, 2011-2012 Compact Edition). Adopted by the Arizona Department of Environmental Quality on August 24, 2012.
Article 3 (County Air Pollution Control)
49-471 | Definitions | August 24, 2012 | November 5, 2012, 77 FR 66398 | Arizona Revised Statutes (West's, 2011-2012 Compact Edition). Adopted by the Arizona Department of Environmental Quality on August 24, 2012.
49-473 | Board of supervisors | August 24, 2012 | November 5, 2012, 77 FR 66398 | Arizona Revised Statutes (West's, 2011-2012 Compact Edition). Adopted by the Arizona Department of Environmental Quality on August 24, 2012.
49-474 | County control boards | August 24, 2012 | November 5, 2012, 77 FR 66398 | Arizona Revised Statutes (West's, 2011-2012 Compact Edition). Adopted by the Arizona Department of Environmental Quality on August 24, 2012.
49-476.01 | Monitoring | August 24, 2012 | November 5, 2012, 77 FR 66398 | Arizona Revised Statutes (West's, 2011-2012 Compact Edition). Adopted by the Arizona Department of Environmental Quality on August 24, 2012.
49-478 | Hearing board | August 24, 2012 | November 5, 2012, 77 FR 66398 | Arizona Revised Statutes (West's, 2011-2012 Compact Edition). Adopted by the Arizona Department of Environmental Quality on August 24, 2012.
49-479 | Rules; hearing | August 24, 2012 | November 5, 2012, 77 FR 66398 | Arizona Revised Statutes (West's, 2011-2012 Compact Edition). Adopted by the Arizona Department of Environmental Quality on August 24, 2012.
49-480.02 | Appeals of permit actions | August 24, 2012 | November 5, 2012, 77 FR 66398 | Arizona Revised Statutes (West's, 2011-2012 Compact Edition). Adopted by the Arizona Department of Environmental Quality on August 24, 2012.
49-482 | Appeals to hearing board | August 24, 2012 | November 5, 2012, 77 FR 66398 | Arizona Revised Statutes (West's, 2011-2012 Compact Edition). Adopted by the Arizona Department of Environmental Quality on August 24, 2012.
49-488 | Special inspection warrant | August 24, 2012 | November 5, 2012, 77 FR 66398 | Arizona Revised Statutes (West's, 2011-2012 Compact Edition). Adopted by the Arizona Department of Environmental Quality on August 24, 2012.
49-490 | Hearings on orders of abatement | August 24, 2012 | November 5, 2012, 77 FR 66398 | Arizona Revised Statutes (West's, 2011-2012 Compact Edition). Adopted by the Arizona Department of Environmental Quality on August 24, 2012.
49-495 | Suspension and revocation of conditional order | August 24, 2012 | November 5, 2012, 77 FR 66398 | Arizona Revised Statutes (West's, 2011-2012 Compact Edition). Adopted by the Arizona Department of Environmental Quality on August 24, 2012.
49-502 | Violation; classification | August 24, 2012 | November 5, 2012, 77 FR 66398 | Arizona Revised Statutes (West's, 2011-2012 Compact Edition). Adopted by the Arizona Department of Environmental Quality on August 24, 2012.
49-510 | Violations; production of records | August 24, 2012 | November 5, 2012, 77 FR 66398 | Arizona Revised Statutes (West's, 2011-2012 Compact Edition). Adopted by the Arizona Department of Environmental Quality on August 24, 2012.
49-511 | Violations; order of abatement | August 24, 2012 | November 5, 2012, 77 FR 66398 | Arizona Revised Statutes (West's, 2011-2012 Compact Edition). Adopted by the Arizona Department of Environmental Quality on August 24, 2012.
49-512 | Violations; injunctive relief | August 24, 2012 | November 5, 2012, 77 FR 66398 | Arizona Revised Statutes (West's, 2011-2012 Compact Edition). Adopted by the Arizona Department of Environmental Quality on August 24, 2012.
49-513 | Violations; civil penalties | August 24, 2012 | November 5, 2012, 77 FR 66398 | Arizona Revised Statutes (West's, 2011-2012 Compact Edition). Adopted by the Arizona Department of Environmental Quality on August 24, 2012.
† Vacated by the U.S. Court of Appeals for the Ninth Circuit in Delaney v. EPA, 898 F.2d 687 (9th Cir. 1990). Restored on January 29, 1991, 56 FR 3219.
¹ Approved as Chapter 22 (Unblended Gasoline Shortages), Article 1 (General Provisions).

[FR Doc. 2016-27685 Filed 11-22-16; 8:45 am]

BILLING CODE 6560-50-P